DEPARTMENT OF HOUSING AND URBAN DEVELOPMENT

[Docket No. FR-4644-N-08]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V Information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Mr. Jeff Holste, Military Programs, U.S. Army Corps of Engineers, Installation Support Center, Planning Branch, 441 G Street, Washington, DC 20314-1000; (202) 761-5737; (These are not toll-free numbers).

Dated: February 15, 2001.
John D. Garrity,
Director, Office of Special Needs Assistance Programs.

TITLE V, FEDERAL SURPLUS PROPERTY PROGRAM FEDERAL REGISTER REPORT FOR 2/23/01

Suitable/Available Properties

Buildings (by State)

Alabama

Bldg. 60101

Shell Army Heliport

Ft. Rucker Co: Dale AL 36362-5000

Landholding Agency: Army

Property Number: 21199520152

Status: Unutilized

Comment: 6082 sq. ft., 1-story, most recent use—airfield fire station, off-site use only.

Bldg. 60103

Shell Army Heliport

Ft. Rucker Co: Dale AL 36362-5000

Landholding Agency: Army

Property Number: 21199520154

Status: Unutilized

Comment: 12516 sq. ft., 2-story, most recent use—admin., off-site use only.

Bldg. 60110

Shell Army Heliport

Ft. Rucker Co: Dale AL 36362-5000

Landholding Agency: Army

Property Number: 21199520155

Status: Unutilized

Comment: 8319 sq. ft., 1-story, most recent use—admin., off-site use only.

Bldg. 60113

Shell Army Heliport

Ft. Rucker Co: Dale AL 36362-5000

Landholding Agency: Army

Property Number: 21199520156

Status: Unutilized

Comment: 4000 sq. ft., 1-story, most recent use—admin., off-site use only.

Alaska

Fort Richardson

Fort Richardson Co: AK 99505-

Landholding Agency: Army

Property Number: 21199930118

Status: Excess

Comment: 3230 sq. ft., most recent use—admin., off-site use only.

Bldg. 08100

Fort Richardson

Fort Richardson Co: AK 99505-6500

Landholding Agency: Army

Property Number: 21200020157

Status: Unutilized

Comment: 4688 sq. ft., concrete, most recent use—hazard bldg., off-site use only.

Bldgs. 09100, 09104-09106

Fort Richardson

Fort Richardson Co: AK 99505-6500

Landholding Agency: Army

Property Number: 21200020158

Status: Unutilized

Comment: various sq. ft., concrete, most recent use—hazard bldg., off-site use only.

5 Bldgs.

Fort Richardson

09108, 09110-09112, 09114

Fort Richardson Co: AK 99505-6500

Landholding Agency: Army

Property Number: 21200020159

Status: Unutilized

Comment: various sq. ft., concrete, most recent use—hazard bldg., off-site use only.

Bldgs. 09128, 09129

Fort Richardson

Fort Richardson Co: AK 99505-6500

Landholding Agency: Army

Property Number: 21200020160

Status: Unutilized

Comment: various sq. ft., concrete, most recent use—hazard bldg., off-site use only.

Bldgs. 09151, 09155, 09156

Fort Richardson

Ft. Richardson Co: AK 99505-6500

Landholding Agency: Army

Property Number: 21200020161

Status: Unutilized

Comment: various sq. ft., concrete, most recent use—hazard bldg., off-site use only.

Bldg. 09158

Fort Richardson

Ft. Richardson Co: AK 99505-6500

Landholding Agency: Army

Property Number: 21200020162

Status: Unutilized

Comment: 672 sq. ft., most recent use—storage shed, off-site use only.

Bldgs. 09160-09162

Fort Richardson

Ft. Richardson Co: AK 99505-6500

Landholding Agency: Army

Property Number: 21200020163

Status: Unutilized

Comment: 11520 sq. ft., concrete, most recent use—NCO-ENL FH, off-site use only.

Bldgs. 09164, 09165

Fort Richardson

Ft. Richardson Co: AK 99505-6500

Landholding Agency: Army

Property Number: 21200020164

Status: Unutilized

Comment: 2304 & 2880 sq. ft., most recent use—storage, off-site use only.

Bldg. 10100

Fort Richardson

Ft. Richardson Co: AK 99505-6500

Landholding Agency: Army

Property Number: 21200020165

Status: Unutilized

Comment: 4688 sq. ft., concrete, most recent use—hazard bldg., off-site use only.

Bldg. 00390

Fort Richardson

Ft. Richardson Co: AK 99505-

Landholding Agency: Army

Property Number: 21200030067

Status: Excess

Comment: 13,632 sq. ft., off-site use only.

Bldgs. 01200, 01202

Fort Richardson

Ft. Richardson Co: AK 99505-

Landholding Agency: Army

Property Number: 21200030068

Status: Excess

Comment: 4508 & 6366 sq. ft., most recent use—hazard bldg., off-site use only.

Bldg. 01204

Fort Richardson

Ft. Richardson Co: AK 99505-

Landholding Agency: Army

Property Number: 21200030069

Status: Excess

Comment: 5578 sq. ft., most recent use—VOQ transient, off-site use only.

Bldgs. 01205-01207

Fort Richardson

Ft. Richardson Co: AK 99505-

Landholding Agency: Army

Property Number: 21200030070

Status: Excess

Comment: various sq. ft., most recent use—hazard bldg., off-site use only.

Bldgs. 01208, 01210, 01212

Fort Richardson

Ft. Richardson Co: AK 99505-

Landholding Agency: Army

Property Number: 21200030071

Status: Excess

Comment: various sq. ft., most recent use—hazard bldg., off-site use only.

Bldgs. 01213, 01214

Fort Richardson

Ft. Richardson Co: AK 99505-

Landholding Agency: Army

Property Number: 21200030072

Status: Excess

Comment: 11964 & 13740 sq. ft., most recent use—transient UPH, off-site use only.

Bldgs. 01218, 01230

Fort Richardson

Ft. Richardson Co: AK 99505-

Landholding Agency: Army

Property Number: 21200030073

Status: Excess

Comment: 480 & 188 sq. ft., most recent use—hazard bldgs., off-site use only.

Bldgs. 01231, 01232

Fort Richardson

Ft. Richardson Co: AK 99505-

Landholding Agency: Army

Property Number: 21200030074

Status: Excess

Comment: 458 & 4260 sq. ft., most recent use—hazard bldgs., off-site use only.

Bldg. 01234

Fort Richardson

Ft. Richardson Co: AK 99505-

Landholding Agency: Army

Property Number: 21200030075

Status: Excess

Comment: 615 sq. ft., most recent use—admin., off-site use only.

Bldg. 01237

Fort Richardson

Ft. Richardson Co: AK 99505-

Landholding Agency: Army

Property Number: 21200030076

Status: Excess

Comment: 408 sq. ft., most recent use—fuel/pol bldg., off-site use only.

Bldg. 01272

Fort Richardson

Ft. Richardson Co: AK 99505-

Landholding Agency: Army

Property Number: 21200030077

Status: Excess

Comment: 308 sq. ft., most recent use—storage, off-site use only.

Bldg. 03002

Fort Richardson

Ft. Richardson Co: AK 99505-

Landholding Agency: Army

Property Number: 21200030078

Status: Excess

Comment: 7480 sq. ft., most recent use—storage, off-site use only.

Bldg. 03725

Fort Richardson

Ft. Richardson Co: AK 99505-

Landholding Agency: Army

Property Number: 21200030079

Status: Excess

Comment: 7200 sq. ft., most recent use—veh. maint. shop, off-site use only.

Bldg. 08109

Fort Richardson

Ft. Richardson Co: AK 99505-

Landholding Agency: Army

Property Number: 21200030080

Status: Excess

Comment: 1920 sq. ft., most recent use—storage, off-site use only.

Bldg. 21001

Fort Richardson

Ft. Richardson Co: AK 99505-

Landholding Agency: Army

Property Number: 21200030081

Status: Excess

Comment: 3200 sq. ft., most recent use—family housing, off-site use only.

Bldg. 22001

Fort Richardson

Ft. Richardson Co: AK 99505-

Landholding Agency: Army

Property Number: 21200030082

Status: Excess

Comment: 1448 sq. ft., most recent use—family housing, off-site use only.

Bldg. 22002

Fort Richardson

Ft. Richardson Co: AK 99505-

Landholding Agency: Army

Property Number: 21200030083

Status: Excess

Comment: 1508 sq. ft., most recent use—family housing, off-site use only.

Arizona

Bldg. 30012, Fort Huachuca

Sierra Vista Co: Cochise AZ 85635-

Landholding Agency: Army

Property Number: 21199310298

Status: Excess

Comment: 237 sq. ft., 1-story block, most recent use—storage.

Bldg. S-306

Yuma Proving Ground

Yuma Co: Yuma AZ 85365-9104

Landholding Agency: Army

Property Number: 21199420346

Status: Unutilized

Comment: 4103 sq. ft., 2-story, needs major rehab, off-site use only.

Bldg. S-503, Yuma Proving Ground

Yuma Co: Yuma AZ 85365-9104

Landholding Agency: Army

Property Number: 21199520073

Status: Underutilized

Comment: 3789 sq. ft., 2-story, major structural changes required to meet floor loading & fire code requirements, presence of asbestos, off-site use only.

5 Bldgs.

Fort Huachuca

Sierra Vista Co: Cochise AZ 85635-

Location: 44101, 44102, 44124, 44125, 44201

Landholding Agency: Army

Property Number: 21199840129

Status: Excess

Comment: various sq. ft. & bdrm units, presence of asbestos/lead paint, most recent use—family housing, off-site use only.

Bldgs. 12521, 13572

Fort Huachuca

Sierra Vista Co: Cochise AZ 85635-

Landholding Agency: Army

Property Number: 21199920183

Status: Unutilized

Comment: 448 sq. ft. & 54 sq. ft., off-site use only.

Bldgs. 43101-43109

Fort Huachuca

Sierra Vista Co: Cochise AZ 85635-

Landholding Agency: Army

Property Number: 21199940001

Status: Excess

Comment: 969 sq. ft., per unit, 2-units per bldg., wood/stucco, presence of asbestos/lead paint, most recent use—housing, off-site use only.

Bldg. 72908

Fort Huachuca

Sierra Vista Co: Cochise AZ 85635-

Landholding Agency: Army

Property Number: 21200010079

Status: Unutilized

Comment: 16,491 sq. ft., presence of asbestos/lead paint, most recent use—veh. maint., off-site use only.

Bldg. 63001

Fort Huachuca

Sierra Vista Co: Cochise AZ 85635-

Landholding Agency: Army

Property Number: 21200010080

Status: Unutilized

Comment: 2280 sq. ft., presence of asbestos/lead paint, most recent use—admin., off-site use only.

8 Bldgs.

Fort Huachuca

Sierra Vista Co: Cochise AZ 85635-

Location: 13570, 15701, 70650, 70651, 87848, 87850, 87851, 87853

Landholding Agency: Army

Property Number: 21200010081

Status: Unutilized

Comment: various sq. ft., presence of asbestos/lead paint, most recent use—storage, off-site use only.

2 Bldgs.

Fort Huachuca

Sierra Vista Co: Cochise AZ 85635-

Location: 15542, 15546

Landholding Agency: Army

Property Number: 21200010082

Status: Unutilized

Comment: 552 & 400 sq. ft., presence of asbestos/lead paint, most recent use—restrooms, off-site use only.

2 Bldgs.

Fort Huachuca

Sierra Vista Co: Cochise AZ 85635-

Location: 15544, 15552

Landholding Agency: Army

Property Number: 21200010083

Status: Unutilized

Comment: 9713 & 2895 sq. ft., presence of asbestos/lead paint, most recent use—classrooms, off-site use only.

Bldg. 15543

Fort Huachuca

Sierra Vista Co: Cochise AZ 85635-

Landholding Agency: Army

Property Number: 21200010084

Status: Unutilized

Comment: 416 sq. ft., presence of asbestos/lead paint, most recent use—rec. shelter, off-site use only.

7 Bldgs.

Fort Huachuca

Sierra Vista Co: Cochise AZ 85635-

Location: 15550, 70108, 70109, 84004, 84107, 84108, 87852

Landholding Agency: Army

Property Number: 21200010085

Status: Unutilized

Comment: various sq. ft., presence of asbestos/lead paint, most recent use—admin., off-site use only.

34 Bldgs.

Fort Huachuca

Location: 62001-62022, 64001-64012

Sierra Vista Co: Cochise AZ 85635-

Landholding Agency: Army

Property Number: 21200020166

Status: Unutilized

Comment: 658 & 587 sq. ft., presence of asbestos/lead paint, most recent use—one bedroom family housing, off-site use only.

California

Bldg. 104

Presidio of Monterey

Monterey Co: CA 93944-

Landholding Agency: Army

Property Number: 21199910088

Status: Unutilized

Comment: 8039 sq. ft., presence of asbestos/lead paint, most recent use—office, off-site use only.

Bldg. 106

Presidio of Monterey

Monterey Co: CA 93944-

Landholding Agency: Army

Property Number: 21199910089

Status: Unutilized

Comment: 1950 sq. ft., presence of asbestos/lead paint, most recent use—office/storage, off-site use only.

Bldg. 125

Presidio of Monterey

Monterey Co: CA 93944-

Landholding Agency: Army

Property Number: 21199910090

Status: Unutilized

Comment: 371 sq. ft., presence of asbestos/lead paint, most recent use—office, off-site use only.

Bldg. 340

Presidio of Monterey

Monterey Co: CA 93944-

Landholding Agency: Army

Property Number: 21199910093

Status: Unutilized

Comment: 6500 sq. ft., presence of asbestos/lead paint, most recent use—office, off-site use only.

Bldg. 341

Presidio of Monterey

Monterey Co: CA 93944-

Landholding Agency: Army

Property Number: 21199910094

Status: Unutilized

Comment: 371 sq. ft., presence of asbestos/lead paint, most recent use—office, off-site use only.

Bldg. 4214

Presidio of Monterey

Monterey Co: CA 93944-

Landholding Agency: Army

Property Number: 21199910095

Status: Unutilized

Comment: 3168 sq. ft., presence of asbestos/lead paint, most recent use—office, off-site use only.

Bldgs. 204-207, 517

Presidio of Monterey

Monterey Co: CA 93944-5006

Landholding Agency: Army

Property Number: 21200020167

Status: Unutilized

Comment: 4780 & 10950 sq. ft., presence of asbestos/lead paint, most recent use—classroom/admin/storage, off-site use only.

Bldg. S251

Army Reserve

6357 Woodly Ave.

Van Nuys Co: Los Angeles CA 91406-6496

Landholding Agency: Army

Property Number: 21200040043

Status: Excess

Comment: 800 sq. ft., needs repair, presence of asbestos, most recent use—storage, off-site use only.

Connecticut

Bldg. DKL12

USARC Middletown

Middletown Co: Middlesex CT 06457-

Landholding Agency: Army

Property Number: 21200030084

Status: Unutilized

Comment: 39 sq. ft., possible asbestos/lead paint, needs rehab, most recent use—sentry station, off-site use only.

Georgia

Bldg. 2285

Fort Benning

Fort Benning Co: Muscogee GA 31905-

Landholding Agency: Army

Property Number: 21199011704

Status: Unutilized

Comment: 4574 sq. ft., most recent use—clinic; needs substantial rehabilitation; 1 floor.

Bldg. 1252, Fort Benning

Ft. Benning Co: Muscogee GA 31905-

Landholding Agency: Army

Property Number: 21199220694

Status: Unutilized

Comment: 583 sq. ft., 1 story, most recent use—storehouse, needs major rehab, off-site removal only.

Bldg. 4881, Fort Benning

Ft. Benning Co: Muscogee GA 31905-

Landholding Agency: Army

Property Number: 21199220707

Status: Unutilized

Comment: 2449 sq. ft., 1 story, most recent use—storehouse, need repairs, off-site removal only.

Bldg. 4963, Fort Benning

Ft. Benning Co: Muscogee GA 31905-

Landholding Agency: Army

Property Number: 21199220710

Status: Unutilized

Comment: 6077 sq. ft., 1 story, most recent use—storehouse, need repairs, off-site removal only.

Bldg. 2396, Fort Benning

Ft. Benning Co: Muscogee GA 31905-

Landholding Agency: Army

Property Number: 21199220712

Status: Unutilized

Comment: 9786 sq. ft., 1 story, most recent use—dining facility, needs major rehab, off-site removal only.

Bldg. 4882, Fort Benning

Ft. Benning Co: Muscogee GA 31905-

Landholding Agency: Army

Property Number: 21199220727

Status: Unutilized

Comment: 6077 sq. ft., 1 story, most recent use—storage, need repairs, off-site removal only.

Bldg. 4967, Fort Benning

Ft. Benning Co: Muscogee GA 31905-

Landholding Agency: Army

Property Number: 21199220728

Status: Unutilized

Comment: 6077 sq. ft., 1 story, most recent use—storage, need repairs, off-site removal only.

Bldg. 4977, Fort Benning

Ft. Benning Co: Muscogee GA 31905-

Landholding Agency: Army

Property Number: 21199220736

Status: Unutilized

Comment: 192 sq. ft., 1 story, most recent use—offices, need repairs, off-site removal only.

Bldg. 4944, Fort Benning

Ft. Benning Co: Muscogee GA 31905-

Landholding Agency: Army

Property Number: 21199220747

Status: Unutilized

Comment: 6400 sq. ft., 1 story, most recent use—vehicle maintenance shop, need repairs, off-site removal only.

Bldg. 4960, Fort Benning

Ft. Benning Co: Muscogee GA 31905-

Landholding Agency: Army

Property Number: 21199220752

Status: Unutilized

Comment: 3335 sq. ft., 1 story, most recent use—vehicle maintenance shop, off-site removal only.

Bldg. 4969, Fort Benning

Ft. Benning Co: Muscogee GA 31905-

Landholding Agency: Army

Property Number: 21199220753

Status: Unutilized

Comment: 8416 sq. ft., 1 story, most recent use—vehicle maintenance shop, off-site removal only.

Bldg. 4884, Fort Benning

Ft. Benning Co: Muscogee GA 31905-

Landholding Agency: Army

Property Number: 21199220762

Status: Unutilized

Comment: 2000 sq. ft., 1 story, most recent use—headquarters bldg., need repairs, off-site removal only.

Bldg. 4964, Fort Benning

Ft. Benning Co: Muscogee GA 31905-

Landholding Agency: Army

Property Number: 21199220763

Status: Unutilized

Comment: 2000 sq. ft., 1 story, most recent use—headquarters bldg., need repairs, off-site removal only.

Bldg. 4966, Fort Benning

Ft. Benning Co: Muscogee GA 31905-

Landholding Agency: Army

Property Number: 21199220764

Status: Unutilized

Comment: 2000 sq. ft., 1 story, most recent use—headquarters bldg., need repairs, off-site removal only.

Bldg. 4965, Fort Benning

Ft. Benning Co: Muscogee GA 31905-

Landholding Agency: Army

Property Number: 21199220769

Status: Unutilized

Comment: 7713 sq. ft., 1 story, most recent use—supply bldg., need repairs, off-site removal only.

Bldg. 4945, Fort Benning

Ft. Benning Co: Muscogee GA 31905-

Landholding Agency: Army

Property Number: 21199220779

Status: Unutilized

Comment: 220 sq. ft., 1 story, most recent use—gas station, needs major rehab, off-site removal only.

Bldg. 4979, Fort Benning

Ft. Benning Co: Muscogee GA 31905-

Landholding Agency: Army

Property Number: 21199220780

Status: Unutilized

Comment: 400 sq. ft., 1 story, most recent use—oil house, need repairs, off-site removal only.

Bldg. 4023, Fort Benning

Ft. Benning Co: Muscogee GA 31905-

Landholding Agency: Army

Property Number: 21199310461

Status: Unutilized

Comment: 2269 sq. ft., 1-story, needs rehab, most recent use—maintenance shop, off-site use only.

Bldg. 4024, Fort Benning

Ft. Benning Co: Muscogee GA 31905-

Landholding Agency: Army

Property Number: 21199310462

Status: Unutilized

Comment: 3281 sq. ft., 1-story, needs rehab, most recent use—maintenance shop, off-site use only.

Bldg 4067, Fort Benning

Ft. Benning Co: Muscogee GA 31905-

Landholding Agency: Army

Property Number: 21199310465

Status: Unutilized

Comment: 4406 sq. ft., 1-story, needs rehab, most recent use—admin. off-site use only.

Bldg. 11813

Fort Gordon

Fort Gordon Co: Richmond GA 30905-

Landholding Agency: Army

Property Number: 21199410269

Status: Unutilized

Comment: 70 sq. ft., 1 story, metal, needs rehab, most recent use—storage, off-site use only.

Bldg. 21314

Fort Gordon

Fort Gordon Co: Richmond GA 30905-

Landholding Agency: Army

Property Number: 21199410270

Status: Unutilized

Comment: 85 sq. ft., 1 story, needs rehab, most recent use—storage, off-site use only.

Bldg. 12809

Fort Gordon

Fort Gordon Co: Richmond GA 30905-

Landholding Agency: Army

Property Number: 21199410272

Status: Unutilized

Comment: 2788 sq. ft., 1 story, wood, needs rehab., most recent use—maintenance shop, off-site use only.

Bldg. 10306

Fort Gordon

Fort Gordon Co: Richmond GA 30905-

Landholding Agency: Army

Property Number: 21199410273

Status: Unutilized

Comment: 195 sq. ft., 1 story, wood, most recent use—oil storage shed, off-site use only.

Bldg. 4051, Fort Benning

Ft. Benning Co: Muscogee GA 31905-

Landholding Agency: Army

Property Number: 21199520175

Status: Unutilized

Comment: 967 sq. ft., 1-story, needs rehab, most recent use—storage, off-site use only.

Bldg. 2141

Fort Gordon

Fort Gordon Co: Richmond GA 30905-

Landholding Agency: Army

Property Number: 21199610655

Status: Unutilized

Comment: 2283 sq. ft., needs repair, most recent use—office, off-site use only.

Bldg. 322

Fort Benning

Ft. Benning Co: Muscogee GA 31905-

Landholding Agency: Army

Property Number: 21199720156

Status: Unutilized

Comment: 9600 sq. ft., needs rehab, most recent use—admin., off-site use only.

Bldg. 1737

Fort Benning

Ft. Benning Co: Muscogee GA 31905-

Landholding Agency: Army

Property Number: 21199720161

Status: Unutilized

Comment: 1500 sq. ft., needs rehab, most recent use—storage, off-site use only.

Bldg. 2593

Fort Benning

Ft. Benning Co: Muscogee GA 31905-

Landholding Agency: Army

Property Number: 21199720167

Status: Unutilized

Comment: 13644 sq. ft., needs rehab, most recent use—parachute shop, off-site use only.

Bldg. 2595

Fort Benning

Ft. Benning Co: Muscogee GA 31905-

Landholding Agency: Army

Property Number: 21199720168

Status: Unutilized

Comment: 3356 sq. ft., needs rehab, most recent use—chapel, off-site use only.

Bldgs. 2865, 2869, 2872

Fort Benning

Ft. Benning Co: Muscogee GA 31905-

Landholding Agency: Army

Property Number: 21199720169

Status: Unutilized

Comment: approx. 1100 sq. ft. each, needs rehab, most recent use—shower fac., off-site use only.

Bldg. 4476

Fort Benning

Ft. Benning Co: Muscogee GA 31905-

Landholding Agency: Army

Property Number: 21199720184

Status: Unutilized

Comment: 3148 sq. ft., needs rehab, most recent use—vehicle maint. shop, off-site use only.

8 Bldgs.

Fort Benning

4700-4701, 4704-4707,

4710-4711

Ft. Benning Co: Muscogee GA 31905-

Landholding Agency: Army

Property Number: 21199720189

Status: Unutilized

Comment: 6433 sq. ft. each, needs rehab, most recent use—unaccompanied personnel housing, off-site use only.

Bldg. 4714

Fort Benning

Ft. Benning Co: Muscogee GA 31905-

Landholding Agency: Army

Property Number: 21199720191

Status: Unutilized

Comment: 1983 sq. ft., needs rehab, most recent use—battalion headquarters bldg., off-site use only.

Bldg. 4702

Fort Benning

Ft. Benning Co: Muscogee GA 31905-

Landholding Agency: Army

Property Number: 21199720192

Status: Unutilized

Comment: 3690 sq. ft., needs rehab, most recent use—dining facility, off-site use only.

Bldgs. 4712-4713

Fort Benning

Ft. Benning Co: Muscogee GA 31905-

Landholding Agency: Army

Property Number: 21199720193

Status: Unutilized

Comment: 1983 sq. ft. and 10270 sq ft., needs rehab, most recent use—company headquarters bldg., off-site use only.

Bldg. 305

Fort Benning

Ft. Benning Co: Muscogee GA 31905-

Landholding Agency: Army

Property Number: 21199810268

Status: Unutilized

Comment: 4,083 sq. ft., most recent use—recreation center, off-site use only.

Bldg. 318

Fort Benning

Ft. Benning Co: Muscogee GA 31905-

Landholding Agency: Army

Property Number: 21199810269

Status: Unutilized

Comment: 374 sq. ft., poor condition, most recent use—maint. shop, off-site use only.

Bldg. 1792

Fort Benning

Ft. Benning Co: Muscogee GA 31905-

Landholding Agency: Army

Property Number: 21199810274

Status: Unutilized

Comment: 10,200 sq. ft., most recent use—storage, off-site use only.

Bldg. 1836

Fort Benning

Ft. Benning Co: Muscogee GA 31905-

Landholding Agency: Army

Property Number: 21199810276

Status: Unutilized

Comment: 2,998 sq. ft., most recent use—admin., off-site use only.

Bldg. 4373

Fort Benning

Ft. Benning Co: Muscogee GA 31905-

Landholding Agency: Army

Property Number: 21199810286

Status: Unutilized

Comment: 409 sq. ft., poor condition, most recent use—station bldg., off-site use only.

Bldg. 4628

Fort Benning

Ft. Benning Co: Muscogee GA 31905-

Landholding Agency: Army

Property Number: 21199810287

Status: Unutilized

Comment: 5,483 sq. ft., most recent use—admin., off-site use only.

Bldg. 92

Fort Benning

Ft. Benning Co: Muscogee GA 31905-

Landholding Agency: Army

Property Number: 21199830278

Status: Unutilized

Comment: 637 sq. ft., needs rehab, most recent use—admin., off-site use only.

Bldg. 2445

Fort Benning

Ft. Benning Co: Muscogee GA 31905-

Landholding Agency: Army

Property Number: 21199830279

Status: Unutilized

Comment: 2,385 sq. ft., needs rehab., most recent use—fire station, off-site use only.

Bldg. 4232

Fort Benning

Ft. Benning Co: Muscogee GA 31905-

Landholding Agency: Army

Property Number: 21199830291

Status: Unutilized

Comment: 3,720 sq. ft., needs rehab, most recent use—maint. bay, off-site use only.

Bldg. 39720

Fort Gordon

Ft. Gordon Co: Richmond GA 30905-

Landholding Agency: Army

Property Number: 21199930119

Status: Unutilized

Comment: 1520 sq. ft., concrete block, possible asbestos/lead paint, most recent use—office, off-site use only.

Bldg. 492

Fort Benning

Ft. Benning Co: Muscogee GA 31905-

Landholding Agency: Army

Property Number: 21199930120

Status: Unutilized

Comment: 720 sq. ft., most recent use—admin/maint, off-site use only.

Bldg. 880

Fort Benning

Ft. Benning Co: Muscogee GA 31905-

Landholding Agency: Army

Property Number: 21199930121

Status: Unutilized

Comment: 57,110 sq. ft., most recent use—instruction, off-site use only.

Bldg. 1370

Fort Benning

Ft. Benning Co: Muscogee GA 31905-

Landholding Agency: Army

Property Number: 21199930122

Status: Unutilized

Comment: 5204 sq. ft., most recent use—hdqts. bldg., off-site use only.

Bldg. 2288

Fort Benning

Ft. Benning Co: Muscogee GA 31905-

Landholding Agency: Army

Property Number: 21199930123

Status: Unutilized

Comment: 2481 sq. ft., most recent use—admin., off-site use only.

Bldg. 2290

Fort Benning

Ft. Benning Co: Muscogee GA 31905-

Landholding Agency: Army

Property Number: 21199930124

Status: Unutilized

Comment: 455 sq. ft., most recent use—storage, off-site use only.

Bldg. 2293

Fort Benning

Ft. Benning Co: Muscogee GA 31905-

Landholding Agency: Army

Property Number: 21199930125

Status: Unutilized

Comment: 2600 sq. ft., most recent use—hdqts. bldg., off-site use only.

Bldg. 2297

Fort Benning

Ft. Benning Co: Muscogee GA 31905-

Landholding Agency: Army

Property Number: 21199930126

Status: Unutilized

Comment: 5156 sq. ft., most recent use—admin.

Bldg. 2505

Fort Benning

Ft. Benning Co: Muscogee GA 31905-

Landholding Agency: Army

Property Number: 21199930127

Status: Unutilized

Comment: 10,257 sq. ft., most recent use—repair shop, off-site use only.

Bldg. 2508

Fort Benning

Ft. Benning Co: Muscogee GA 31905-

Landholding Agency: Army

Property Number: 21199930128

Status: Unutilized

Comment: 2434 sq. ft., most recent use—storage, off-site use only.

Bldg. 2815

Fort Benning

Ft. Benning Co: Muscogee GA 31905-

Landholding Agency: Army

Property Number: 21199930129

Status: Unutilized

Comment: 2578 sq. ft., most recent use—hdqts. bldg, off-site use only.

Bldg. 3815

Fort Benning

Ft. Benning Co: Muscogee GA 31905-

Landholding Agency: Army

Property Number: 21199930130

Status: Unutilized

Comment: 7575 sq. ft., most recent use—storage, off-site use only.

Bldg. 3816

Fort Benning

Ft. Benning Co: Muscogee GA 31905-

Landholding Agency: Army

Property Number: 21199930131

Status: Unutilized

Comment: 7514 sq. ft., most recent use—storage, off-site use only.

Bldg. 5886

Fort Benning

Ft. Benning Co: Muscogee GA 31905-

Landholding Agency: Army

Property Number: 21199930134

Status: Unutilized

Comment: 67 sq. ft., most recent use—maint/storage, off-site use only.

Bldgs. 5974-5978

Fort Benning

Ft. Benning Co: Muscogee GA 31905-

Landholding Agency: Army

Property Number: 21199930135

Status: Unutilized

Comment: 400 sq. ft., most recent use—storage, off-site use only.

Bldg. 5993

Fort Benning

Ft. Benning Co: Muscogee GA 31905-

Landholding Agency: Army

Property Number: 21199930136

Status: Unutilized

Comment: 960 sq. ft., most recent use—storage, off-site use only.

Bldg. 5994

Fort Benning

Ft. Benning Co: Muscogee GA 31905-

Landholding Agency: Army

Property Number: 21199930137

Status: Unutilized

Comment: 2016 sq. ft., most recent use—storage, off-site use only.

Bldg. 2214

Fort Gordon

Ft. Gordon Co: Richmond GA 30905-

Landholding Agency: Army

Property Number: 21200020171

Status: Unutilized

Comment: 13,508 sq. ft., possible asbestos/lead paint, most recent use—storage/admin., off-site use only.

Bldg. 2233

Fort Gordon

Ft. Gordon Co: Richmond GA 30905-

Landholding Agency: Army

Property Number: 21200020172

Status: Unutilized

Comment: 1,720 sq. ft., possible asbestos/lead paint, most recent use—admin., off-site use only.

Bldg. T-1003

Fort Stewart

Hinesville Co: Liberty GA 31514-

Landholding Agency: Army

Property Number: 21200030085

Status: Excess

Comment: 9,267 sq. ft., poor condition, most recent use—storage, off-site use only.

Bldgs. T-1005, T-1006, T-1007

Fort Stewart

Hinesville Co: Liberty GA 31514-

Landholding Agency: Army

Property Number: 21200030086

Status: Excess

Comment: 9,267 sq. ft., poor condition, most recent use—storage, off-site use only.

Bldgs. T-1015, T-1016, T-1017

Fort Stewart

Hinesville Co: Liberty GA 31514-

Landholding Agency: Army

Property Number: 21200030087

Status: Excess

Comment: 7,496 sq. ft., poor condition, most recent use—storage, off-site use only.

Bldgs. T-1018, T-1019

Fort Stewart

Hinesville Co: Liberty GA 31514-

Landholding Agency: Army

Property Number: 21200030088

Status: Excess

Comment: 9,267 sq. ft., poor condition, most recent use—storage, off-site use only.

Bldgs. T-1020, T-1021

Fort Stewart

Hinesville Co: Liberty GA 31514-

Landholding Agency: Army

Property Number: 21200030089

Status: Excess

Comment: 9,267 sq. ft., poor condition, most recent use—storage, off-site use only.

Bldg. T-1022

Fort Stewart

Hinesville Co: Liberty GA 31514-

Landholding Agency: Army

Property Number: 21200030090

Status: Excess

Comment: 9,267 sq. ft., poor condition, most recent use—supply center, off-site use only.

Bldg. T-1027

Fort Stewart

Hinesville Co: Liberty GA 31514-

Landholding Agency: Army

Property Number: 21200030091

Status: Excess

Comment: 9,024 sq. ft., poor condition, most recent use—storage, off-site use only.

Bldg. T-1028

Fort Stewart

Hinesville Co: Liberty GA 31514-

Landholding Agency: Army

Property Number: 21200030092

Status: Excess

Comment: 7,496 sq. ft., poor condition, most recent use—storage, off-site use only.

Bldgs. T-1035, T-1036, T-1037

Fort Stewart

Hinesville Co: Liberty GA 31514-

Landholding Agency: Army

Property Number: 21200030093

Status: Excess

Comment: 1626 sq. ft., poor condition, most recent use—storage, off-site use only.

Bldgs. T-1038, T-1039

Fort Stewart

Hinesville Co: Liberty GA 31514-

Landholding Agency: Army

Property Number: 21200030094

Status: Excess

Comment: 1626 sq. ft., poor condition, most recent use—storage, off-site use only.

Bldgs. T-1040, T-1042

Fort Stewart

Hinesville Co: Liberty GA 31514-

Landholding Agency: Army

Property Number: 21200030095

Status: Excess

Comment: 1626 sq. ft., poor condition, most recent use—storage, off-site use only.

Bldgs. T-1086, T-1087, T-1088

Fort Stewart

Hinesville Co: Liberty GA 31514-

Landholding Agency: Army

Property Number: 21200030096

Status: Excess

Comment: 7680 sq. ft., poor condition, most recent use—storage, off-site use only.

Bldg. P-7751

Fort Stewart

Hinesville Co: Liberty GA 31514-

Landholding Agency: Army

Property Number: 21200030097

Status: Excess

Comment: 192 sq. ft., poor condition, off-site use only.

Bldg. 223

Fort Benning

Ft. Benning Co: Muscogee GA 31905-

Landholding Agency: Army

Property Number: 21200040044

Status: Unutilized

Comment: 21,556 sq. ft., most recent use—gen. purpose.

Bldg. 228

Fort Benning

Ft. Benning Co: Muscogee GA 31905-

Landholding Agency: Army

Property Number: 21200040045

Status: Unutilized

Comment: 20,220 sq. ft., most recent use—gen. purpose.

Bldg. 2051

Fort Benning

Ft. Benning Co: Muscogee GA 31905-

Landholding Agency: Army

Property Number: 21200040046

Status: Unutilized

Comment: 6077 sq. ft., most recent use—storage.

Bldg. 2053

Fort Benning

Ft. Benning Co: Muscogee GA 31905-

Landholding Agency: Army

Property Number: 21200040047

Status: Unutilized

Comment: 14,520 sq. ft., most recent use—storage.

Bldg. 2677

Fort Benning

Ft. Benning Co: Muscogee GA 31905-

Landholding Agency: Army

Property Number: 21200040048

Status: Unutilized

Comment: 19,326 sq. ft., most recent use—maint. shop.

Hawaii

P-88

Aliamanu Military

Reservation

Honolulu Co: Honolulu HI 96818-

Location: Approximately 600 feet from Main Gate on Aliamanu Drive

Landholding Agency: Army

Property Number: 21199030324

Status: Unutilized

Comment: 45,216 sq. ft., underground tunnel complex, pres. of asbestos clean-up required of contamination, use of respirator required by those entering property, use limitations.

Bldg. T-337

Fort Shafter

Honolulu Co: Honolulu HI 96819-

Landholding Agency: Army

Property Number: 21199640203

Status: Unutilized

Comment: 132 sq. ft., most recent use—storage, off-site use only.

Illinois

Bldg. 54

Rock Island Arsenal

Rock Island Co: Rock Island IL 61299-

Landholding Agency: Army

Property Number: 21199620666

Status: Unutilized

Comment: 2000 sq. ft., most recent use—oil storage, needs repair, off-site use only.

Kansas

Bldg. 166, Fort Riley

Fort Riley Co: Geary KS 66442-

Landholding Agency: Army

Property Number: 21199410325

Status: Unutilized

Comment: 3803 sq. ft., 3-story brick residence, needs rehab, presence of asbestos, located within National Registered Historic District.

Bldg. P-390

Fort Leavenworth

Leavenworth KS 66027-

Landholding Agency: Army

Property Number: 21199740295

Status: Unutilized

Comment: 4713 sq. ft., presence of lead based paint, most recent use—swine house, off-site use only.

Bldg. P-68

Fort Leavenworth

Leavenworth KS 66027-

Landholding Agency: Army

Property Number: 21199820157

Status: Unutilized

Comment: 2236 sq. ft., most recent use—vehicle storage, off-site use only.

Bldg. P-321

Fort Leavenworth

Leavenworth KS 66027-

Landholding Agency: Army

Property Number: 21199820157

Status: Unutilized

Comment: 600 sq. ft., most recent use—picnic shelter, off-site use only.

Bldg. P-347

Fort Leavenworth

Leavenworth KS 66027-

Landholding Agency: Army

Property Number: 21199820158

Status: Unutilized

Comment: 2135 sq. ft., most recent use—bath house, off-site use only.

Bldg. S-809

Fort Leavenworth

Leavenworth KS 66027-

Landholding Agency: Army

Property Number: 21199820160

Status: Unutilized

Comment: 39 sq. ft., most recent use—access control, off-site use only.

Bldg. S-830

Fort Leavenworth

Leavenworth KS 66027-

Landholding Agency: Army

Property Number: 21199820161

Status: Unutilized

Comment: 5789 sq. ft., most recent use—underground storage, off-site use only.

Bldg. S-831

Fort Leavenworth

Leavenworth KS 66027-

Landholding Agency: Army

Property Number: 21199820162

Status: Unutilized

Comment: 5789 sq. ft., most recent use—underground storage, off-site use only.

Bldg. P-243

Fort Leavenworth

Leavenworth KS 66027-

Landholding Agency: Army

Property Number: 21199830321

Status: Unutilized

Comment: 242 sq. ft., most recent use—industrial, off-site use only.

Bldg. P-242

Fort Leavenworth

Leavenworth KS 66027-

Landholding Agency: Army

Property Number: 21199820202

Status: Unutilized

Comment: 4680 sq. ft., most recent use—storage, off-site use only.

Bldg. P-175

Fort Leavenworth

Leavenworth KS 66027-

Landholding Agency: Army

Property Number: 21199930140

Status: Unutilized

Comment: 12,129 sq. ft., most recent use—storage, off-site use only.

Bldg. P-223

Fort Leavenworth

Leavenworth KS 66027-

Landholding Agency: Army

Property Number: 21199930146

Status: Unutilized

Comment: 7,174 sq. ft., most recent use—storage, off-site use only.

Bldg. T-236

Fort Leavenworth

Leavenworth KS 66027-

Landholding Agency: Army

Property Number: 21199930147

Status: Unutilized

Comment: 4563 sq. ft., most recent use—storage, off-site use only.

Bldg. P-241

Fort Leavenworth

Leavenworth KS 66027-

Landholding Agency: Army

Property Number: 21199930148

Status: Unutilized

Comment: 5920 sq. ft., most recent use—storage, off-site use only.

Bldg. T-257

Fort Leaveworth

Leavenworth Co: KS 66027-

Landholding Agency: Army

Property Number: 21199930149

Status: Unulitized

Comment: 5920 sq. ft., most recent use—storage, off-site use only.

Kentucky

Bldg. 02813

Fort Knox

Ft. Knox Co: Hardin KY 40121-

Landholding Agency: Army

Property Number: 21200030102

Status: Unutilized

Comment: 60 sq. ft., needs rehab, possible asbestos/lead paint, most recent use—shed, off-site use only.

Louisiana

Bldg. 8405, Fort Polk

Ft. Polk Co: Vernon Parish LA 71459-

Landlanding Agency: Army

Property Number: 21199640524

Status: Underutilized

Comment: 1029 sq. ft., most recent use—Office.

Bldg. 8407, Fort Polk

Ft. Polk Co: Vernon Parish LA 71459-

Landlanding Agency: Army

Property Number: 21199640525

Status: Underutilized

Comment: 2055 sq. ft., most recent use—admin.

Bldg. 8408, Fort Polk

Ft. Polk Co: Vernon Parish LA 71459-

Landlanding Agency: Army

Property Number: 21199640526

Status: Underutilized

Comment: 2055 sq. ft., most recent use—admin.

Bldg. 8414, Fort Polk

Ft. Polk Co: Vernon Parish LA 71459-

Landlanding Agency: Army

Property Number: 21199640527

Status: Underutilized

Comment: 4172 sq. ft., most recent use—barracks.

Bldg. 8423, Fort Polk

Ft. Polk Co: Vernon Parish LA 71459-

Landlanding Agency: Army

Property Number: 21199640528

Status: Underutilized

Comment: 4172 sq. ft., most recent use—barracks.

Bldg. 8424, Fort Polk

Ft. Polk Co: Vernon Parish LA 71459-

Landlanding Agency: Army

Property Number: 2119964029

Status: Underutilized

Comment: 4172 sq. ft., most recent use—barracks.

Bldg. 8426, Fort Polk

Ft. Polk Co: Vernon Parish LA 71459-

Landlanding Agency: Army

Property Number: 21199640530

Status: Underutilized

Comment: 4172 sq. ft., most recent use—barracks.

Bldg. 8427, Fort Polk

Ft. Polk Co: Vernon Parish LA 71459-

Landholding Agency: Army

Property Number: 21199640531

Status: Underutilized

Comment: 4172 sq. ft., most recent use—barracks.

Bldg. 8428, Fort Polk

Ft. Polk Co: Vernon Parish LA 71459-

Landholding Agency: Army

Property Number: 21199640532

Status: Underutilized

Comment: 4172 sq. ft., most recent use—barracks.

Bldg. 8429, Fort Polk

Ft. Polk Co: Vernon Parish LA 71459-

Landholding Agency: Army

Property Number: 21199640533

Status: Underutilized

Comment: 4172 sq. ft., most recent use—barracks.

Bldg. 8430, Fort Polk

Ft. Polk Co: Vernon Parish LA 71459-

Landholding Agency: Army

Property Number: 21199640534

Status: Underutilized

Comment: 4172 sq. ft., most recent use—barracks.

Bldg. 8431, Fort Polk

Ft. Polk Co: Vernon Parish LA 71459-

Landholding Agency: Army

Property Number: 21199640535

Status: Underutilized

Comment: 4172 sq. ft., most recent use—barracks.

Bldg. 8432, Fort Polk

Ft. Polk Co: Vernon Parish LA 71459-

Landholding Agency: Army

Property Number: 21199640536

Status: Underutilized

Comment: 4172 sq. ft., most recent use—barracks.

Bldg. 8433, Fort Polk

Ft. Polk Co: Vernon Parish LA 71459-

Landholding Agency: Army

Property Number: 21199640537

Status: Underutilized

Comment: 4172 sq. ft., most recent use—barracks.

Bldg. 8446, Fort Polk

Ft. Polk Co: Vernon Parish LA 71459-

Landholding Agency: Army

Property Number: 21199640538

Status: Underutilized

Comment: 2093 sq. ft., most recent use—admin.

Bldg. 8449, Fort Polk

Ft. Polk Co: Vernon Parish LA 71459-

Landholding Agency: Army

Property Number: 21199640539

Status: Underutilized

Comment: 2093 sq. ft., most recent use—office.

Bldg. 8450, Fort Polk

Ft. Polk Co: Vernon Parish LA 71459-

Landholding Agency: Army

Property Number: 21199640540

Status: Underutilized

Comment: 2093 sq. ft., most recent use—admin.

Bldg. 8458, Fort Polk

Ft. Polk Co: Vernon Parish LA 71459-

Landholding Agency: Army

Property Number: 21199640542

Status: Underutilized

Comment: 4172 sq. ft., most recent use—barracks.

Bldg. 8459, Fort Polk

Ft. Polk Co: Vernon Parish LA 71459-

Landholding Agency: Army

Property Number: 21199640543

Status: Underutilized

Comment: 4172 sq. ft., most recent use—barracks.

Bldg. 8460, Fort Polk

Ft. Polk Co: Vernon Parish LA 71459-

Landholding Agency: Army

Property Number: 21199640544

Status: Underutilized

Comment: 4172 sq. ft., most recent use—barracks.

Bldg. 8461, Fort Polk

Ft. Polk Co: Vernon Parish LA 71459-

Landholding Agency: Army

Property Number: 21199640545

Status: Underutilized

Comment: 4172 sq. ft., most recent use—barracks.

Bldg. 8462, Fort Polk

Ft. Polk Co: Vernon Parish LA 71459-

Landholding Agency: Army

Property Number: 21199640546

Status: Underutilized

Comment: 4172 sq. ft., most recent use—barracks.

Bldg. 8463, Fort Polk

Ft. Polk Co: Vernon Parish LA 71459-

Landholding Agency: Army

Property Number: 21199640547

Status: Underutilized

Comment: 4172 sq. ft., most recent use—barracks.

Bldg. 8501, Fort Polk

Ft. Polk Co: Vernon Parish LA 71459-

Landholding Agency: Army

Property Number: 21199640548

Status: Underutilized

Comment: 1687 sq. ft., most recent use—office.

Bldg. 8502, Fort Polk

Ft. Polk Co: Vernon Parish LA 71459-

Landholding Agency: Army

Property Number: 21199640549

Status: Underutilized

Comment: 1029 sq. ft., most recent use—office.

Bldg. 8541, Fort Polk

Ft. Polk Co: Vernon Parish LA 71459-

Landholding Agency: Army

Property Number: 21199640551

Status: Underutilized

Comment: 4172 sq. ft., most recent use—barracks.

Bldg. 8542, Fort Polk

Ft. Polk Co: Vernon Parish LA 71459-

Landholding Agency: Army

Property Number: 21199640552

Status: Underutilized

Comment: 4172 sq. ft., most recent use—barracks.

Bldg. 8543, Fort Polk

Ft. Polk Co: Vernon Parish LA 71459-

Landholding Agency: Army

Property Number: 21199640553

Status: Underutilized

Comment: 4172 sq. ft., most recent use—barracks.

Bldg. 8545, Fort Polk

Ft. Polk Co: Vernon Parish LA 71459-

Landholding Agency: Army

Property Number: 21199640555

Status: Underutilized

Comment: 4172 sq. ft., most recent use—barracks.

Bldg. 8546, Fort Polk

Ft. Polk Co: Vernon Parish LA 71459-

Landholding Agency: Army

Property Number: 21199640556

Status: Underutilized

Comment: 4172 sq. ft., most recent use—barracks.

Bldg. 8547, Fort Polk

Ft. Polk Co: Vernon Parish LA 71459-

Landholding Agency: Army

Property Number: 21199640557

Status: Underutilized

Comment: 4172 sq. ft., most recent use—barracks.

Bldg. 8548, Fort Polk

Ft. Polk Co: Vernon Parish LA 71459-

Landholding Agency: Army

Property Number: 21199640558

Status: Underutilized

Comment: 4172 sq. ft., most recent use—barracks.

Bldg. 8549, Fort Polk

Ft. Polk Co: Vernon Parish LA 71459-

Landholding Agency: Army

Property Number: 21199640559

Status: Underutilized

Comment: 4172 sq. ft., most recent use—barracks.

Maryland

Bldg. 370

Fort Meade

Fort Meade Co: Anne Arundel MD 20755-5155

Landholding Agency: Army

Property Number: 21199730256

Status: Unutilized

Comment: 19,583 sq. ft., most recent use—NCO club, possible asbestos/lead paint.

Bldg. 2472

Fort George G. Meade

Ft. Meade Co: Anne Arundel MD 20755-5115

Landholding Agency: Army

Property Number: 21199740306

Status: Unutilized

Comment: 7670 sq. ft., presence of asbestos/lead paint, most recent use—admin., off-site use only.

Bldg. 4700

Fort George G. Meade

Ft. Meade Co: Anne Arundel MD 20755-5115

Landholding Agency: Army

Property Number: 21199740309

Status: Unutilized

Comment: 36,619 sq. ft., presence of asbestos/lead paint, most recent use—admin., off-site use only.

Bldg. 6294

Fort Meade

Ft. Meade Co: Anne Arundel MD 20755-5115

Landholding Agency: Army

Property Number: 21199810302

Status: Unutilized

Comment: 4720 sq. ft., needs rehab, presence of asbestos/lead paint, most recent use—custodial, off-site use only.

Bldg. 2478

Fort George G. Meade

Ft. Meade Co: Anne Arundel MD 20755-5115

Landholding Agency: Army

Property Number: 21199940026

Status: Unutilized

Comment: 2534 sq. ft., needs rehab, presence of asbestos, most recent use—health clinic, off-site use only.

Bldg. 2845

Fort George G. Meade

Ft. Meade Co: Anne Arundel MD 20755-5115

Landholding Agency: Army

Property Number: 21199940027

Status: Unutilized

Comment: 6104 sq. ft., needs rehab, presence of asbestos/lead paint, most recent use—admin., off-site use only.

Bldg. 176

Fort George G. Meade

Ft. Meade Co: Anne Arundel MD 20755-5115

Landholding Agency: Army

Property Number: 21200020187

Status: Unutilized

Comment: 2441 sq. ft., presence of asbestos/lead paint, most recent use—storage, off-site use only.

Bldg. 2831

Fort George G. Meade

Ft. Meade Co: Anne Arundel MD 20755-5115

Landholding Agency: Army

Property Number: 21200030103

Status: Unutilized

Comment: 9652 sq. ft., presence of asbestos/lead paint, most recent use—dental clinic, off-site use only.

Missouri

Bldg. T599

Fort Leonard Wood

Ft. Leonard Wood Co: Pulaski MO 65473-5000

Landholding Agency: Army

Property Number: 21199230260

Status: Underutilized

Comment: 18,270 sq. ft., 1-story, presence of asbestos, most recent use—storehouse, off-site use only.

Bldg. T2171

Fort Leonard Wood

Ft. Leonard Wood Co: Pulaski MO 65473-5000

Landholding Agency: Army

Property Number: 21199340212

Status: Unutilized

Comment: 1290 sq. ft., 1-story wood frame, most recent use—administrative, no handicap fixtures, lead base paint, off-site use only.

Bldg. T6822

Fort Leonard Wood

Ft. Leonard Wood Co: Pulaski MO 65473-5000

Landholding Agency: Army

Property Number: 21199340219

Status: Underutilized

Comment: 4000 sq. ft., 1-story wood frame, most recent use—storage, no handicap fixtures, off-site use only.

Bldg. T1497

Fort Leonard Wood

Ft. Leonard Wood Co: Pulaski MO 65473-5000

Landholding Agency: Army

Property Number: 21199420441

Status: Underutilized

Comment: 4720 sq. ft., 2-story, presence of lead base paint, most recent use—admin/gen. purpose, off-site use only.

Bldg. T2139

Fort Leonard Wood

Ft. Leonard Wood Co: Pulaski MO 65473-5000

Landholding Agency: Army

Property Number: 21199420446

Status: Underutilized

Comment: 3663 sq. ft., 1-story, presence of lead base paint, most recent use—admin/gen. purpose, off-site use only.

Bldg. T-2191

Fort Leonard Wood

Ft. Leonard Wood Co: Pulaski MO 65473-5000

Landholding Agency: Army

Property Number: 21199440334

Status: Excess

Comment: 4720 sq. ft., 2 story wood frame, off-site removal only, to be vacated 8/95, lead based paint, most recent use—barracks.

Bldg. T-2197

Fort Leonard Wood

Ft. Leonard Wood Co: Pulaski MO 65473-5000

Landholding Agency: Army

Property Number: 21199440335

Status: Excess

Comment: 4720 sq. ft., 2 story wood frame, off-site removal only, to be vacated 8/95, lead based paint, most recent use—barracks.

Bldg. T590

Fort Leonard Wood

Ft. Leonard Wood Co: Pulaski MO 65473-5000

Landholding Agency: Army

Property Number: 21199510110

Status: Excess

Comment: 3263 sq. ft., 1-story, wood frame, most recent use—admin., to be vacated 8/95, off-site use only.

Bldg. T2385

Fort Leonard Wood

Ft. Leonard Wood Co: Pulaski MO 65473-5000

Landholding Agency: Army

Property Number: 21199510115

Status: Excess

Comment: 3158 sq. ft., 1-story, wood frame, most recent use—admin., to be vacated 8/95, off-site use only.

Bldgs. T-2340 thru T2343

Fort Leonard Wood

Ft. Leonard Wood Co: Pulaski MO 65473-5000

Landholding Agency: Army

Property Number: 21199710138

Status: Underutilized

Comment: 9267 sq. ft. each, most recent use—storage/general purpose.

Bldg. 1226

Fort Leonard Wood

Ft. Leonard Wood Co: Pulaski MO 65473-5000

Landholding Agency: Army

Property Number: 21199730275

Status: Unutilized

Comment: 1600 sq. ft., presence of asbestos/lead paint, most recent use—admin., off-site use only.

Bldg. 1271

Fort Leonard Wood

Ft. Leonard Wood Co: Pulaski MO 65473-5000

Landholding Agency: Army

Property Number: 21199730276

Status: Unutilized

Comment: 2360 sq. ft., presence of asbestos/lead paint, most recent use—storage, off-site use only.

Bldg. 1280

Fort Leonard Wood

Ft. Leonard Wood Co: Pulaski MO 65473-5000

Landholding Agency: Army

Property Number: 21199730277

Status: Unutilized

Comment: 1144 sq. ft., presence of asbestos/lead paint, most recent use—classroom, off-site use only.

Bldg. 1281

Fort Leonard Wood

Ft. Leonard Wood Co: Pulaski MO 65473-5000

Landholding Agency: Army

Property Number: 21199730278

Status: Unutilized

Comment: 2360 sq. ft., presence of asbestos/lead paint, most recent use—classroom, off-site use only.

Bldg. 1282

Fort Leonard Wood

Ft. Leonard Wood Co: Pulaski MO 65473-5000

Landholding Agency: Army

Property Number: 21199730279

Status: Unutilized

Comment: 4720 sq. ft., presence of asbestos/lead paint, most recent use—barracks, off-site use only.

Bldg. 1283

Fort Leonard Wood

Ft. Leonard Wood Co: Pulaski MO 65473-5000

Landholding Agency: Army

Property Number: 21199730280

Status: Unutilized

Comment: 1296 sq. ft., presence of asbestos/lead paint, most recent use—storage, off-site use only.

Bldg. 1284

Fort Leonard Wood

Ft. Leonard Wood Co: Pulaski MO 65473-5000

Landholding Agency: Army

Property Number: 21199730281

Status: Unutilized

Comment: 4720 sq. ft., presence of asbestos/lead paint, most recent use—admin., off-site use only.

Bldg. 1285

Fort Leonard Wood

Ft. Leonard Wood Co: Pulaski MO 65473-5000

Landholding Agency: Army

Property Number: 21199730282

Status: Unutilized

Comment: 4720 sq. ft., presence of asbestos/lead paint, most recent use—barracks, off-site use only.

Bldg. 1286

Fort Leonard Wood

Ft. Leonard Wood Co: Pulaski MO 65473-5000

Landholding Agency: Army

Property Number: 21199730283

Status: Unutilized

Comment: 1296 sq. ft., presence of asbestos/lead paint, most recent use—storage, off-site use only.

Bldg. 1287

Fort Leonard Wood

Ft. Leonard Wood Co: Pulaski MO 65473-5000

Landholding Agency: Army

Property Number: 21199730284

Status: Unutilized

Comment: 4720 sq. ft., presence of asbestos/lead paint, most recent use—barracks, off-site use only.

Bldg. 1288

Fort Leonard Wood

Ft. Leonard Wood Co: Pulaski MO 65473-5000

Landholding Agency: Army

Property Number: 21199730285

Status: Unutilized

Comment: 2360 sq. ft., presence of asbestos/lead paint, most recent use—dining facility, off-site use only.

Bldg. 1289

Fort Leonard Wood

Ft. Leonard Wood Co: Pulaski MO 65473-5000

Landholding Agency: Army

Property Number: 21199730286

Status: Unutilized

Comment: 1144 sq. ft., presence of asbestos/lead paint, most recent use—classroom, off-site use only.

Bldg. 430

Fort Leonard Wood

Ft. Leonard Wood Co: Pulaski MO 65473-5000

Landholding Agency: Army

Property Number: 21199810305

Status: Unutilized

Comment: 4100 sq. ft., presence of asbestos/lead paint, most recent use—Red Cross facility, off-site use only.

Bldg. 758

Fort Leonard Wood

Ft. Leonard Wood Co: Pulaski MO 65473-5000

Landholding Agency: Army

Property Number: 21199810306

Status: Unutilized

Comment: 2400 sq. ft., presence of asbestos/lead paint, most recent use—classroom, off-site use only.

Bldg. 759

Fort Leonard Wood

Ft. Leonard Wood Co: Pulaski MO 65473-5000

Landholding Agency: Army

Property Number: 21199810307

Status: Unutilized

Comment: 2400 sq. ft., presence of asbestos/lead paint, most recent use—classroom, off-site use only.

Bldg. 760

Fort Leonard Wood

Ft. Leonard Wood Co: Pulaski MO 65473-5000

Landholding Agency: Army

Property Number: 21199810308

Status: Unutilized

Comment: 2400 sq. ft., presence of asbestos/lead paint, off-site use only.

Bldg. 761-766

Fort Leonard Wood

Ft. Leonard Wood Co: Pulaski MO 65473-5000

Landholding Agency: Army

Property Number: 21199810309

Status: Unutilized

Comment: 2400 sq. ft. each, presence of asbestos/lead paint, most recent use—classroom, off-site use only.

Bldg. 1650

Fort Leonard Wood

Ft. Leonard Wood Co: Pulaski MO 65473-5000

Landholding Agency: Army

Property Number: 21199810311

Status: Unutilized

Comment: 1676 sq. ft., presence of asbestos/lead paint, most recent use—union hall, off-site use only.

Bldg. 2111

Fort Leonard Wood

Ft. Leonard Wood Co: Pulaski MO 65473-5000

Landholding Agency: Army

Property Number: 21199810312

Status: Unutilized

Comment: 1600 sq. ft., presence of asbestos/lead paint, most recent use—union hall, off-site use only.

Bldg. 2170

Fort Leonard Wood

Ft. Leonard Wood Co: Pulaski MO 65473-5000

Landholding Agency: Army

Property Number: 21199810313

Status: Unutilized

Comment: 1296 sq. ft., presence of asbestos/lead paint, most recent use—admin., off-site use only.

Bldg. 2204

Fort Leonard Wood

Ft. Leonard Wood Co: Pulaski MO 65473-5000

Landholding Agency: Army

Property Number: 21199810315

Status: Unutilized

Comment: 3525 sq. ft., presence of asbestos/lead paint, most recent use—admin., off-site use only.

Bldg. 2225

Fort Leonard Wood

Ft. Leonard Wood Co: Pulaski MO 65473-5000

Landholding Agency: Army

Property Number: 21199810316

Status: Unutilized

Comment: 820 sq. ft., presence of lead paint, most recent use—storage, off-site use only.

Bldg. 2271

Fort Leonard Wood

Ft. Leonard Wood Co: Pulaski MO 65473-5000

Landholding Agency: Army

Property Number: 21199810317

Status: Unutilized

Comment: 256 sq. ft., presence of lead paint, most recent use—storage, off-site use only.

Bldg. 2275

Fort Leonard Wood

Ft. Leonard Wood Co: Pulaski MO 65473-5000

Landholding Agency: Army

Property Number: 21199810318

Status: Unutilized

Comment: 225 sq. ft., presence of lead paint, most recent use—storage, off-site use only.

Bldg. 2318

Fort Leonard Wood

Ft. Leonard Wood Co: Pulaski MO 65473-5000

Landholding Agency: Army

Property Number: 21199810322

Status: Unutilized

Comment: 9267 sq. ft., presence of asbestos/lead paint, most recent use—storage, off-site use only.

Bldg. 4199

Fort Leonard Wood

Ft. Leonard Wood Co: Pulaski MO 65473-5000

Landholding Agency: Army

Property Number: 21199810327

Status: Unutilized

Comment: 2400 sq. ft., presence of asbestos/lead paint, most recent use—storage, off-site use only.

Bldg. 386

Fort Leonard Wood

Ft. Leonard Wood Co: Pulaski MO 65473-5000

Landholding Agency: Army

Property Number: 21199820163

Status: Unutilized

Comment: 4902 sq. ft., presence of asbestos/lead paint, most recent use—fire station, off-site use only.

Bldg. 401

Fort Leonard Wood

Ft. Leonard Wood Co: Pulaski MO 65473-5000

Landholding Agency: Army

Property Number: 21199820164

Status: Unutilized

Comment: 9567 sq. ft., presence of asbestos/lead paint, most recent use—admin., off-site use only.

Bldg. 856

Fort Leonard Wood

Ft. Leonard Wood Co: Pulaski MO 65473-5000

Landholding Agency: Army

Property Number: 21199820166

Status: Unutilized

Comment: 2400 sq. ft., presence of asbestos/lead paint, most recent use—storage, off-site use only.

Bldg. 859

Fort Leonard Wood

Ft. Leonard Wood Co: Pulaski MO 65473-5000

Landholding Agency: Army

Property Number: 21199820167

Status: Unutilized

Comment: 2400 sq. ft., presence of asbestos/lead paint, most recent use—storage, off-site use only.

Bldg. 1242

Fort Leonard Wood

Ft. Leonard Wood Co: Pulaski MO 65473-5000

Landholding Agency: Army

Property Number: 21199820168

Status: Unutilized

Comment: 2360 sq. ft., presence of asbestos/lead paint, most recent use—storage, off-site use only.

Bldg. 1265

Fort Leonard Wood

Ft. Leonard Wood Co: Pulaski MO 65473-5000

Landholding Agency: Army

Property Number: 21199820169

Status: Unutilized

Comment: 2360 sq. ft., presence of asbestos/lead paint, most recent use—storage, off-site use only.

Bldg. 1267

Fort Leonard Wood

Ft. Leonard Wood Co: Pulaski MO 65473-5000

Landholding Agency: Army

Property Number: 21199820170

Status: Unutilized

Comment: 1144 sq. ft., presence of asbestos/lead paint, most recent use—admin., off-site use only.

Bldg. 1272

Fort Leonard Wood

Ft. Leonard Wood Co: Pulaski MO 65473-5000

Landholding Agency: Army

Property Number: 21199820171

Status: Unutilized

Comment: 1144 sq. ft., presence of asbestos/lead paint, most recent use—admin., off-site use only.

Bldg. 1277

Fort Leonard Wood

Ft. Leonard Wood Co: Pulaski MO 65473-5000

Landholding Agency: Army

Property Number: 21199820172

Status: Unutilized

Comment: 1144 sq. ft., presence of asbestos/lead paint, most recent use—admin., off-site use only.

Bldg. 2142, 2145, 2151-2153

Fort Leonard Wood

Ft. Leonard Wood Co: Pulaski MO 65473-5000

Landholding Agency: Army

Property Number: 21199820174

Status: Unutilized

Comment: 4720 sq. ft., presence of asbestos/lead paint, most recent use—barracks, off-site use only.

Bldg. 2150

Fort Leonard Wood

Ft. Leonard Wood Co: Pulaski MO 65473-5000

Landholding Agency: Army

Property Number: 21199820175

Status: Unutilized

Comment: 2892 sq. ft., presence of asbestos/lead paint, most recent use—dayroom, off-site use only.

Bldg. 2155

Fort Leonard Wood

62001-62022, 74001-64012

Ft. Leonard Wood Co: Pulaski MO 65473-5000

Landholding Agency: Army

Property Number: 21199820176

Status: Unutilized

Comment: 1296 sq. ft., presence of asbestos/lead paint, most recent use—admin., off-site use only.

Bldgs. 2156, 2157, 2163, 2164

Fort Leonard Wood

Ft. Leonard Wood Co: Pulaski MO 65473-5000

Landholding Agency: Army

Property Number: 21199820177

Status: Unutilized

Comment: 4720 sq. ft., presence of asbestos/lead paint, most recent use—barracks, off-site use only.

Bldg. 2165

Fort Leonard Wood

Ft. Leonard Wood Co: Pulaski MO 65473-5000

Landholding Agency: Army

Property Number: 21199820178

Status: Unutilized

Comment: 2892 sq. ft., presence of asbestos/lead paint, most recent use—dayroom, off-site use only.

Bldg. 2167

Fort Leonard Wood

Ft. Leonard Wood Co: Pulaski MO 65473-5000

Landholding Agency: Army

Property Number: 21199820179

Status: Unutilized

Comment: 1296 sq. ft., presence of asbestos/lead paint, most recent use—admin., off-site use only.

Bldg. 2169, 2181, 2182, 2183

Fort Leonard Wood

Ft. Leonard Wood Co: Pulaski MO 65473-5000

Landholding Agency: Army

Property Number: 21199820180

Status: Unutilized

Comment: 4720 sq. ft., presence of asbestos/lead paint, most recent use—barracks, off-site use only.

Bldg. 2186

Fort Leonard Wood

Ft. Leonard Wood Co: Pulaski MO 65473-5000

Landholding Agency: Army

Property Number: 21199820181

Status: Unutilized

Comment: 1296 sq. ft., presence of asbestos/lead paint, most recent use—admin., off-site use only.

Bldg. 2187

Fort Leonard Wood

Ft. Leonard Wood Co: Pulaski MO 65473-5000

Landholding Agency: Army

Property Number: 21199820182

Status: Unutilized

Comment: 2892 sq. ft., presence of asbestos/lead paint, most recent use—dayroom, off-site use only.

Bldg. 2192, 2196, 2198

Fort Leonard Wood

Ft. Leonard Wood Co: Pulaski MO 65473-5000

Landholding Agency: Army

Property Number: 21199820183

Status: Unutilized

Comment: 4720 sq. ft., presence of asbestos/lead paint, most recent use—barracks, off-site use only.

Bldg. 2304, 2306

Fort Leonard Wood

Ft. Leonard Wood Co: Pulaski MO 65473-5000

Landholding Agency: Army

Property Number: 21199820184

Status: Unutilized

Comment: 1625 sq. ft., presence of asbestos/lead paint, most recent use—storage, off-site use only.

Bldg. 12651

Fort Leonard Wood

Ft. Leonard Wood Co: Pulaski MO 65473-5000

Landholding Agency: Army

Property Number: 21199820186

Status: Unutilized

Comment: 240 sq. ft., presence of lead paint, off-site use only.

Bldg. 1448

Fort Leonard Wood

Co: Pulaski MO 65473-5000

Landholding Agency: Army

Property Number: 21199830327

Status: Unutilized

Comment: 8450 sq. ft., presence of asbestos/lead paint, most recent use—training, off-site use only.

Bldg. 2210

Fort Leonard Wood

Co: Pulaski MO 65473-5000

Landholding Agency: Army

Property Number: 21199830328

Status: Unutilized

Comment: 808 sq. ft., concrete, presence of asbestos/lead paint, most recent use—storage, off-site use only.

Bldg. 2270

Fort Leonard Wood

Co: Pulaski MO 65473-5000

Landholding Agency: Army

Property Number: 21199830329

Status: Unutilized

Comment: 256 sq. ft., concrete, presence of asbestos/lead paint, most recent use—storage, off-site use only.

Bldg. 6036

Fort Leonard Wood

Pulaski Co: MO 65473-8994

Landholding Agency: Army

Property Number: 21199910101

Status: Underutilized

Comment: 240 sq. ft., off-site use only.

Bldg. 9110

Fort Leonard Wood

Pulaski Co: MO 65473-8994

Landholding Agency: Army

Property Number: 21199910108

Status: Underutilized

Comment: 6498 sq. ft., presence of asbestos/lead paint, most recent use—family quarters, off-site use only.

Bldgs. 9113, 9115, 9117

Fort Leonard Wood

Pulaski Co: MO 65473-8994

Landholding Agency: Army

Property Number: 21199910109

Status: Underutilized

Comment: 4332 sq. ft., presence of asbestos/lead paint, most recent use—family quarters, off-site use only.

Bldg. 493

Fort Leonard Wood

Ft. Leonard Wood Co: Pulaski MO 65473-

Landholding Agency: Army

Property Number: 21199930158

Status: Unutilized

Comment: 26,936 sq. ft., concrete, presence of asbestos/lead paint, most recent use—store, off-site use only.

Bldg. 1178

Fort Leonard Wood

Ft. Leonard Wood Co: Pulaski MO 65473-8994

Landholding Agency: Army

Property Number: 21200040058

Status: Unutilized

Comment: 3203 sq. ft., most recent use—fire station, off-site use only.

New Hampshire

Bldg. KG001

Grenier Field USARC

Manchester Co: Rockingham NH 03103-7474

Landholding Agency: Army

Property Number: 21200030104

Status: Excess

Comment: 18,994 sq. ft., presence of asbestos, most recent use—classroom, off-site use only.

Bldg. KG002

Grenier Field USARC

Manchester Co: Rockingham NH 03103-7474

Landholding Agency: Army

Property Number: 21200030105

Status: Excess

Comment: 20,014 sq. ft., presence of asbestos, most recent use—storage/store, off-site use only.

Bldg. KG003

Grenier Field USARC

Manchester Co: Rockingham NH 03103-7474

Landholding Agency: Army

Property Number: 21200030106

Status: Excess

Comment: 3458 sq. ft., presence of asbestos, most recent use—veh. maint., off-site use only.

Bldg. KG005

Grenier Field USARC

Manchester Co: Rockingham NH 03103-7474

Landholding Agency: Army

Property Number: 21200030107

Status: Excess

Comment: 3005 sq. ft., presence of asbestos, most recent use—storage, off-site use only.

New Jersey

Bldg. 178

Armament R&D Engineering

Center

Picatinny Arsenal Co: Morris NJ 07806-5000

Landholding Agency: Army

Property Number: 21199740312

Status: Unutilized

Comment: 2067 sq. ft., most recent use—research, off-site use only.

Bldg. 642

Armament R&D Engineering

Center

Picatinny Arsenal Co: Morris NJ 07806-5000

Landholding Agency: Army

Property Number: 21199740314

Status: Unutilized

Comment: 280 sq. ft., most recent use—explosives testing, off-site use only.

Bldg. 732

Armament R&D Engineering

Center

Picatinny Arsenal Co: Morris NJ 07806-5000

Landholding Agency: Army

Property Number: 21199740315

Status: Unutilized

Comment: 9077 sq. ft., needs rehab, most recent use—storage, off-site use only.

Bldg. 3117

Armament R&D Engineering

Center

Picatinny Arsenal Co: Morris NJ 07806-5000

Landholding Agency: Army

Property Number: 21199740322

Status: Unutilized

Comment: 100 sq. ft., most recent use—sentry station, off-site use only.

Bldg. 3219

Armament R&D Engineering

Center

Picatinny Arsenal Co: Morris NJ 07806-5000

Landholding Agency: Army

Property Number: 21199740326

Status: Unutilized

Comment: 288 sq. ft., most recent use—snack bar, off-site use only.

New Mexico

9 MFH Units

White Sands Missile Range

White Sands Co: Dona Ana NM 88002-

Location: 11201, 12210, 11214, 11217, 11220, 11223, 11244, 11247, 11264

Landholding Agency: Army

Property Number: 21200040062

Status: Unutilized

Comment: 1620 sq. ft. each, major repairs required, presence of abestos, most recent use—housing, off-site use only.

19 MFH Units

White Sands Missile Range

White Sands Co: Dona Ana NM 88002-

Location: 11202, 12209, 11212, 11216, 11219, 11222, 11224, 11227, 11236, 11241, 11242, 11245, 11249, 11253, 11257, 11260, 11263, 11270, 11273

Landholding Agency: Army

Property Number: 21200040063

Status: Unutilized

Comment: 1606 sq. ft. each, major repairs required, presence of abestos, most recent use—housing, off-site use only.

34 MFU Units

White Sands Missile Range

White Sands Co: Dona Ana NM 88002-

Landholding Agency: Army

Property Number: 21200040064

Status: Unutilized

Comment: 1512 sq. ft. each, major repairs required, presence of abestos, most recent use—housing, off-site use only.

12 MFH Units

White Sands Missile Range

White Sands Co: Dona Ana NM 88002-

Location: 11204, 11207, 11226, 11229, 11232, 11235, 11238, 11251, 11255, 11258, 11261, 11266

Landholding Agency: Army

Property Number: 21200040065

Status: Unutilized

Comment: 1590 sq. ft. each, major repairs required, presence of abestos, most recent use—housing, off-site use only.

Bldg. 23644

White Sands Missile Range

White Sands Co: Dona Ana NM 88002-

Landholding Agency: Army

Property Number: 21200040066

Status: Unutilized

Comment: 80 sq. ft., poor condition, presence of abestos, most recent use—equp. facility, off-site use only.

New York

Bldg. 801

US Military Academy

Highlands Co: Orange NY 10996-1592

Landholding Agency: Army

Property Number: 21200030108

Status: Unutilized

Comment: 27,726 sq. ft., needs repair, possible lead paint, most recent use—warehouse, off-site use only.

Bldg. 109, 110

Fort Hamilton

Brooklyn Co: NY 11252-

Landholding Agency: Army

Property Number: 21200040067

Status: Unutilized

Comment: 39,723 sq. ft., needs repair, presence of asbestos, most recent use—guest house, off-site use only.

Bldg. T-2276

Fort Drum

Ft. Drum Co: Jefferson NY 13602-

Landholding Agency: Army

Property Number: 21200040069

Status: Unutilized

Comment: 5310 sq. ft., needs repair, most recent use—officer's quarters, off-site use only.

Oklahoma

Bldg. T-838, Fort Sill

838 Macomb Road

L:awton Co: Comanche OK 73503-5100

Landholding Agency: Army

Property Number: 21199220609

Status: Unutilized

Comment: 151 sq. ft., wood frame, 1 story, off-site removeal only, most recent use—vet facility (quarantine stable).

Bldg. T-954, Fort Sill

954 Quinette Road

Lawton Co: Comanche OK 73503-5100

Landholding Agency: Army

Property Number: 21199240659

Status: Unutilized

Comment: 3571 sq. ft., 1 story wood frame, needs rehab, off-site use only, most recent use—motor repair shop.

Bldg. T-3325, Fort Sill

3325 Naylor Road

Lawton Co: Comanche OK 73503-5100

Landholding Agency: Army

Property Number: 21199240681

Status: Unutilized

Comment: 8832 sq. ft., 1 story wood frame, needs rehab, off-site use only, most recent use—warehouse.

Bldg. T1652, Fort Sill

Lawton Co: Comanche OK 73503-5100

Landholding Agency: Army

Property Number: 21199330380

Status: Unutilized

Comment: 1505 sq. ft., 1-story wood, possible asbestos, most recent use—storage, off-site use only.

Bldg. T5637, Fort Sill

Lawton Co: Comanche OK 73503-5100

Landholding Agency: Army

Property Number: 21199330419

Status: Unutilized

Comment: 1606 sq. ft., 1 story, possible asbestos, most recent use—storage, off-site use only.

Bldg. T-4226

Fort Sill

Lawton Co: Comanche OK 73503-5100

Landholding Agency: Army

Property Number: 21199440384

Status: Unutilized

Comment: 114 sq. ft., 1-story wood frame, possible asbestos and lead paint, most recent use—storage, off-site use only.

Bldg. P-1015, Fort Sill

Lawton Co: Comanche OK 73501-5100

Landholding Agency: Army

Property Number: 21199520197

Status: Unutilized

Comment: 15402 sq. ft., 1-story, most recent use—storage, off-site use only.

Bldg. P-366, Fort Sill

Lawton Co: Comanche OK 73503-5100

Landholding Agency: Army

Property Number: 21199610740

Status: Unutilized

Comment: 482 sq. ft., possible asbestos, most recent use—storage, off-site use only.

Bldg. T-2952

Fort Sill

Lawton Co: Comanche OK 73503-5100

Landholding Agency: Army

Property Number: 21199710047

Status: Unutilized

Comment: 4,327 sq. ft., possible asbestos and leadpaint, most recent use—motor repair shop, off-site use only.

Bldg. P-5042

Fort Sill

Lawton Co: Comanche OK 73503-5100

Landholding Agency: Army

Property Number: 21199710066

Status: Unutilized

Comment: 119 sq. ft., possible asbestos and leadpaint, most recent use—heatplant, off-site use only.

6 Buildings

Fort Sill

Lawton Co: Comanche OK 73503-5100

Location: P-6449, S-6451, T-6452, P-6460, P-6463, S-6450

Landholding Agency: Army

Property Number: 21199710085

Status: Unutilized

Comment: various sq. ft., possible asbestos and leadpaint, most recent use—range support, off-site use only.

4 Buildings

Fort Sill

Lawton Co: Comanche OK 73503-5100

Location: T-6465, T-6466, T-6467, T-6468

Landholding Agency: Army

Property Number: 21199710086

Status: Unutilized

Comment: various sq. ft., possible asbestos and leadpaint, most recent use—range support, off site use only.

Building P-6539

Fort Sill

Lawton Co: Comanche OK 73503-5100

Landholding Agency: Army

Property Number: 21199710087

Status: Unutilized

Comment: 1,483 sq. ft., possible asbestos and leadpaint, most recent use—office, off-site use only.

Bldg. T-208

Fort Sill

Lawton Co: Comanche OK 73503-5100

Landholding Agency: Army

Property Number: 21199730344

Status: Unutilized

Comment: 20525 sq. ft., possible asbestos/lead paint, most recent use—training center, off-site use only.

Bldg. T-214

Fort Sill

Lawton Co: Comanche OK 73503-5100

Landholding Agency: Army

Property Number: 21199730346

Status: Unutilized

Comment: 6332 sq. ft., possible asbestos/lead paint, most recent use—training center, off-site use only.

Bldgs. T-215, T-216

Fort Sill

Lawton Co: Comanche OK 73503-5100

Landholding Agency: Army

Property Number: 21199730347

Status: Unutilized

Comment: 6300 sq. ft. each, possible asbestos/lead paint, most recent use—storage, off-site use only.

Bldg. T-217

Fort Sill

Lawton Co: Comanche OK 73503-5100

Landholding Agency: Army

Property Number: 21199730348

Status: Unutilized

Comment: 6394 sq. ft., possible asbestos/lead paint, most recent use—training center, off-site use only.

Bldg. T-810

Fort Sill

Lawton Co: Comanche OK 73503-5100

Landholding Agency: Army

Property Number: 21199730350

Status: Unutilized

Comment: 7205 sq. ft., possible asbestos/lead paint, most recent use—hay storage, off-site use only.

Bldgs. T-837, T-839

Fort Sill

Lawton Co: Comanche OK 73503-5100

Landholding Agency: Army

Property Number: 21199730351

Status: Unutilized

Comment: approx. 100 sq. ft. each, possible asbestos/lead paint, most recent use—storage, off-site use only.

Bldg. P-934

Fort Sill

Lawton Co: Comanche OK 73503-5100

Landholding Agency: Army

Property Number: 21199730353

Status: Unutilized

Comment: 402 sq. ft., possible asbestos/lead paint, most recent use—storage, off-site use only.

Bldg. T-1177

Fort Sill

Lawton Co: Comanche OK 73503-5100

Landholding Agency: Army

Property Number: 21199730356

Status: Unutilized

Comment: 183 sq. ft., possible asbestos/lead paint, most recent use—storage, off-site use only.

Bldgs. T-1468, T-1469

Fort Sill

Lawton Co: Comanche OK 73503-5100

Landholding Agency: Army

Property Number: 21199730357

Status: Unutilized

Comment: 114 sq. ft., possible asbestos/lead paint, most recent use—storage, off-site use only.

Bldg. T-1470

Fort Sill

Lawton Co: Comanche OK 73503-5100

Landholding Agency: Army

Property Number: 21199730358

Status: Unutilized

Comment: 3120 sq. ft., possible asbestos/lead paint, most recent use—storage, off-site use only.

Bldg. T-1940

Fort Sill

Lawton Co: Comanche OK 73503-5100

Landholding Agency: Army

Property Number: 21199730360

Status: Unutilized

Comment: 1400 sq. ft., possible asbestos/lead paint, most recent use—storage, off-site use only.

Bldgs. T-1954, T-2022

Fort Sill

Lawton Co: Comanche OK 73503-5100

Landholding Agency: Army

Property Number: 21199730362

Status: Unutilized

Comment: approx. 100 sq. ft. each, possible asbestos/lead paint, most recent use—storage, off-site use only.

Bldg. T-2180

Fort Sill

Lawton Co: Comanche OK 73503-5100

Landholding Agency: Army

Property Number: 21199730363

Status: Unutilized

Comment: possible asbestos/lead paint, most recent use—vehicle maint. facility, off-site use only.

Bldg. T-2184

Fort Sill

Lawton Co: Comanche OK 73503-5100

Landholding Agency: Army

Property Number: 21199730364

Status: Unutilized

Comment: 454 sq. ft., possible asbestos/lead paint, most recent use—storage, off-site use only.

Bldg. T-2185

Fort Sill

Lawton Co: Comanche OK 73503-5100

Landholding Agency: Army

Property Number: 21199730365

Status: Unutilized

Comment: 151 sq. ft., possible asbestos/lead paint, most recent use—storage, off-site use only.

Bldgs. T-2186, T-2188, T-2189

Fort Sill

Lawton Co: Comanche OK 73503-5100

Landholding Agency: Army

Property Number: 21199730366

Status: Unutilized

Comment: 1656—3583 sq. ft., possible asbestos/lead paint, most recent use—vehicle maint shop, off-site use only.

Bldg. T-2187

Fort Sill

Lawton Co: Comanche OK 73503-5100

Landholding Agency: Army

Property Number: 21199730367

Status: Unutilized

Comment: 1673 sq. ft., possible asbestos/lead paint, most recent use—storage, off-site use only.

Bldg. T-2209

Fort Sill

Lawton Co: Comanche OK 73503-5100

Landholding Agency: Army

Property Number: 21199730368

Status: Unutilized

Comment: 1257 sq. ft., possible asbestos/lead paint, most recent use—storage, off-site use only.

Bldgs. T-2240, T-2241

Fort Sill

Lawton Co: Comanche OK 73503-5100

Landholding Agency: Army

Property Number: 21199730369

Status: Unutilized

Comment: approx. 9500 sq. ft., possible asbestos/lead paint, most recent use—storage, off-site use only.

Bldgs. T-2262, T-2263

Fort Sill

Lawton Co: Comanche OK 73503-5100

Landholding Agency: Army

Property Number: 21199730370

Status: Unutilized

Comment: approx. 3100 sq. ft., possible asbestos/lead paint, most recent use—maint shop, off-site use only.

Bldgs. T-2271, T-2272

Fort Sill

Lawton Co: Comanche OK 73503-5100

Landholding Agency: Army

Property Number: 21199730371

Status: Unutilized

Comment: 232 sq. ft., possible asbestos/lead paint, most recent use—storage, off-site use only.

Bldgs. T-2291 thru T-2296

Fort Sill

Lawton Co: Comanche OK 73503-5100

Landholding Agency: Army

Property Number: 21199730372

Status: Unutilized

Comment: 400 sq. ft. each, possible asbestos/lead paint, most recent use—storage, off-site use only.

5 Bldgs.

Fort Sill

T-2300, T-2301, T-2303, T-2306, T-2307

Lawton Co: Comanche OK 73503-5100

Landholding Agency: Army

Property Number: 21199730373

Status: Unutilized

Comment: various sq. ft., possible asbestos/lead paint, most recent use—storage, off-site use only.

Bldg. T-2406

Fort Sill

Lawton Co: Comanche OK 73503-5100

Landholding Agency: Army

Property Number: 21199730374

Status: Unutilized

Comment: 114 sq. ft., possible asbestos/lead paint, most recent use—storage, off-site use only.

3 Bldgs.

Fort Sill

#T-2430, T-2432, T-2435

Lawton Co: Comanche OK 73503-5100

Landholding Agency: Army

Property Number: 21199730376

Status: Unutilized

Comment: approx. 8900 sq. ft., possible asbestos/lead paint, most recent use—office, off-site use only.

Bldg. T-2434

Fort Sill

Lawton Co: Comanche OK 73503-5100

Landholding Agency: Army

Property Number: 21199730377

Status: Unutilized

Comment: 8997 sq. ft., possible asbestos/lead paint, most recent use—vehicle maint. shop, off-site use only.

Bldgs. T-3001, T-3006

Fort Sill

Lawton Co: Comanche OK 73503-5100

Landholding Agency: Army

Property Number: 21199730383

Status: Unutilized

Comment: approx. 9300 sq. ft., possible asbestos/lead paint, most recent use—storage, off-site use only.

Bldg. T-3025

Fort Sill

Lawton Co: Comanche OK 73503-5100

Landholding Agency: Army

Property Number: 21199730384

Status: Unutilized

Comment: 5259 sq. ft., possible asbestos/lead paint, most recent use—museum, off-site use only.

Bldg. T-3314

Fort Sill

Lawton Co: Comanche OK 73503-5100

Landholding Agency: Army

Property Number: 21199730385

Status: Unutilized

Comment: 229 sq. ft., possible asbestos/lead paint, most recent use—office, off-site use only.

Bldg. T-3323

Fort Sill

Lawton Co: Comanche OK 73503-5100

Landholding Agency: Army

Property Number: 21199730387

Status: Unutilized

Comment: 8832 sq. ft., possible asbestos/lead paint, most recent use—office, off-site use only.

Bldgs. T-4021, T-4022

Fort Sill

Lawton Co: Comanche OK 73503-5100

Landholding Agency: Army

Property Number: 21199730389

Status: Unutilized

Comment: 442-869 sq. ft., possible asbestos/lead paint, most recent use—storage, off-site use only.

Bldg. T-4065

Fort Sill

Lawton Co: Comanche OK 73503-5100

Landholding Agency: Army

Property Number: 21199730390

Status: Unutilized

Comment: 3145 sq. ft., possible asbestos/lead paint, most recent use—maint. shop, off-site use only.

Bldg. T-4067

Fort Sill

Lawton Co: Comanche OK 73503-5100

Landholding Agency: Army

Property Number: 21199730391

Status: Unutilized

Comment: 1032 sq. ft., possible asbestos/lead paint, most recent use—storage, off-site use only.

Bldg. T-4281

Fort Sill

Lawton Co: Comanche OK 73503-5100

Landholding Agency: Army

Property Number: 21199730392

Status: Unutilized

Comment: 9405 sq. ft., possible asbestos/lead paint, most recent use—storage, off-site use only.

Bldgs. T-4401, T-4402

Fort Sill

Lawton Co: Comanche OK 73503-5100

Landholding Agency: Army

Property Number: 21199730393

Status: Unutilized

Comment: 2260 sq. ft., possible asbestos/lead paint, most recent use—office, off-site use only.

Bldg. T-4407

Fort Sill

Lawton Co: Comanche OK 73503-5100

Landholding Agency: Army

Property Number: 21199730395

Status: Unutilized

Comment: 3070 sq. ft., possible asbestos/lead paint, most recent use—dining facility, off-site use only.

4 Bldgs.

Fort Sill

#T-4410, T-4414, T-4415, T-4418

Lawton Co: Comanche OK 73503-5100

Landholding Agency: Army

Property Number: 21199730396

Status: Unutilized

Comment: 1311 sq. ft., possible asbestos/lead paint, most recent use—office, off-site use only.

5 Bldgs.

Fort Sill

#T-44111 thru T-4413, T-4416 thru T-4417

Lawton Co: Comanche OK 73503-5100

Landholding Agency: Army

Property Number: 21199730397

Status: Unutilized

Comment: 1244 sq. ft., possible asbestos/lead paint, most recent use—showers, off-site use only.

Bldg. T-4421

Fort Sill

Lawton Co: Comanche OK 73503-5100

Landholding Agency: Army

Property Number: 21199730398

Status: Unutilized

Comment: 3070 sq. ft., possible asbestos/lead paint, most recent use—dining, off-site use only.

10 Bldgs.

Fort Sill

#T-4422 thru T-4427, T-4431 thru T-4434

Lawton Co: Comanche OK 73503-5100

Landholding Agency: Army

Property Number: 21199730399

Status: Unutilized

Comment: 2263 sq. ft., possible asbestos/lead paint, most recent use—barracks, off-site use only.

6 Bldgs.

Fort Sill

Lawton Co: Comanche OK 73503-5100

Location: #T-4436, T-4440, T-4444, T-4445, T-4448, T-4449

Landholding Agency: Army

Property Number: 21199730400

Status: Unutilized

Comment: 1311-2263 sq. ft., possible asbestos/lead paint, most recent use—office, off-site use only.

5 Bldgs.

Fort Sill

Lawton Co: Comanche OK 73503-5100

Location: 4441, T-4442, T-4443, T-4446, T-4447

Landholding Agency: Army

Property Number: 21199730401

Status: Unutilized

Comment: 1244 sq. ft., possible asbestos/lead paint, most recent use—showers, off-site use only.

Bldg. T-5041

Fort Sill

Lawton Co: Comanche OK 73503-5100

Landholding Agency: Army

Property Number: 21199730409

Status: Unutilized

Comment: 763 sq. ft., possible asbestos/lead paint, most recent use—storage, off-site use only.

Bldgs. T-5044, T-5045

Fort Sill

Lawton Co: Comanche OK 73503-5100

Landholding Agency: Army

Property Number: 21199730410

Status: Unutilized

Comment: 1,798/1,806 sq. ft., possible asbestos/lead paint, most recent use—class rooms, off-site use only.

4 Bldgs.

Fort Sill

Lawton Co: Comanche OK 73503-5100

Location: #T-5046, T-5047, T-5048, T-5049

Landholding Agency: Army

Property Number: 21199730411

Status: Unutilized

Comment: various sq ft., possible asbestos/lead paint, most recent use—office, off-site use only.

Bldg. T-5420

Fort Sill

Lawton Co: Comanche OK 73503-5100

Landholding Agency: Army

Property Number: 21199730414

Status: Unutilized

Comment: 189 sq. ft., possible asbestos/lead paint, most recent use—fuel storage, off-site use only.

Bldg. T-5639

Fort Sill

Lawton Co: Comanche OK 73503-5100

Landholding Agency: Army

Property Number: 21199730416

Status: Unutilized

Comment: 10,720 sq. ft., possible asbestos/lead paint, most recent use—office, off-site use only.

Bldgs. T-7290, T-7291

Fort Sill

Lawton Co: Comanche OK 73503-5100

Landholding Agency: Army

Property Number: 21199730417

Status: Unutilized

Comment: 224/840 sq. ft., possible asbestos/lead paint, most recent use—kennel, off-site use only.

Bldg. T-7775

Fort Sill

Lawton Co: Comanche OK 73503-5100

Landholding Agency: Army

Property Number: 21199730419

Status: Unutilized

Comment: 1,452 sq. ft., possible asbestos/lead paint, most recent use—private club, off-site use only.

Bldg. T-207

Fort Sill

Lawton Co: Comanche OK 73503-5100

Landholding Agency: Army

Property Number: 21199910130

Status: Unutilized

Comment: 19,531 sq. ft., possible asbestos/lead paint, most recent use—office, off-site use only.

Bldgs. P-364, P-584, P-588

Fort Sill

Lawton Co: Comanche OK 73503-5100

Landholding Agency: Army

Property Number: 21199910131

Status: Unutilized

Comment: 106 sq. ft., possible asbestos/lead paint, most recent use—utility plant, off-site use only.

Bldg. P-599

Fort Sill

Lawton Co: Comanche OK 73503-5100

Landholding Agency: Army

Property Number: 21199910132

Status: Unutilized

Comment: 1400 sq. ft., possible asbestos/lead paint, most recent use—clubhouse, off-site use only.

4 Bldgs.

Fort Sill

P-617, P-1114, P-1386, P-1608,

Lawton Co: Comanche OK 73503-5100

Landholding Agency: Army

Property Number: 21199910133

Status: Unutilized

Comment: 106 sq. ft., possible asbestos/lead paint, most recent use—utility plant, off-site use only.

Bldg. P-746

Fort Sill

Lawton Co: Comanche OK 73503-5100

Landholding Agency: Army

Property Number: 21199910135

Status: Unutilized

Comment: 6299 sq. ft., possible asbestos/lead paint, most recent use—admin., off-site use only.

Bldgs. P-1908, P-2078

Fort Sill

Lawton Co: Comanche OK 73503-5100

Landholding Agency: Army

Property Number: 21199910136

Status: Unutilized

Comment: 106 & 131 sq. ft., possible asbestos/lead paint, most recent use—utility plant, off-site use only.

Bldg. P-2183

Fort Sill

Lawton Co: Comanche OK 73503-5100

Landholding Agency: Army

Property Number: 21199910139

Status: Unutilized

Comment: 14,530 sq. ft., possible asbestos/lead paint, most recent use—repair shop, off-site use only.

Bldgs. P-2581, P-2773

Fort Sill

Lawton Co: Comanche OK 73503-5100

Landholding Agency: Army

Property Number: 21199910140

Status: Unutilized

Comment: 4093 and 4129 sq. ft., possible asbestos/lead paint, most recent use—office, off-site use only.

Bldg. P-2582

Fort Sill

Lawton Co: Comanche OK 73503-5100

Landholding Agency: Army

Property Number: 21199910141

Status: Unutilized

Comment: 3672 sq. ft., possible asbestos/lead paint, most recent use—admin., off-site use only.

Bldgs. P-2912, P-2921, P-2944

Fort Sill

Lawton Co: Comanche OK 73503-5100

Landholding Agency: Army

Property Number: 21199910144

Status: Unutilized

Comment: 1390 sq. ft., possible asbestos/lead paint, most recent use—office, off-site use only.

Bldg. S-3169

Fort Sill

Lawton Co: Comanche OK 73503-5100

Landholding Agency: Army

Property Number: 21199910145

Status: Unutilized

Comment: 6437 sq. ft., possible asbestos/lead paint, most recent use—office, off-site use only.

Bldg. P-2914

Fort Sill

Lawton Co: Comanche OK 73503-5100

Landholding Agency: Army

Property Number: 21199910146

Status: Unutilized

Comment: 1236 sq. ft., possible asbestos/lead paint, most recent use—storage, off-site use only.

Bldg. P-3469

Fort Sill

Lawton Co: Comanche OK 73503-5100

Landholding Agency: Army

Property Number: 21199910147

Status: Unutilized

Comment: 3930 sq. ft., possible asbestos/lead paint, most recent use—car wash, off-site use only.

Bldg. S-3559

Fort Sill

Lawton Co: Comanche OK 73503-5100

Landholding Agency: Army

Property Number: 21199910148

Status: Unutilized

Comment: 9462 sq. ft., possible asbestos/lead paint, most recent use—classroom, off-site use only.

Bldg. S-4064

Fort Sill

Lawton Co: Comanche OK 73503-5100

Landholding Agency: Army

Property Number: 21199910149

Status: Unutilized

Comment: 1389 sq. ft., possible asbestos/lead paint, off-site use only.

Bldg. T-4748

Fort Sill

Lawton Co: Comanche OK 73503-5100

Landholding Agency: Army

Property Number: 21199910151

Status: Unutilized

Comment: 1896 sq. ft., possible asbestos/lead paint, most recent use—classroom, off-site use only.

Bldg. S-5086

Fort Sill

Lawton Co: Comanche OK 73503-5100

Landholding Agency: Army

Property Number: 21199910152

Status: Unutilized

Comment: 6453 sq. ft., possible asbestos/lead paint, most recent use—maintenance shop, off-site use only.

Bldg. P-5101

Fort Sill

Lawton Co: Comanche OK 73503-5100

Landholding Agency: Army

Property Number: 21199910153

Status: Unutilized

Comment: 82 sq. ft., possible asbestos/lead paint, most recent use—gas station, off-site use only.

Bldg. P-5638

Fort Sill

Lawton Co: Comanche OK 73503-5100

Landholding Agency: Army

Property Number: 21199910155

Status: Unutilized

Comment: 300 sq. ft., possible asbestos/lead paint, most recent use—storage, off-site use only.

Bldg. S-6430

Fort Sill

Lawton Co: Comanche OK 73503-5100

Landholding Agency: Army

Property Number: 21199910156

Status: Unutilized

Comment: 2080 sq. ft., possible asbestos/lead paint, most recent use—range support, off-site use only.

Bldg. T-6461

Fort Sill

Lawton Co: Comanche OK 73503-5100

Landholding Agency: Army

Property Number: 21199910157

Status: Unutilized

Comment: 200 sq. ft., possible asbestos/lead paint, most recent use—range support, off-site use only.

Bldg. T-6462

Fort Sill

Lawton Co: Comanche OK 73503-5100

Landholding Agency: Army

Property Number: 21199910158

Status: Unutilized

Comment: 64 sq. ft., possible asbestos/lead paint, most recent use—control tower, off-site use only.

Bldg. P-7230

Fort Sill

Lawton Co: Comanche OK 73503-5100

Landholding Agency: Army

Property Number: 21199910159

Status: Unutilized

Comment: 160 sq. ft., possible asbestos/lead paint, most recent use—transmitter bldg., off-site use only.

Bldg. S-7960

Fort Sill

Lawton Co: Comanche OK 73503-

Landholding Agency: Army

Property Number: 21199930159

Status: Unutilized

Comment: 120 sq. ft., possible asbestos/lead paint, most recent use—storage, off-site use only.

Bldg. S-7961

Fort Sill

Lawton Co: Comanche OK 73503-

Landholding Agency: Army

Property Number: 21199930160

Status: Unutilized

Comment: 36 sq. ft., possible asbestos/lead paint, most recent use—storage, off-site use only.

Bldg. T-1931

Fort Sill

Lawton Co: Comanche OK 73503-5100

Landholding Agency: Army

Property Number: 21200010126

Status: Unutilized

Comment: 807 sq. ft., possible asbestos/lead paint, most recent use—storage, off-site use only.

Bldg. T-1932

Fort Sill

Lawton Co: Comanche OK 73503-5100

Landholding Agency: Army

Property Number: 21200010127

Status: Unutilized

Comment: 1620 sq. ft., possible asbestos/lead paint, most recent use—storage, off-site use only.

Bldg. S-4023

Fort Sill

Lawton Co: Comanche OK 73503-5100

Landholding Agency: Army

Property Number: 21200010128

Status: Unutilized

Comment: 1200 sq. ft., possible asbestos/lead paint, most recent use—storage, off-site use only.

Bldg. S-4063

Fort Sill

Lawton Co: Comanche OK 73503-5100

Landholding Agency: Army

Property Number: 21200010129

Status: Unutilized

Comment: 4820 sq. ft., possible asbestos/lead paint, most recent use—classroom, off-site use only.

South Carolina

Bldg. 3499

Fort Jackson

Ft. Jackson Co: Richland SC 29207-

Landholding Agency: Army

Property Number: 21199730310

Status: Unutilized

Comment: 3724 sq. ft., needs repair, most recent use—admin.

Bldg. 2441

Fort Jackson

Ft. Jackson Co: Richland SC 29207-

Landholding Agency: Army

Property Number: 21199820187

Status: Unutilized

Comment: 2160 sq. ft., needs repair, most recent use—admin.

Bldg. 3605

Fort Jackson

Ft. Jackson Co: Richland SC 29207-

Landholding Agency: Army

Property Number: 21199820188

Status: Unutilized

Comment: 711 sq. ft., needs repair, most recent use—storage.

Bldg. 1765

Fort Jackson

Ft. Jackson Co: Richland SC 29207-

Landholding Agency: Army

Property Number: 21200030109

Status: Unutilized

Comment: 1700 sq. ft., needs repair, presence of asbestos/lead paint, most recent use—training bldg., off-site use only.

Texas

Bldg. T-5901

Fort Sam Houston

San Antonio Co: Bexar TX 78234-5000

Landholding Agency: Army

Property Number: 21199330486

Status: Unutilized

Comment: 742 sq. ft., 1-story wood frame, most recent use—admin., off-site use only.

Bldg. 4480, Fort Hood

Ft. Hood Co: Bell TX 76544—

Landholding Agency: Army

Property Number: 21199410322

Status: Unutilized

Comment: 2160 sq. ft., 1-story, most recent use—storage, off-site use only.

Bldg. P-6615

Fort Sam Houston

San Antonio Co: Bexar TX 78234-5000

Landholding Agency: Army

Property Number: 21199440454

Status: Excess

Comment: 400 sq. ft., 1-story concrete frame, off-site removal only, most recent use—detached garage.

Bldg. 4201, Fort Hood

Ft. Hood Co: Bell TX 76544-

Landholding Agency: Army

Property Number: 21199520201

Status: Unutilized

Comment: 9000 sq. ft., 1-story, off-site use only.

Bldg. 7137, Fort Bliss

El Paso Co: El Paso TX 79916-

Landholding Agency: Army

Property Number: 21199640564

Status: Unutilized

Comment: 35,736 sq. ft., 3-story, most recent use—housing, off-site use only.

Building 4630

Fort Hood

Fort Hood Co: Bell TX 76544-

Landholding Agency: Army

Property Number: 21199710088

Status: Unutilized

Comment: 21,833 sq. ft., most recent use—Admin., off-site use only.

Bldgs. P-605A & P-606A

Fort Sam Houston

San Antonio Co: Bexar TX 78234-5000

Landholding Agency: Army

Property Number: 21199730316

Status: Unutilized

Comment: 2418 sq. ft., poor condition, presence of asbestos/lead paint, historical category, most recent use—indoor firing range, off-site use only.

Bldg. S-1150

Fort Sam Houston

San Antonio Co: Bexar TX 78234-5000

Landholding Agency: Army

Property Number: 21199730317

Status: Unutilized

Comment: 8629 sq. ft., presence of asbestos/lead paint, most recent use—instruction bldg., off-site use only.

Bldg. T-5122

Fort Sam Houston

San Antonio Co: Bexar TX 78234-5000

Landholding Agency: Army

Property Number: 21199730331

Status: Unutilized

Comment: 3602 sq. ft., presence of asbestos/lead paint, historical category, most recent use—instruction bldg., off-site use only.

Bldg. T-5903

Fort Sam Houston

San Antonio Co: Bexar TX 78234-5000

Landholding Agency: Army

Property Number: 21199730332

Status: Unutilized

Comment: 5200 sq. ft., presence of asbestos/lead paint, historical category, most recent use—admin., off-site use only.

Bldg. T-5907

Fort Sam Houston

San Antonio Co: Bexar TX 78234-5000

Landholding Agency: Army

Property Number: 21199730333

Status: Unutilized

Comment: 570 sq. ft., presence of asbestos/lead paint, historical category, most recent use—admin., off-site use only.

Bldg. T-5906

Fort Sam Houston

San Antonio Co: Bexar TX 78234-5000

Landholding Agency: Army

Property Number: 21199730420

Status: Unutilized

Comment: 570 sq. ft., presence of asbestos/lead paint, most recent use—admin., off-site use only.

Bldg. P-1382

Fort Sam Houston

San Antonio Co: Bexar TX 78234-5000

Landholding Agency: Army

Property Number: 21199810365

Status: Unutilized

Comment: 30,082 sq. ft., presence of asbestos/lead paint, most recent use—housing, off-site use only.

Bldg. S-1155

Fort Sam Houston

San Antonio Co: Bexar TX 78234-5000

Landholding Agency: Army

Property Number: 21199830347

Status: Unutilized

Comment: 2100 sq. ft., good, hazard abatement required, most recent use—instruction bldg., off-site use only.

Bldg. T-5123

Fort Sam Houston

San Antonio Co: Bexar TX 78234-5000

Landholding Agency: Army

Property Number: 21199830350

Status: Unutilized

Comment: 2596 sq. ft., fair, hazard abatement required, most recent use—instruction, off-site use only historical significance.

Bldg. P-6150

Fort Sam Houston

San Antonio Co: Bexar TX 78234-5000

Landholding Agency: Army

Property Number: 21199830351

Status: Unutilized

Comment: 48 sq. ft., fair, hazard abatement required, most recent use—Pumphouse, off-site use only.

Bldgs. P-6331, P-6335, P-6495

Fort Sam Houston

San Antonio Co: Bexar TX 78234-5000

Landholding Agency: Army

Property Number: 21199830353

Status: Unutilized

Comment: 36 sq. ft., fair, hazard abatement required, most recent use—pumping station, off-site use only.

Bldg. P-8000

Fort Sam Houston

San Antonio Co: Bexar TX 78234-5000

Landholding Agency: Army

Property Number: 21199830354

Status: Unutilized

Comment: 1766 sq. ft., fair, hazard abatement required, most recent use—housing, off-site use only.

9 Bldgs.

Fort Sam Houston

San Antonio Co: Bexar TX 78234-5000

Location: #P8001, P8008, 8014, 8027, 8033, 8035, 8127, 8229, 8265

Landholding Agency: Army

Property Number: 21199830355

Status: Unutilized

Comment: 2456 sq. ft., fair, hazard abatement required, most recent use—housing, off-site use only.

11 Bldgs.

Fort Sam Houston

San Antonio Co: Bexar TX 78234-5000

Location: #P8003, P8011, 8012, 8019, 8043, 8202, 8204, 8216, 8235, 8241, 8261

Landholding Agency: Army

Property Number: 21199830356

Status: Unutilized

Comment: 2358 sq. ft., fair, hazard abatement required, most recent use—housing, off-site use only.

Bldgs. P-8003C, P-8220C

Fort Sam Houston

San Antonio Co: Bexar TX 78234-5000

Landholding Agency: Army

Property Number: 21199830357

Status: Unutilized

Comment: 1174 sq. ft., fair, hazard abatement required, most recent use—detached garage, off-site use only.

Bldg. P-8004

Fort Sam Houston

San Antonio Co: Bexar TX 78234-5000

Landholding Agency: Army

Property Number: 21199830358

Status: Unutilized

Comment: 2243 sq. ft., fair, hazard abatement required, most recent use—housing, off-site use only.

7 Bldgs.

Fort Sam Houston

San Antonio Co: Bexar TX 78234-5000

Location: #P8005, 8101, 8107, 8141, 8143, 8146, 8150

Landholding Agency: Army

Property Number: 21199830359

Status: Unutilized

Comment: 1804 sq. ft., fair, hazard abatement required, most recent use—housing, off-site use only.

7 Bldgs.

Fort Sam Houston

San Antonio Co: Bexar TX 78234-5000

Location: #P8009, 8024, 8207, 8214, 8217, 8226, 8256

Landholding Agency: Army

Property Number: 21199830361

Status: Unutilized

Comment: 2253 sq. ft., fair, hazard abatement required, most recent use—housing, off-site use only.

4 Bldgs.

Fort Sam Houston

San Antonio Co: Bexar TX 78234-5000

Location: #P8009C, 8027C, 8248C, 8256C

Landholding Agency: Army

Property Number: 21199830362

Status: Unutilized

Comment: 681 sq. ft., fair, hazard abatement required, most recent use—detached garage, off-site use only.

3 Bldgs.

Fort Sam Houston

San Antonio Co: Bexar TX 78234-5000

Location: #P8012C, 8039C, 8224C

Landholding Agency: Army

Property Number: 21199830363

Status: Unutilized

Comment: 1185 sq. ft., fair, hazard abatement required, most recent use—detached garage, off-site use only.

Bldg. P8016

Fort Sam Houston

San Antonio Co: Bexar TX 78234-5000

Landholding Agency: Army

Property Number: 21199830364

Status: Unutilized

Comment: 2347 sq. ft., fair, hazard abatement required, most recent use—housing, off-site use only.

8 Bldgs.

Fort Sam Houston

San Antonio Co: Bexar TX 78234-5000

Location: #P8021, 8211, 8244, 8270, 8213, 8223, 8243, 8266

Landholding Agency: Army

Property Number: 21199830365

Status: Unutilized

Comment: 249 sq. ft., fair, hazard abatement required, most recent use—housing, off-site use only.

Bldg. P-8022

Fort Sam Houston

San Antonio Co: Bexar TX 78234-5000

Landholding Agency: Army

Property Number: 21199830366

Status: Unutilized

Comment: 1849 sq. ft., fair, hazard abatement required, most recent use—housing, off-site use only.

5 Bldgs.

Fort Sam Houston

San Antonio Co: Bexar TX 78234-5000

Location: #8022C, 8023C, 8106C, 8127C, 8206C

Landholding Agency: Army

Property Number: 21199830367

Status: Unutilized

Comment: 513 sq. ft., fair, hazard abatement required, most recent use—detached garage, off-site use only.

Bldgs. P8026, P8028

Fort Sam Houston

San Antonio Co: Bexar TX 78234-5000

Landholding Agency: Army

Property Number: 21199830369

Status: Unutilized

Comment: approx. 1850 sq. ft., fair, hazard abatement required, most recent use—housing, off-site use only.

3 Bldgs.

Fort Sam Houston

San Antonio Co: Bexar TX 78234-5000

Location: #P8028C, P8143C, P8150C

Landholding Agency: Army

Property Number: 21199830370

Status: Unutilized

Comment: 838 sq. ft., fair, hazard abatement, required, most recent use—detached garage, off-site use only.

3 Bldgs.

Fort Sam Houston

San Antonio Co: Bexar TX 78234-5000

Location: #P8035C, P8104C, 8236C

Landholding Agency: Army

Property Number: 21199830372

Status: Unutilized

Comment: 1017 sq. ft., fair, hazard abatement required, most recent use—detached garage, off-site use only.

3 Bldgs.

Fort Sam Houston

San Antonio Co: Bexar TX 78234-5000

Location: #P8102, 8106, 8108

Landholding Agency: Army

Property Number: 21199830375

Status: Unutilized

Comment: 2700 sq. ft., fair, hazard abatement required, most recent use—housing, off-site use only.

Bldgs. P8109, P8137

Fort Sam Houston

San Antonio Co: Bexar TX 78234-5000

Landholding Agency: Army

Property Number: 21199830376

Status: Unutilized

Comment: 1540 sq. ft., fair, hazard abatement required, most recent use—housing, off-site use only.

Bldgs. P8112, P8228

Fort Sam Houston

San Antonio Co: Bexar TX 78234-5000

Landholding Agency: Army

Property Number: 21199830378

Status: Unutilized

Comment: 1807 sq. ft., fair, hazard abatement required, most recent use—housing, off-site use only.

3 Bldgs.

Fort Sam Houston

San Antonio Co: Bexar TX 78234-5000

Location: P8116, 8151, 8158

Landholding Agency: Army

Property Number: 21199830380

Status: Unutilized

Comment: 1691 sq. ft., fair, hazard abatement required, most recent use—housing, off-site use only.

Bldg. P8117

Fort Sam Houston

San Antonio Co: Bexar TX 78234-5000

Landholding Agency: Army

Property Number: 21199830381

Status: Unutilized

Comment: 1581 sq. ft., fair, hazard abatement required, most recent use—housing, off-site use only.

8 Bldgs.

Fort Sam Houston

San Antonio Co: Bexar TX 78234-5000

Location: #P8118, 8121, 8125, 8153, 8119, 8120, 8124, 8168

Landholding Agency: Army

Property Number: 21199830382

Status: Unutilized

Comment: various sq. ft., fair, hazard abatement required, most recent use—housing, off-site use only.

Bldgs. P8122, P8123

Fort Sam Houston

San Antonio Co: Bexar TX 78234-5000

Landholding Agency: Army

Property Number: 21199830383

Status: Unutilized

Comment: approx. 1400 sq. ft., fair, hazard abatement required, most recent use—housing, off-site use only.

Bldg. P8126

Fort Sam Houston

San Antonio Co: Bexar TX 78234-5000

Landholding Agency: Army

Property Number: 21199830384

Status: Unutilized

Comment: 1331 sq. ft., fair, hazard abatement required, most recent use—detached housing, off-site use only.

8 Bldgs.

Fort Sam Houston

San Antonio Co: Bexar TX 78234-5000

Location: P8131C, 8139C, 8203C, 8231C, 8243C, 8249C, 8261C

Landholding Agency: Army

Property Number: 21199830386

Status: Unutilized

Comment: 849 sq. ft., fair, hazard abatement required, most recent use—detached garage, off-site use only.

Bldgs. P8133, P8134

Fort Sam Houston

San Antonio Co: Bexar TX 78234-5000

Landholding Agency: Army

Property Number: 21199830387

Status: Unutilized

Comment: approx. 2000 sq. ft., fair, hazard abatement required, most recent use—housing, off-site use only.

Bldgs. P8135, P8136

Fort Sam Houston

San Antonio Co: Bexar TX 78234-5000

Landholding Agency: Army

Property Number: 21199830388

Status: Unutilized

Comment: approx. 1500 sq. ft., fair, hazard abatement required, most recent use—housing, off-site use only.

4 Bldgs.

Fort Sam Houston

San Antonio Co: Bexar TX 78234-5000

Location: #P8144, 8267, 8148, 8149

Landholding Agency: Army

Property Number: 21199830389

Status: Unutilized

Comment: approx. 2200 sq. ft., fair, hazard abatement required, most recent use—housing, off-site use only.

Bldg. P8171

Fort Sam Houston

San Antonio Co: Bexar TX 78234-5000

Landholding Agency: Army

Property Number: 21199830392

Status: Unutilized

Comment: 1289 sq. ft., fair, hazard abatement required, most recent use—housing, off-site use only.

Bldg. P8172

Fort Sam Houston

San Antonio Co: Bexar TX 78234-5000

Landholding Agency: Army

Property Number: 21199830393

Status: Unutilized

Comment: 1597 sq. ft., fair, hazard abatement required, most recent use—housing, off-site use only.

Bldgs. P8173, P8174

Fort Sam Houston

San Antonio Co: Bexar TX 78234-5000

Landholding Agency: Army

Property Number: 21199830394

Status: Unutilized

Comment: approx. 2200 sq. ft., fair, hazard abatement required, most recent use—housing, off-site use only.

Bldg. P8174C

Fort Sam Houston

San Antonio Co: Bexar TX 78234-5000

Landholding Agency: Army

Property Number: 21199830395

Status: Unutilized

Comment: 670 sq. ft., fair, hazard abatement required, most recent use—detached garage, off-site use only.

Bldg. P8175

Fort Sam Houston

San Antonio Co: Bexar TX 78234-5000

Landholding Agency: Army

Property Number: 21199830396

Status: Unutilized

Comment: 2220 sq. ft., fair, hazard abatement required, most recent use—housing, off-site use only.

Bldg. P8200

Fort Sam Houston

San Antonio Co: Bexar TX 78234-5000

Landholding Agency: Army

Property Number: 21199830397

Status: Unutilized

Comment: 892 sq. ft., fair, hazard abatement required, most recent use—officers quarters, off-site use only.

Bldg. P8205

Fort Sam Houston

San Antonio Co: Bexar TX 78234-5000

Landholding Agency: Army

Property Number: 21199830399

Status: Unutilized

Comment: 1745 sq. ft., fair, hazard abatement required, most recent use—housing, off-site use only.

3 Bldgs.

Fort Sam Houston

San Antonio Co: Bexar TX 78234-5000

Location: #P8206, 8232, 8233

Landholding Agency: Army

Property Number: 21199830400

Status: Unutilized

Comment: approx. 2400 sq. ft., fair, hazard abatement required, most recent use—housing, off-site use only.

Bldg. P8245

Fort Sam Houston

San Antonio Co: Bexar TX 78234-5000

Landholding Agency: Army

Property Number: 21199830401

Status: Unutilized

Comment: 2876 sq. ft., fair, hazard abatement required, most recent use—housing, off-site use only.

Bldgs. P8262C, 8271C

Fort Sam Houston

San Antonio Co: Bexar TX 78234-5000

Landholding Agency: Army

Property Number: 21199830403

Status: Unutilized

Comment: 1006 sq. ft., fair, hazard abatement required, most recent use—detached garage, off-site use only.

Bldg. P8269

Fort Sam Houston

San Antonio Co: Bexar TX 78234-5000

Landholding Agency: Army

Property Number: 21199830404

Status: Unutilized

Comment: 2396 sq. ft., fair, hazard abatement required, most recent use—housing, off-site use only.

20 Bldgs.

Fort Sam Houston

San Antonio Co: Bexar TX 78234-5000

Location: #P8271, 8002, 8018, 8025, 8037, 8100, 8130, 8132, 8238, 8140, 8142, 8145, 8147, 8210, 8212, 8221, 8242, 8247, 8264, 8257

Landholding Agency: Army

Property Number: 21199830405

Status: Unutilized

Comment: 2777 sq. ft., fair, hazard abatement required, most recent use—housing, off-site use only.

Bldg. 41

Fort Hood

Ft. Hood Co: Coryell TX 76544-

Landholding Agency: Army

Property Number: 21199920208

Status: Unutilized

Comment: 1750 sq. ft., needs repair, most recent use—admin., off-site use only.

Bldg. 919

Fort Hood

Ft. Hood Co: Coryell TX 76544-

Landholding Agency: Army

Property Number: 21199920212

Status: Unutilized

Comment: 11,800 sq. ft., needs repair, most recent use—Bde. Hq. Bldg., off-site use only.

Bldg. 923

Fort Hood

Ft. Hood Co: Coryell TX 76544-

Landholding Agency: Army

Property Number: 21199920213

Status: Unutilized

Comment: 4440 sq. ft., needs repair, most recent use—admin., off-site use only.

Bldg. 924

Fort Hood

Ft. Hood Co: Coryell TX 76544-

Landholding Agency: Army

Property Number: 21199920214

Status: Unutilized

Comment: 3500 sq. ft., needs repair, most recent use—admin., off-site use only.

Bldg. 3959

Fort Hood

Ft. Hood Co: Coryell TX 76544-

Landholding Agency: Army

Property Number: 21199920224

Status: Unutilized

Comment: 3373 sq. ft., needs repair, most recent use—admin., off-site use only.

Bldgs. 3967-3969

Fort Hood

Ft. Hood Co: Coryell TX 76544-

Landholding Agency: Army

Property Number: 21199920228

Status: Unutilized

Comment: 5310 sq. ft., needs repair, most recent use—admin., off-site use only.

Bldgs. 3970-3971

Fort Hood

Ft. Hood Co: Coryell TX 76544-

Landholding Agency: Army

Property Number: 21199920229

Status: Unutilized

Comment: 3241 sq. ft., needs repair, most recent use—admin., off-site use only.

4 Bldgs.

Fort Sam Houston

S6161, S6162, S6167, S6168

San Antonio Co: Bexar TX 78234-5000

Landholding Agency: Army

Property Number: 21200010132

Status: Unutilized

Comment: 900 sq. ft., needs major repairs, most recent use—admin., off-site use only.

Bldg. S1448

Fort Sam Houston

San Antonio Co: Bexar TX

Landholding Agency: Army

Property Number: 21200010133

Status: Unutilized

Comment: 4200 sq. ft., possible asbestos/lead paint, most recent use—admin., off-site use only.

Bldg. T5001

Fort Sam Houston

San Antonio Co: Bexar TX 78234-5000

Landholding Agency: Army

Property Number: 21200010134

Status: Unutilized

Comment: 1186 sq. ft., needs major repairs, possible asbestos/lead paint, most recent use—admin., off-site use only.

Bldg. S6163

Fort Sam Houston

San Antonio Co: Bexar TX 78234-5000

Landholding Agency: Army

Property Number: 21200010136

Status: Unutilized

Comment: 3200 sq. ft., needs major repairs, most recent use—admin., off-site use only.

Bldg. S6169

Fort Sam Houston

San Antonio Co: Bexar TX 78234-5000

Landholding Agency: Army

Property Number: 21200010137

Status: Unutilized

Comment: 1800 sq. ft., needs major repairs, most recent use—admin., off-site use only.

Bldg. P-2375A

Fort Sam Houston

San Antonio Co: Bexar TX 78234-5000

Landholding Agency: Army

Property Number: 21200020202

Status: Unutilized

Comment: 108 sq. ft., presence of lead paint, most recent use—storage, off-site use only.

Bldg. T-5004

Fort Sam Houston

San Antonio Co: Bexar TX 78234-5000

Landholding Agency: Army

Property Number: 21200020203

Status: Unutilized

Comment: 4489 sq. ft., presence of asbestos/lead paint, most recent use—storage, off-site use only.

Bldg. 92043

Fort Hood

Ft. Hood Co: Bell TX 76544-

Landholding Agency: Army

Property Number: 21200020206

Status: Unutilized

Comment: 450 sq. ft., most recent use—storage, off-site use only.

Bldg. 92044

Fort Hood

Ft. Hood Co: Bell TX 76544-

Landholding Agency: Army

Property Number: 21200020207

Status: Unutilized

Comment: 1920 sq. ft., most recent use—admin., off-site use only.

Bldg. 92045

Fort Hood

Ft. Hood Co: Bell TX 76544-

Landholding Agency: Army

Property Number: 21200020208

Status: Unutilized

Comment: 2108 sq. ft., most recent use—maint., off-site use only.

Bldg. P-8219

Fort Sam Houston

San Antonio Co: Bexar TX 78234-5000

Landholding Agency: Army

Property Number: 21200030110

Status: Excess

Comment: 2456 sq. ft., presence of asbestos/lead paint, most recent use—family house, off-site use only.

Bldg. 4422

Fort Hood

Ft. Hood Co: Bell TX 76544-

Landholding Agency: Army

Property Number: 21200030111

Status: Unutilized

Comment: 5310 sq. ft., most recent use—barracks, off-site use only.

Bldg. 4423

Fort Hood

Ft. Hood Co: Bell TX 76544-

Landholding Agency: Army

Property Number: 21200030112

Status: Unutilized

Comment: 5310 sq. ft., most recent use—barracks, off-site use only.

Bldg. 4462

Fort Hood

Ft. Hood Co: Bell TX 76544-

Landholding Agency: Army

Property Number: 21200030113

Status: Unutilized

Comment: 5310 sq. ft., most recent use—barracks, off-site use only.

Bldg. 4463

Fort Hood

Ft. Hood Co: Bell TX 76544-

Landholding Agency: Army

Property Number: 21200030114

Status: Unutilized

Comment: 5310 sq. ft., most recent use—barracks, off-site use only.

Bldg. 4464

Fort Hood

Ft. Hood Co: Bell TX 76544-

Landholding Agency: Army

Property Number: 21200030115

Status: Unutilized

Comment: 5310 sq. ft., most recent use—barracks, off-site use only.

Bldg. 4469

Fort Hood

Ft. Hood Co: Bell TX 76544-

Landholding Agency: Army

Property Number: 21200030116

Status: Unutilized

Comment: 5310 sq. ft., most recent use—barracks, off-site use only.

Virginia

Bldg. 178

Fort Monroe

Ft. Monroe Co: VA 23651-

Landholding Agency: Army

Property Number: 21199940046

Status: Unutilized

Comment: 1180 sq. ft., needs repair, most recent use—storage, off-site use only.

Bldg. T246

Fort Monroe

Ft. Monroe Co: VA 23651-

Landholding Agency: Army

Property Number: 21199940047

Status: Unutilized

Comment: 756 sq. ft., needs repair, possible lead paint, most recent use—scout meetings, off-site use only.

Bldg. TT0114

Fort A.P. Hill

Bowling Green Co: Caroline VA 22427-

Landholding Agency: Army

Property Number: 21200020209

Status: Unutilized

Comment: 1440 sq. ft., needs rehab, most recent use—admin., off-site use only.

Bldg. TT0130

Fort A.P. Hill

Bowling Green Co: Caroline VA 22427-

Landholding Agency: Army

Property Number: 21200020213

Status: Unutilized

Comment: 861 sq. ft., needs rehab, presence of asbestos, most recent use—transient UOQ, off-site use only.

Bldg. TT0131

Fort A.P. Hill

Bowling Green Co: Caroline VA 22427-

Landholding Agency: Army

Property Number: 21200020214

Status: Unutilized

Comment: 861 sq. ft., needs rehab, presence of asbestos, most recent use—transient UOQ, off-site use only.

Bldg. TT0132

Fort A.P. Hill

Bowling Green Co: Caroline VA 22427-

Landholding Agency: Army

Property Number: 21200020215

Status: Unutilized

Comment: 800 sq. ft., needs rehab, presence of asbestos, most recent use—transient UOQ, off-site use only.

Bldg. TT0133

Fort A.P. Hill

Bowling Green Co: Caroline VA 22427-

Landholding Agency: Army

Property Number: 21200020216

Status: Unutilized

Comment: 800 sq. ft., needs rehab, presence of asbestos, most recent use—transient UOQ, off-site use only.

Bldg. TT0139

Fort A.P. Hill

Bowling Green Co: Caroline VA 22427-

Landholding Agency: Army

Property Number: 21200020217

Status: Unutilized

Comment: 800 sq. ft., needs rehab, presence of asbestos, most recent use—storage, off-site use only.

Bldg. TT0158

Fort A.P. Hill

Bowling Green Co: Caroline VA 22427-

Landholding Agency: Army

Property Number: 21200020218

Status: Unutilized

Comment: 361 sq. ft., needs rehab, presence of asbestos, most recent use—storage, off-site use only.

Bldg. TT0163

Fort A.P. Hill

Bowling Green Co: Caroline VA 22427-

Landholding Agency: Army

Property Number: 21200020219

Status: Unutilized

Comment: 1920 sq. ft., needs rehab, presence of asbestos, most recent use—admin., off-site use only.

Bldg. P1530

Fort A.P. Hill

Bowling Green Co: Caroline VA 22427-

Landholding Agency: Army

Property Number: 21200020222

Status: Unutilized

Comment: 800 sq. ft., needs rehab, presence of asbestos, most recent use—storage., off-site use only.

Bldgs 1630, 1633, 1636

Fort Eustis

Ft. Eustis Co: VA 23604-

Landholding Agency: Army

Property Number: 21200030119

Status: Unutilized

Comment: 720 sq. ft., most recent use—storehouse, off-site use only.

Washington

13 Bldgs., Fort Lewis

A0402, CO723, CO726, CO727, CO902, CO907, CO922, CO923, CO926, CO927

Ft. Lewis Co: Pierce WA 98433-9500

Landholding Agency: Army

Property Number: 21199630199

Status: Unutilized

Comment: 2360 sq. ft., possible asbestos/lead paint, most recent use—barracks, off-site use only.

7 Bldgs., Fort Lewis

AO438, AO439, CO901, CO910, CO911

Ft. Lewis Co: Pierce WA 98433-9500

Landholding Agency: Army

Property Number: 21199630200

Status: Unutilized

Comment: 1144 sq. ft., possible asbestos/lead paint, most recent use—dayroom bldgs., off-site use only.

6 Bldgs. Fort Lewis

CO908,CO728,CO921,CO928,C1008

Ft. Lewis Co: Pierce WA 98433-9500

Landholding Agency: Army

Property Number: 21199630204

Status: Unutilized

Comment: 2207 sq. ft., possible asbestos/lead paint, most recent use—dining, off-site use only.

Bldg. CO909, Fort Lewis

Ft. Lewis Co: Pierce WA 98433-9500

Landholding Agency: Army

Property Number: 21199630205

Status: Unutilized

Comment: 1984 sq. ft., possible asbestos/lead paint, most recent use—admin., off-site use only.

Bldg. CO920, Fort Lewis

Ft. Lewis Co: Pierce WA 98433-9500

Landholding Agency: Army

Property Number: 21199630206

Status: Unutilized

Comment: 1984 sq. ft., possible asbestos/lead paint, most recent use—admin., off-site use only.

Bldg. C1249, Fort Lewis

Ft. Lewis Co: Pierce WA 98433-9500

Landholding Agency: Army

Property Number: 21199630207

Status: Unutilized

Comment: 992 sq. ft., possible asbestos/lead paint, most recent use—storage, off-site use only.

Bldg. 1164, Fort Lewis

Ft. Lewis Co: Pierce WA 98433-9500

Landholding Agency: Army

Property Number: 21199630213

Status: Unutilized

Comment: 230 sq. ft., possible asbestos/lead paint, most recent use—storehouse, off-site use only.

Bldg. 1307, Fort Lewis

Ft. Lewis Co: Pierce WA 98433-9500

Landholding Agency: Army

Property Number: 21199630216

Status: Unutilized

Comment: 1092 sq. ft., possible asbestos/lead paint, most recent use—storage, off-site use only.

Bldg. 1309, Fort Lewis

Ft. Lewis Co: Pierce WA 98433-9500

Landholding Agency: Army

Property Number: 21199630217

Status: Unutilized

Comment: 1092 sq. ft., possible asbestos/lead paint, most recent use—storage, off-site use only.

Bldg. 2167, Fort Lewis

Ft. Lewis Co: Pierce WA 98433-9500

Landholding Agency: Army

Property Number: 21199630218

Status: Unutilized

Comment: 288 sq. ft., possible asbestos/lead paint, most recent use—warehouse, off-site use only.

Bldg. 4078, Fort Lewis

Ft. Lewis Co: Pierce WA 98433-9500

Landholding Agency: Army

Property Number: 21199630219

Status: Unutilized

Comment: 10200 sq. ft., needs rehab, possible asbestos/lead paint, most recent use—warehouse, off-site use only.

Bldg. 9599, Fort Lewis

Ft. Lewis Co: Pierce WA 98433-9500

Landholding Agency: Army

Property Number: 21199630220

Status: Unutilized

Comment: 12366 sq. ft., possible asbestos/lead paint, most recent use—warehouse, off-site use only.

Bldg. A1404, Fort Lewis

Ft. Lewis Co: Pierce WA 98333-

Landholding Agency: Army

Property Number: 21199640570

Status: Unutilized

Comment: 557 sq. ft., needs rehab, most recent use—storage, off-site use only.

Bldg. A1419, Fort Lewis

Ft. Lewis Co: Pierce WA 98433-

Landholding Agency: Army

Property Number: 21199640571

Status: Unutilized

Comment: 1307 sq. ft., needs rehab, most recent use—storage, off-site use only.

Bldg. E0202

Fort Lewis

Ft. Lewis Co: Pierce WA 98433-

Landholding Agency: Army

Property Number: 21199710149

Status: Unutilized

Comment: 992 sq. ft., possible asbestos/lead paint, most recent use—office, off-site use only.

Bldg. E0347

Fort Lewis

Ft. Lewis Co: Pierce WA 98433-

Landholding Agency: Army

Property Number: 21199710156

Status: Unutilized

Comment: 1800 sq. ft., possible asbestos/lead paint, most recent use—office, off-site use only.

Bldg. B1008, Fort Lewis

Ft. Lewis Co: Pierce WA 98433-

Landholding Agency: Army

Property Number: 21199720216

Status: Unutilized

Comment: 7387 sq. ft., 2-story, needs rehab, possible asbestos/lead paint, most recent use—medical clinic, off-site use only.

Bldgs. B1011-B1012, Fort Lewis

Ft. Lewis Co: Pierce WA 98433-

Landholding Agency: Army

Property Number: 21199720217

Status: Unutilized

Comment 992 sq. ft. and 1144 sq. ft., needs rehab, possible asbestos/lead paint, most recent use—office, off-site use only.

Bldgs. C0509, C0709, C0720

Fort Lewis

Ft. Lewis Co: Pierce WA 98433-

Landholding Agency: Army

Property Number: 21199810372

Status: Unutilized

Comment: 1984 sq. ft., possible asbestos/lead paint, needs rehab, most recent use—storage, off-site use only.

4 Bldgs.

Fort Lewis

C0511, C0710, C0711, C0719

Ft. Lewis Co: Pierce WA 98433-

Landholding Agency: Army

Property Number: 21199810373

Status: Unutilized

Comment: 1,144 sq. ft., possible asbestos/lead paint, needs rehab, most recent use—dayrooms, off-site use only.

11 Bldgs.

Fort Lewis

Ft. Lewis Co: Pierce WA 98433-

Location: CO528, CO701, CO708, CO721, CO526, CO527, CO702, CO703, CO706, CO707, CO722

Landholding Agency: Army

Property Number: 21199810374

Status: Unutilized

Comment: 2207 sq. ft., possible asbestos/lead paint, needs rehab, most recent use—dining, off-site use only.

Bldg. 5162

Fort Lewis

Ft. Lewis Co: Pierce WA 98433-

Landholding Agency: Army

Property Number: 21199830419

Status: Unutilized

Comment: 2360 sq. ft., needs repair, presence of asbestos/lead paint, most recent use—office, off-site use only.

Bldg. A0631

Fort Lewis

Ft. Lewis Co: Pierce WA 98433-

Landholding Agency: Army

Property Number: 21199830422

Status: Unutilized

Comment: 2207 sq. ft., needs repair, presence of asbestos/lead paint, most recent use—dayroom, off-site use only.

Bldg. B0813

Fort Lewis

Ft. Lewis Co: Pierce WA 98433-

Landholding Agency: Army

Property Number: 21199830427

Status: Unutilized

Comment: 1144 sq. ft., needs repair, presence of asbestos/lead paint, most recent use—office, off-site use only.

Bldg. B0812

Fort Lewis

Ft. Lewis Co: Pierce WA 98433-

Landholding Agency: Army

Property Number: 21199830428

Status: Unutilized

Comment: 1144 sq. ft., needs repair, presence of asbestos/lead paint, most recent use—dayroom, off-site use only.

Bldg. 5224

Fort Lewis

Ft. Lewis Co: Pierce WA 98433-

Landholding Agency: Army

Property Number: 21199830433

Status: Unutilized

Comment: 2360 sq. ft., needs repair, presence of asbestos/lead paint, most recent use—educ. fac., off-site use only.

Bldg. U001B

Fort Lewis

Ft. Lewis Co: Pierce WA 98433-

Landholding Agency: Army

Property Number: 21199920237

Status: Excess

Comment: 54 sq. ft., needs repair, presence of asbestos/lead paint, most recent use—control tower, off-site use only.

Bldg. U001C

Fort Lewis

Ft. Lewis Co: Pierce WA 98433-

Landholding Agency: Army

Property Number: 21199920238

Status: Unutilized

Comment: 960 sq. ft., needs repair, presence of asbestos/lead paint, most recent use—supply, off-site use only.

10 Bldgs.

Fort Lewis

Ft. Lewis Co: Pierce WA 98433-

Location: U002B, U002C, U005C, U015I, U016E, U019C, U022A, U028B, U091A, U093C

Landholding Agency: Army

Property Number: 21199920239

Status: Excess

Comment: 600 sq. ft., needs repair, presence of asbestos/lead paint, most recent use—range house, off-site use only.

6 Bldgs.

Fort Lewis

Ft. Lewis Co: Pierce WA 98433-

Location: U003A, U004B, U006C, U015B, U016B, U019B

Landholding Agency: Army

Property Number: 21199920240

Status: Unutilized

Comment: 54 sq. ft., needs repair, presence of asbestos/lead paint, most recent use—control tower, off-site use only.

Bldg. U004D

Fort Lewis

Ft. Lewis Co: Pierce WA 98433-

Landholding Agency: Army

Property Number: 21199920241

Status: Unutilized

Comment: 960 sq. ft., needs repair, presence of asbestos/lead paint, most recent use—supply, off-site use only.

Bldg. U005A

Fort Lewis

Ft. Lewis Co: Pierce WA 98433-

Landholding Agency: Army

Property Number: 21199920242

Status: Unutilized

Comment: 360 sq. ft., needs repair, presence of asbestos/lead paint, most recent use—control tower, offsite use only.

Bldg. U006A, U024A

Fort Lewis

Ft. Lewis Co: Pierce WA 98433-

Landholding Agency: Army

Property Number: 21199920243

Status: Excess

Comment: 1440 sq. ft., needs repair, presence of asbestos/lead paint, most recent use—shelter, off-site use only.

Bldgs. U007A, U021A

Fort Lewis

Ft. Lewis Co: Pierce WA 98433-

Landholding Agency: Army

Property Number: 21199920244

Status: Excess

Comment: 100 sq. ft., needs repair, presence of asbestos/lead paint, most recent use—control tower, off-site use only.

7 Bldgs.

Fort Lewis

Ft. Lewis Co: Pierce WA 98433-

Location: U014A, U022B, U023A, U043B, U059B, U060A, U101A

Landholding Agency: Army

Property Number: 21199920245

Status: Excess

Comment: needs repair, presence of asbestos/lead paint, most recent use—ofc/tower/support, off-site use only.

Bldg. U015J

Fort Lewis

Ft. Lewis Co: Pierce WA 98433-

Landholding Agency: Army

Property Number: 21199920246

Status: Excess

Comment: 144 sq. ft., needs repair, presence of asbestos/lead paint, most recent use—tower, off-site use only.

Bldgs. U018B

Fort Lewis

Ft. Lewis Co: Pierce WA 98433-

Landholding Agency: Army

Property Number: 21199920247

Status: Unutilized

Comment: 121 sq. ft., needs repair, presence of asbestos/lead paint, most recent use—range house, off-site use only.

Bldg. U018C

Fort Lewis

Ft. Lewis Co: Pierce WA 98433-

Landholding Agency: Army

Property Number: 21199920248

Status: Unutilized

Comment: 48 sq. ft., needs repair, presence of asbestos/lead paint, off-site use only.

Bldg. U024B

Fort Lewis

Ft. Lewis Co: Pierce WA 98433-

Landholding Agency: Army

Property Number: 21199920249

Status: Unutilized

Comment: 168 sq. ft., needs repair, presence of asbestos/lead paint, most recent use—control tower, off-site use only.

Bldg. U024D

Fort Lewis

Ft. Lewis Co: Pierce WA 98433-

Landholding Agency: Army

Property Number: 21199920250

Status: Unutilized

Comment: 120 sq. ft., needs repair, presence of asbestos/lead paint, most recent use—ammo bldg., off-site use only.

Bldg. U027A

Fort Lewis

Ft. Lewis Co: Pierce WA -

Landholding Agency: Army

Property Number: 21199920251

Status: Excess

Comment: 64 sq. ft., needs repair, presence of asbestos/lead paint, most recent use—tire house, off-site use only.

Bldgs. U028A-U032A

Fort Lewis

Ft. Lewis Co: Pierce WA 98433-

Landholding Agency: Army

Property Number: 21199920252

Status: Unutilized

Comment: 72 sq. ft., needs repair, presence of asbestos/lead paint, most recent use—control tower, off-site use only.

Bldg. U031A

Fort Lewis

Ft. Lewis Co: Pierce WA 98433-

Landholding Agency: Army

Property Number: 21199920253

Status: Excess

Comment: 3456 sq. ft., needs repair, presence of asbestos/lead paint, most recent use—line shed, off-site use only.

Bldg. U031C

Fort Lewis

Ft. Lewis Co: Pierce WA 98433-

Landholding Agency: Army

Property Number: 21199920254

Status: Unutilized

Comment: 32 sq. ft., needs repair, presence of asbestos/lead paint, off-site use only.

Bldg. U040D

Fort Lewis

Ft. Lewis Co: Pierce WA 98433-

Landholding Agency: Army

Property Number: 21199920255

Status: Excess

Comment: 800 sq. ft., needs repair, presence of asbestos/lead paint, most recent use—range house, off-site use only.

Bldgs. U052C, U052H

Fort Lewis

Ft. Lewis Co: Pierce WA 98433-

Landholding Agency: Army

Property Number: 21199920256

Status: Excess

Comment: various sq. ft., needs repair, presence of asbestos/lead paint, most recent use—range house, off-site use only.

Bldgs. U035A, U035B

Fort Lewis

Ft. Lewis Co: Pierce WA 98433-

Landholding Agency: Army

Property Number: 21199920257

Status: Excess

Comment: 192 sq. ft., needs repair, presence of asbestos/lead paint, most recent use—shelter, off-site use only.

Bldg. U035C

Fort Lewis

Ft. Lewis Co: Pierce WA 98433-

Landholding Agency: Army

Property Number: 21199920258

Status: Excess

Comment: 242 sq. ft., needs repair, presence of asbestos/lead paint, most recent use—range house, off-site use only.

Bldg. U039A

Fort Lewis

Ft. Lewis Co: Pierce WA 98433-

Landholding Agency: Army

Property Number: 21199920259

Status: Excess

Comment: 36 sq. ft., needs repair, presence of asbestos/lead paint, most recent use—control tower, off-site use only.

Bldg. U039B

Fort Lewis

Ft. Lewis Co: Pierce WA 98433-

Landholding Agency: Army

Property Number: 21199920260

Status: Excess

Comment: 1600 sq. ft., needs repair, presence of asbestos/lead paint, most recent use—grandstand/bleachers, off-site use only.

Bldg. U039C

Fort Lewis

Ft. Lewis Co: Pierce WA 98433-

Landholding Agency: Army

Property Number: 21199920261

Status: Excess

Comment: 600 sq. ft., needs repair, presence of asbestos/lead paint, most recent use—support, off-site use only.

Bldg. U043A

Fort Lewis

Ft. Lewis Co: Pierce WA 98433-

Landholding Agency: Army

Property Number: 21199920262

Status: Excess

Comment: 132 sq. ft., needs repair, presence of asbestos/lead paint, most recent use—range house, off-site use only.

Bldg. U052A

Fort Lewis

Ft. Lewis Co: Pierce WA 98433-

Landholding Agency: Army

Property Number: 21199920263

Status: Excess

Comment: 69 sq. ft., needs repair, presence of asbestos/lead paint, most recent use—tower, off-site use only.

Bldg. U052E

Fort Lewis

Ft. Lewis Co: Pierce WA 98433-

Landholding Agency: Army

Property Number: 21199920264

Status: Excess

Comment: 600 sq. ft., needs repair, presence of asbestos/lead paint, most recent use—storage, off-site use only.

Bldg. U052G

Fort Lewis

Ft. Lewis Co: Pierce WA 98433-

Landholding Agency: Army

Property Number: 21199920265

Status: Excess

Comment: 1600 sq. ft., needs repair, presence of asbestos/lead paint, most recent use—shelter, off-site use only.

3 Bldgs.

Fort Lewis

Ft. Lewis Co: Pierce WA 98433-

Location: U058A, U103A, U018A

Landholding Agency: Army

Property Number: 21199920266

Status: Excess

Comment: 36 sq. ft., needs repair, presence of asbestos/lead paint, most recent use—control tower, off-site use only.

Bldg. U059A

Fort Lewis

Ft. Lewis Co: Pierce WA 98433-

Landholding Agency: Army

Property Number: 21199920267

Status: Excess

Comment: 16 sq. ft., needs repair, presence of asbestos/lead paint, most recent use—tower, off-site use only.

Bldg. U093B

Fort Lewis

Ft. Lewis Co: Pierce WA 98433-

Landholding Agency: Army

Property Number: 21199920268

Status: Excess

Comment: 680 sq. ft., needs repair, presence of asbestos/lead paint, most recent use—range house, off-site use only.

4 Bldgs.

Fort Lewis

Ft. Lewis Co: Pierce WA 98433-

Location: U101B, U101C, U507B, U557A

Landholding Agency: Army

Property Number: 21199920269

Status: Excess

Comment: 400 sq. ft., needs repair, presence of asbestos/lead paint, off-site use only.

Bldg. U102B

Fort Lewis

Ft. Lewis Co: Pierce WA 98433-

Landholding Agency: Army

Property Number: 21199920270

Status: Excess

Comment: 1058 sq. ft., needs repair, presence of asbestos/lead paint, most recent use—shelter, off-site use only.

Bldg. U108A

Fort Lewis

Ft. Lewis Co: Pierce WA 98433-

Landholding Agency: Army

Property Number: 21199920271

Status: Excess

Comment: 31,320 sq. ft., needs repair, presence of asbestos/lead paint, most recent use—line shed, off-site use only.

Bldg. U110B

Fort Lewis

Ft. Lewis Co: Pierce WA 98433-

Landholding Agency: Army

Property Number: 21199920272

Status: Excess

Comment: 138 sq. ft., needs repair, presence of asbestos/lead paint, most recent use—support, off-site use only.

6 Bldgs.

Fort Lewis

Ft. Lewis Co: Pierce WA 98433-

Location: U111A, U015A, U024E, U052F, U109A, U110A

Landholding Agency: Army

Property Number: 21199920273

Status: Excess

Comment: 1000 sq. ft., needs repair, presence of asbestos/lead paint, most recent use—support/shelter/mess, off-site use only.

Bldg. U112A

Fort Lewis

Ft. Lewis Co: Pierce WA 98433-

Landholding Agency: Army

Property Number: 21199920274

Status: Excess

Comment: 1600 sq. ft., needs repair, presence of asbestos/lead paint, most recent use—shelter, off-site use only.

Bldg. U115A

Fort Lewis

Ft. Lewis Co: Pierce WA 98433-

Landholding Agency: Army

Property Number: 21199920275

Status: Excess

Comment: 36 sq. ft., needs repair, presence of asbestos/lead paint, most recent use—tower, off-site use only.

Bldg. U507A

Fort Lewis

Ft. Lewis Co: Pierce WA 98433-

Landholding Agency: Army

Property Number: 2119920276

Status: Excess

Comment: 400 sq. ft., needs repair, presence of asbestos/lead paint, most recent use—support, off-site use only.

Bldg. U516B

Fort Lewis

Ft. Lewis Co: Pierce WA 98433-

Landholding Agency: Army

Property Number: 2119920277

Status: Excess

Comment: 500 sq. ft., needs repair, presence of asbestos/lead paint, most recent use—shed, off-site use only.

7 Bldgs.

Fort Lewis

Ft. Lewis Co: Pierce WA 98433-

Location: F0002, F0004, F0003, F0005, F0006, F0008, F0009

Landholding Agency: Army

Property Number: 2119920278

Status: Excess

Comment: various sq. ft., needs repair, presence of asbestos/lead paint, most recent use—storehouse, off-site use only.

Bldg. F0022A

Fort Lewis

Ft. Lewis Co: Pierce WA 98433-

Landholding Agency: Army

Property Number: 2119920279

Status: Excess

Comment: 4373 sq. ft., needs repair, presence of asbestos/lead paint, most recent use—gen. inst., off-site use only.

Bldg. F0022B

Fort Lewis

Ft. Lewis Co: Pierce WA 98433-

Landholding Agency: Army

Property Number: 2119920280

Status: Excess

Comment: 3100 sq. ft., needs repair, presence of asbestos/lead paint, most recent use—storage, off-site use only.

Bldg. C0120

Fort Lewis

Ft. Lewis Co: Pierce WA 98433-

Landholding Agency: Army

Property Number: 2119920281

Status: Excess

Comment: 384 sq. ft., needs repair, presence of asbestos/lead paint, most recent use—scale house, off-site use only.

Bldg. A0220

Fort Lewis

Ft. Lewis Co: Pierce WA 98433-

Landholding Agency: Army

Property Number: 2119920282

Status: Excess

Comment: 2284 sq. ft., needs repair, presence of asbestos/lead paint, most recent use—club facility, off-site use only.

18 Bldgs.

Fort Lewis

Ft. Lewis Co: Pierce WA 98433-

Location: A0337, A0617, B0820, B0821, C0319, C0833, C0310, C0311, C0318, C1019, D0712, D0713, D0720, D0721, D1108, D1153, C1011, C1018

Landholding Agency: Army

Property Number: 2119920283

Status: Excess

Comment: 1144 sq. ft., needs repair, presence of asbestos/lead paint, most recent use—day room, off-site use only.

Bldg. A0334

Fort Lewis

Ft. Lewis Co: Pierce WA 98433-

Landholding Agency: Army

Property Number: 2119920284

Status: Excess

Comment: 1092 sq. ft., needs repair, presence of asbestos/lead paint, most recent use—sentry station, off-site use only.

7 Bldgs.

Fort Lewis

Ft. Lewis Co: Pierce WA 98433-

Location: C0302, C0303, C0306, C0322, C0323, C0326, C0327

Landholding Agency: Army

Property Number: 2119920285

Status: Excess

Comment: 2340 sq. ft., needs repair, presence of asbestos/lead paint, most recent use—barracks, off-site use only.

12 Bldgs.

Fort Lewis

Ft. Lewis Co: Pierce WA 98433-

Location: C1002, C1003, C1006, C1007, C1022, C1023, C1026, C1027, C1207, C1301, C1333, C1334

Landholding Agency: Army

Property Number: 21199920287

Status: Excess

Comment: 2360 sq. ft., needs repair, presence of asbestos/lead paint, most recent use—barracks, off-site use only.

Bldg. E1010

Fort Lewis

Ft. Lewis Co: Pierce WA 98433-

Landholding Agency: Army

Property Number: 21199920288

Status: Excess

Comment: 148 sq. ft., needs repair, presence of asbestos/lead paint, most recent use—gas station, off-site use only.

Bldg. D1154

Fort Lewis

Ft. Lewis Co: Pierce WA 98433-

Landholding Agency: Army

Property Number: 21199920289

Status: Excess

Comment: 1165 sq. ft., needs repair, presence of asbestos/lead paint, most recent use—day room, off-site use only.

Bldg. 01205

Fort Lewis

Ft. Lewis Co: Pierce WA 98433-

Landholding Agency: Army

Property Number: 21199920290

Status: Excess

Comment: 87 sq. ft., needs repair, presence of asbestos/lead paint, most recent use—storehouse, off-site use only.

Bldg. 01259

Fort Lewis

Ft. Lewis Co: Pierce WA 98433-

Landholding Agency: Army

Property Number: 21199920291

Status: Excess

Comment: 16 sq. ft., needs repair, presence of asbestos/lead paint, most recent use—storage, off-site use only.

Bldg. 01266

Fort Lewis

Ft. Lewis Co: Pierce WA 98433-

Landholding Agency: Army

Property Number: 21199920292

Status: Excess

Comment: 45 sq. ft., needs repair, presence of asbestos/lead paint, most recent use—shelter, off-site use only.

Bldg. 1445

Fort Lewis

Ft. Lewis Co: Pierce WA 98433-

Landholding Agency: Army

Property Number: 21199920294

Status Excess

Comment: 144 sq. ft., needs repair, presence of asbestos/lead paint, most recent use—generator bldg., off-site use only.

Bldg. 02082

Fort Lewis

Ft. Lewis Co: Pierce WA 98433-

Landholding Agency: Army

Property Number: 21199920295

Status : Excess

Comment: 16 sq. ft., needs repair, presence of asbestos/lead paint, most recent use—storage, off-site use only.

Bldgs. 03091, 03099

Fort Lewis

Ft. Lewis Co: Pierce WA 98433-

Landholding Agency: Army

Property Number: 21199920296

Status: Excess

Comment: various sq. ft., needs repair, presence of asbestos/lead paint, most recent use—sentry station, off-site use only.

Bldgs. 03100, 3101

Fort Lewis

Ft. Lewis Co: Pierce WA 98433-

Landholding Agency: Army

Property Number: 21199920297

Status: Excess

Comment: various sq. ft., needs repair, presence of asbestos/lead paint, most recent use—storage, off-site use only.

Bldgs. 4040

Fort Lewis

Ft. Lewis Co: Pierce WA 98433-

Landholding Agency: Army

Property Number: 21199920298

Status: Excess

Comment: 8326 sq. ft., needs repair, presence of asbestos/lead paint, most recent use—shed, off-site use only.

Bldgs. 4072, 5104

Fort Lewis

Ft. Lewis Co: Pierce WA 98433-

Landholding Agency: Army

Property Number: 21199920299

Status: Excess

Comment: 24/36 sq. ft., needs repair, presence of asbestos/lead paint, off-site use only.

Bldg. 4295

Fort Lewis

Ft. Lewis Co: Pierce WA 98433-

Landholding Agency: Army

Property Number: 21199920300

Status: Excess

Comment: 48 sq. ft., needs repair, presence of asbestos/lead paint, most recent use—storage, off-site use only.

Bldgs. 5170

Fort Lewis

Ft. Lewis Co: Pierce WA 98433-

Landholding Agency: Army

Property Number: 21199920301

Status: Excess

Comment: 19,411 sq. ft., needs repair, presence of asbestos/lead paint, most recent use—store, off-site use only.

Bldgs. 6191

Fort Lewis

Ft. Lewis Co: Pierce WA 98433-

Landholding Agency: Army

Property Number: 21199920303

Status: Excess

Comment: 3663 sq. ft., needs repair, presence of asbestos/lead paint, most recent use—exchange branch, off-site use only.

Bldgs. 08076, 08080

Fort Lewis

Ft. Lewis Co: Pierce WA 9843-

Landholding Agency: Army

Property Number: 21199920304

Status: Excess

Comment: 3660/412 sq. ft., needs repair, presence of asbestos/lead paint, off-site use only.

Bldgs. 08093

Fort Lewis

Ft. Lewis Co: Pierce WA 98433-

Landholding Agency: Army

Property Number: 21199920305

Status: Excess

Comment: 289 sq. ft., needs repair, presence of asbestos/lead paint, most recent use—boat storage, off-site use only.

Bldg. 8279

Fort Lewis

Ft. Lewis Co: Pierce WA 98433-

Landholding Agency: Army

Property Number: 21199920306

Status: Excess

Comment: 210 sq. ft., needs repair, presence of asbestos/lead paint, most recent use—fuel disp. fac., off-site use only.

Bldgs. 8280, 8291

Fort Lewis

Ft. Lewis Co: Pierce WA 98433-

Landholding Agency: Army

Property Number: 21199920307

Status: Excess

Comment: 800/464 sq. ft., needs repair, presence of asbestos/lead paint, most recent use—storage, off-site use only.

Bldg. 8956

Fort Lewis

Ft. Lewis Co: Pierce WA 98433-

Landholding Agency: Army

Property Number: 21199920308

Status: Excess

Comment: 100 sq. ft., needs repair, presence of asbestos/lead paint, most recent use—storage, off-site use only.

Bldg. 9530

Fort Lewis

Ft. Lewis Co: Pierce WA 98433-

Landholding Agency: Army

Property Number: 21199920309

Status: Excess

Comment: 64 sq. ft., needs repair, presence of asbestos/lead paint, most recent use—sentry station, off-site use only.

Bldg. 9574

Fort Lewis

Ft. Lewis Co: Pierce WA 98433-

Landholding Agency: Army

Property Number: 21199920310

Status: Excess

Comment: 6005 sq. ft., needs repair, presence of asbestos/lead paint, most recent use—veh. shop, off-site use only.

Bldg. 9596

Fort Lewis

Ft. Lewis Co: Pierce WA 98433-

Landholding Agency: Army

Property Number: 21199920311

Status: Excess

Comment: 36 sq. ft., needs repair, presence of asbestos/lead paint, most recent use—gas station, off-site use only.

Bldg. 9939

Fort Lewis

Ft. Lewis Co: Pierce WA 98433-

Landholding Agency: Army

Property Number: 21199920313

Status: Excess

Comment: 600 sq. ft., needs repair, presence of asbestos/lead paint, most recent use—recreation, off-site use only.

Bldg. 607

Vancouver Barracks

Vancouver Co: Clark WA 98661-3826

Landholding Agency: Army

Property Number: 21200030120

Status: Unutilized

Comment: 10,120 sq. ft., National Historic Preservation Act requirements, most recent use—office.

Bldg. 614

Vancouver Barracks

Vancouver Co: Clark WA 98661-3826

Landholding Agency: Army

Property Number: 21200030121

Status: Unutilized

Comment: 38,981 sq. ft., National Historic Preservation Act requirements, most recent use—admin.

Bldg. 626

Vancouver Barracks

Vancouver Co: Clark WA 98661-3826

Landholding Agency: Army

Property Number: 21200030122

Status: Unutilized

Comment: 1710 sq. ft., National Historic Preservation Act requirements, most recent use—admin.

Bldg. 628

Vancouver Barracks

Vancouver Co: Clark WA 98661-3826

Landholding Agency: Army

Property Number: 21200030123

Status: Unutilized

Comment: 2621 sq. ft., National Historic Preservation Act requirements, most recent use—admin.

Bldg. 636

Vancouver Barracks

Vancouver Co: Clark WA 98661-3826

Landholding Agency: Army

Property Number: 21200030124

Status: Unutilized

Comment: 9686 sq. ft., National Historic Preservation Act requirements, most recent use—admin.

Bldg. 638

Vancouver Barracks

Vancouver Co: Clark WA 98661-3826

Landholding Agency: Army

Property Number: 21200030125

Status: Unutilized

Comment: 33,822 sq. ft., National Historic Preservation Act requirements, most recent use—admin.

LAND (by State)

Georgia

Land (Railbed)

Fort Benning

Ft. Benning Co: Muscogee GA 31905-

Landholding Agency: Army

Property Number: 21199440440

Status: Unutilized

Comment: 17.3 acres extending 1.24 miles, no known utilities potential.

Maryland

13 acres

Fort George G. Meade

West side of Rt 175

Ft. Meade Co: Anne Arundel MD 20755-5111

Landholding Agency: Army

Property Number 211999930151

Status: Underutilized

Comment: small paved area, remainder wooded.

New York

Land—6.965 Acres

Dix Avenue

Queensbury Co: Warren NY 12801-

Landholding Agency: Army

Property Number: 21199540018

Status: Unutilized

Comment: 9.6 acres of vacant land, located in industrial area, potential utilities.

300 acres

U.S. Military Academy

Highlands Co: Orange NY 10996-1529

Landholding Agency: Army

Property Number: 21200040070

Status: Unutilized

Comment: approx. 300 acres, contains wetlands and rare flora.

Texas

Old Camp Bullis Road

Fort Sam Houston

San Antonio Co: Bexar TX 78234-5000

Landholding Agency: Army

Property Number: 21199420461

Status: Unutilized

Comment: 7.16 acres, rural gravel road.

Castner Range

Fort Bliss

El Paso Co: El Paso TX 79916—

Landholding Agency: Army

Property Number: 21199610788

Status: Unutilized

Comment: approx. 56.81 acres, portion in floodway, most recent use—recreation picnic park.

Suitable/Unavailable Properties

BUILDINGS (by State)

Georgia

Bldg. 4090

Fort Benning

Ft. Benning Co: Muscogee GA 31905—

Landholding Agency: Army

Property Number: 21199630007

Status: Underutilized

Comment: 3530 sq. ft., most recent use—chapel, off-site use only.

Kansas

Bldg. P-295

Fort Leavenworth

Leavenworth Co: Leavenworth KS 66027—

Landholding Agency: Army

Property Number: 21199810296

Status: Unutilized

Comment: 3480 sq. ft., concrete, most recent use—underground storage, off-site use only.

Missouri

Bldg. 2172

Fort Leonard Wood

Ft. Leonard Wood Co: Pulaski MO 65473-8994

Landholding Agency: Army

Property Number: 21200040059

Status: Unutilized

Comment: 2892 sq ft., most recent use—operations, off-site use only.

Bldg. 5041

Fort Leonard Wood

Ft. Leonard Wood Co: Pulaski MO 65473-8994

Landholding Agency: Army

Property Number: 21200040060

Status: Unutilized

Comment: 1000 sq. ft., most recent use—classroom, off-site use only.

Bldg. 5286

Fort Leonard Wood

Ft. Leonard Wood Co: Pulaski MO 65473-8994

Landholding Agency: Army

Property Number: 21200040061

Status: Unutilized

Comment: 1000 sq. ft., most recent use—range support bldg., off-site use only.

Texas

Bldg. P-2000, Fort Sam Houston

San Antonio Co: Bexar TX 78234-5000

Landholding Agency: Army

Property Number: 21199220389

Status: Underutilized

Comment: 49,542 sq. ft., 3-story brick structure, within National Landmark Historic District.

Bldg. P-2001, Fort Sam Houston

San Antonio Co: Bexar TX 78234-5000

Landholding Agency: Army

Property Number: 21199220390

Status: Underutilized

Comment: 16,539 sq. ft., 4-story brick structure, within National Landmark Historic District.

Land (by State)

North Carolina

.92 Acre—Land

Military Ocean Terminal,

Sunny Point

Southport Co: Brunswick NC 28461-5000

Landholding Agency: Army

Property Number: 21199610728

Status: Underutilized

Comment: municipal drinking waterwell, restricted by explosive safety regs., New Hanover County Buffer Zone.

10 Acre—Land

Military Ocean Terminal,

Sunny Point

Southport Co: Brunswick NC 28461-5000

Landholding Agency: Army

Property Number: 21199610729

Status: Underutilized

Comment: municipal park, restricted by explosive safety regs., New Hanover County Buffer Zone.

257 Acre—Land

Military Ocean Terminal,

Sunny Point

Southport Co: Brunswick NC 28461-5000

Landholding Agency: Army

Property Number: 21199610730

Status: Underutilized

Comment: state park, restricted by explosive safety regs., New Hanover County Buffer Zone.

24.83 acres—Tract of Land

Military Ocean Terminal,

Sunny Point

Southport Co: Brunswick NC 28461-5000

Landholding Agency: Army

Property Number: 21199620685

Status: Underutilized

Comment: 24.83 acres, municipal park, most recent use—New Hanover County explosive buffer zone.

Unsuitable Properties

Buildings (by State)

Alabama

12 Bldgs.

Redstone Arsenal

Redstone Arsenal Co: Madison AL 35898-

Landholding Agency: Army

Property Number: 21200040001-21200040012

Status: Unutilized

Reason: Secured Area, Extensive deterioration.

52 Bldgs., Fort Rucker

Ft. Rucker Co: Dale AL 36362

Landholding Agency: Army

Property Number: 219310016, 219330003, 219340116, 219340124, 219410022, 219520057-219520058, 219640440, 219710091, 219730009, 219740004, 219740006, 219810010, 219830002, 21199910001, 21199930019, 21200010010, 21200040013

Status: Unutilized

Reason: Extensive deterioration.

Bldgs. 25203, 25205-25207, 25209

Fort Rucker

Stagefield Areas

Ft. Rucker Co: Dale AL 36362-5138

Landholding Agency: Army

Property Number: 219410020

Status: Unutilized

Reason: Secured area.

Alaska

8 Bldgs., Fort Wainwright

Ft. Wainwright, AK 99703

Landholding Agency: Army

Property Number: 219710090, 219710195-219710198, 219810002, 219810007, 21199920001

Status: Unutilized

Reason: Within 2000 ft. of flammable or explosive material. Secured area—Floodway (Some are extensively deteriorated).

Arizona

32 Bldgs.

Navajo Depot Activity

Bellemont Co: Coconino AZ 86015-

Location: 12 miles west of Flagstaff, Arizona on I-40

Landholding Agency: Army

Property Number: 219014560-219014591

Status: Underutilized

Reason: Secured Area.

10 properties: 753 earth covered igloos; above ground standard magazines

Navajo Depot Activity

Bellemont Co: Coconino AZ 86015-

Location: 12 miles west of Flagstaff, Arizona on I-40.

Landholding Agency: Army

Property Number: 219014592-219014601

Status: Underutilized

Reason: Secured Area.

9 Bldgs.

Navajo Depot Activity

Bellemont Co: Coconino AZ 86015-5000

Location: 12 miles west of Flagstaff on I-40

Landholding Agency: Army

Property Number: 219030273-219030274, 219120175-219120181

Status: Unutilized

Reason: Secured Area.

Arkansas

177 Bldgs., Fort Chaffee

Ft. Chaffee Co: Sebastian AR 72905-5000

Landholding Agency: Army

Property Number: 219630019-219630029, 219640462-219640477

Status: Unutilized

Reason: Extensive deterioration.

88 Bldgs., Fort Chaffee

Maneuver Training Center

Ft. Chaffee Co: Sebastian AR 72905-1370

Landholding Agency: Army

Property Number: 21200110001-21200110017

Status: Unutilized

Reason: Extensive deterioration.

California

Bldg. 18

Riverbank Army Ammunition Plant

5300 Claus Road

Riverbank Co: Stanislaus CA 95367-

Landholding Agency: Army

Property Number: 219012554

Status: Unutilized

Reason: Within 2000 ft. of flammable or explosive material—Secured Area.

11 Bldgs., Nos. 2-8, 156, 1, 120, 181

Riverbank Army Ammunition Plant

Riverbank Co: Stanislaus CA 95367-

Landholding Agency: Army

Property Number: 219013582-219013588, 219013590, 219240444-219240446

Status: Underutilized

Reason: Secured Area.

Bldgs. 13, 171, 178 Riverbank Ammun Plant

5300 Claus Road

Riverbank Co: Stanislaus CA 95367-

Landholding Agency: Army

Property Number: 219120162-219120164

Status: Underutilized

Reason: Secured Area.

22 Bldgs.

DDDRW Sharpe Facility

Tracy Co: San Joaquin CA 95331

Landholding Agency: Army

Property Number: 219610289, 219610291, 21199930021, 21200010011-21200010013, 21200020028-21200020030, 21200030004-21200030015, 21200040015

Status: Unutilized

Reason: Secured Area.

Bldgs.29, 39, 73, 154, 155, 193, 204, 257

Los Alamitos Co: Orange CA 90720-5001

Landholding Agency: Army

Property Number: 219520040

Status: Unutilized

Reason: Extensive deterioration.

Bldgs. 1103, 1131, 1120, 341, 1160

Parks Reserve Forces Training Area

Dublin Co: Alameda CA 94568-5201

Landholding Agency: Army

Property Number: 219520056, 219830010, 21200110021-21200110022

Status: Unutilized

Reason: Extensive deterioration.

10 Bldgs.

Sierra Army Depot

Herlong Co: Lassen CA 96113

Landholding Agency: Army

Property Number: 21199840015, 21199920033-21199920036, 21199940052-21199940056

Status: Underutilized

Reason: Within 2000 ft. of flammable or explosive material. Secured Area.

449 Bldgs.

Camp Roberts

Camp Roberts Co: San Obispo CA

Landholding Agency: Army

Property Number: 21199730014, 219820192-219820235

Status: Excess

Reason: Secured Area—Extensive deterioration.

30 Bldgs.

Presidio of Monterey Annex

Seaside Co: Monterey CA 93944

Landholding Agency: Army

Property Number: 219810380-219810381, 21199930106-21199930108, 21199940050-2119940051

Status: Unutilized

Reason: Extensive deterioration.

32 Bldgs.

Fort Irwin

Ft. Irwin Co: San Bernardino CA 92310

Landholding Agency: Army

Property Number: 21199920037-21199920038, 21200030016-21200030018, 21200040014, 21200110018-21200110020

Status: Unutilized

Reason: Extensive deterioration.

Colorado

Bldgs. T-317, T-412, 431, 433

Rocky Mountain Arsenal

Commerce Co: Adams CO 80022-2180

Landholding Agency: Army

Property Number: 219320013-219320016,

Status: Unutilized

Reason: Within 2000 ft. of flammable or explosive material Secured Area—Extensive deterioration.

34 Bldgs. Fort Carson

Ft. Carson Co: El Paso CO 80913-5023

Landholding Agency: Army

Property Number: 219830020-219830030, 21199910008, 21199930022, 21199930025

Status: Unutilized

Reason: Extensive deterioration.

Bldgs. 00087, 00088, 00096

Pueblo Chemical Depot

Pueblo CO 81006-9330

Landholding Agency: Army

Property Number: 21200030019-21200030021

Status: Unutilized

Reason: Extensive deterioration.

Connecticut

Bldgs. DK001, DKL05, DKL10

USARC Middletown

Middletown Co: Middlesex CT 06457-1809

Landholding Agency: Army

Property Number: 219810024-219810026

Status: Unutilized

Reason: Extensive deterioration.

Georgia

Fort Stewart

Sewage Treatment Plant

Ft. Stewart Co: Hinesville GA 31314-

Landholding Agency: Army

Property Number: 219013922

Status: Unutilized

Reason: Sewage treatment.

Facility 12304

Fort Gordon

Augusta Co: Richmond GA 30905-

Location: Located off Lane Avenue

Landholding Agency: Army

Property Number: 219014787

Status: Unutilized

Reason: Wheeled vehicle grease/inspection rack.

207 Bldgs.

Fort Gordon

Augusta Co: Richmond GA 30905-

Landholding Agency: Army

Property Number: 219220269, 219320026, 219410050-219410060, 219410071-219410072, 219410100, 219410109, 219410114-219410115, 219610336, 219630044-219630067, 219640011-219640037, 219710094, 219730020, 219810027, 219830034-219830067, 21199910012, 21199940059, 21200020032, 21200030022

Status: Unutilized

Reason: Extensive deterioration.

3 Bldgs., Fort Benning

Ft. Benning Co: Muscogee GA 31905

Landholding Agency: Army

Property Number: 219220335-219220337

Status: Unutilized

Reason: Detached lavatory.

29 Bldgs., Fort Benning

Ft. Benning Co: Muscogee GA 31905

Landholding Agency: Army

Property Number: 219520150, 219610320-219610321, 219640046, 219720017-219720022, 219810028-219810031, 219810035, 219830073-219830083, 21199930031-21199930037, 21200030023-21200030028

Status: Unutilized

Reason: Extensive deterioration.

18 Bldgs.

Fort Gillem

Forest Park Co: Clayton GA 30050

Landholding Agency: Army

Property Number: 219620815, 21199920044-21199920051, 21199930026, 21200040019-21200040021

Status: Unutilized

Reason: Extensive deterioration—Secured Area.

Bldg. P8121, Fort Stewart

Hinesville Co: Liberty GA 31314

Landholding Agency: Army

Property Number: 21199940060

Status: Unutilized

Reason: Extensive deterioration.

4 Bldgs., Hunter Army Airfield

Savannah Co: Chatham GA 31409

Landholding Agency: Army

Property Number: 219630034, 219830068, 21200020031

Status: Unutilized

Reason: Extensive deterioration.

3 Bldgs., Fort McPherson

Ft. McPherson Co: Fulton GA 30330-5000

Landholding Agency: Army

Property Number: 21200040016-21200040018

Status: Unutilized

Reason: Secured Area.

Hawaii

16 Bldgs.

Schofield Barracks

Wahiawa Co: Wahiawa HI 96786-

Landholding Agency: Army

Property Number: 219014836-219014837, 219030361, 21200110024-21200110027

Status: Unutilized

Reason: Secured Area—(Most are extensively deteriorated).

Bldg. T-1305

Wheeler Army Airfield

Wahiawa HI 96857

Landholding Agency: Army

Property Number: 219610348

Status: Unutilized

Reason: Extensive deterioration.

3 Bldgs.

Fort Shafter

Honolulu Co: HI 96819

Landholding Agency: Army

Property Number: 21200030029-21200030031

Status: Unutilized

Reason: Extensive deterioration.

Bldg. T-400

Helemano Military Reservation

Wahiawa Co: HI 96786

Landholding Agency: Army

Property Number: 21200110023

Status: Unutilized

Reason: Extensive deterioration.

Illinois

Bldgs. 58, 59 and 72, 69, 64, 105, 135

Rock Island Arsenal

Rock Island Co: Rock Island IL 61299-5000

Landholding Agency: Army

Property Number: 219110104-219110108, 219620427

Status: Unutilized

Reason: Secured Area.

Bldgs. 133, 141 Rock Island Arsenal

Gillespie Avenue

Rock Island Co: Rock Island IL 61299-

Landholding Agency: Army

Property Number: 219210100, 219620428

Status: Unutilized

Reason: Extensive deterioration.

16 Bldgs.

Charles Melvin Price Support Center

Granite City Co: Madison IL 62040

Landholding Agency: Army

Property Number: 219820027, 21199930042-21199930053

Status: Unutilized

Reason: Secured Area, Extensive deterioration, Floodway.

Indiana

181 Bldgs.

Newport Army Ammunition Plant

Newport Co: Vermillion IN 47966-

Landholding Agency: Army

Property Number: 219011584, 219011586-219011587, 219011589-219011590, 219011592-219011627, 219011629-219011636, 219011638-219011641, 219210149-219210151, 219220220, 219230032-219230033, 219430336-219430338, 219520033, 219520042, 219530075-219530097, 219740021-219740026, 219820031-219820032, 21199920063

Status: Unutilized

Reason: Secured Area—(Some are extensively deteriorated.

2 Bldgs.

Atterbury Reserve Forces Training Area

Edinburgh Co: Johnson IN 46124-1096

Landholding Agency: Army

Property Number: 219230030-219230031

Status: Unutilized

Reason: Extensive deterioration.

12 Bldgs., Camp Atterbury

Edinburgh IN 46124

Landholding Agency: Army

Property Number: 219610351-219610352, 219620429-219620434

Status: Unutilized

Reason: Secured Area—Extensive deterioration.

Iowa

96 Bldgs.

Iowa Army Ammunition Plant

Middletown Co: Des Moines IA 52638-

Landholding Agency: Army

Property Number: 219012605-219012607, 219012609, 219012611, 219012613, 219012615, 219012620, 219012622, 219012624, 219013706-219013738, 219120172-219120174, 219440112-219440158, 219520002, 219520070, 219610414, 219740027

Status: Unutilized

Reason: (Many are in a Secured Area)—(Most are within 2000 ft. of flammable or explosive material.)

27 Bldgs., Iowa Army Ammunition Plant

Middletown Co: Des Moines IA 52638

Landholding Agency: Army

Property Number: 219230005-219230029, 219310017, 219340091

Status: Unutilized

Reason: Extensive deterioration.

Kansas

37 Bldgs.

Kansas Army Ammunition Plant

Production Area

Parsons Co: Labette KS 67357-

Landholding Agency: Army

Property Number: 219011909-219011945

Status: Unutilized

Reason: Secured Area—(Most are within 2000 ft. of flammable or explosive material.)

Fort Riley

7 Bldgs.

Ft. Riley Co: Geary KS 66442-

Landholding Agency: Army

Property Number: 219610626, 219620825-219620826, 219630085

Status: Unutilized

Reason: Extensive deterioration.

121 Bldgs.

Kansas Army Ammunition Plant

Parsons Co: Labette KS 67357

Landholding Agency: Army

Property Number: 219620518-219620638

Status: Unutilized

Reason: Secured Area.

Bldg. P-417

Fort Leavenworth

Leavenworth KS 66027

Landholding Agency: Army

Property Number: 219740029

Status: Unutilized

Reason: Extensive deterioration—Sewage pump station.

Kentucky

Bldg. 126

Lexington-Blue Grass Army Depot

Lexington Co: Fayette KY 40511-

Location: 12 miles northeast of Lexington, Kentucky.

Landholding Agency: Army

Property Number: 219011661

Status: Unutilized

Reason: Secured Area—Sewage treatment facility.

Bldg. 12

Lexington-Blue Grass Army Depot

Lexington Co: Fayette KY 40511-

Location: 12 miles Northeast of Lexington, Kentucky.

Landholding Agency: Army

Property Number: 219011663

Status: Unutilized

Reason: Industrial waste treatment plant.

2 Bldgs., Fort Knox

Ft Knox Co: Hardin KY 40121-

Landholding Agency: Army

Property Number: 21199940063, 21200110028

Status: Unutilized

Reason: Extensive deterioration.

21 Bldgs., Fort Campbell

Ft Campbell Co: Christian KY 42223

Landholding Agency: Army

Property Number: 21200110029-21200110049

Status: Unutilized

Reason: Extensive deterioration.

Louisiana

528 Bldgs.

Louisiana Army Ammunition Plant

Doylin Co: Webster LA 71023-

Landholding Agency: Army

Property Number: 219011714-219011716, 219011735-219011737, 219012112, 219013863- 219013869, 219110131, 219240138-219240147, 219420332, 219610049-219610263, 219620002-219620200, 219620749-219620801, 219820047-219820078

Status: Unutilized

Reason: Secured Area—(Most are within 2000 ft. of flammable or explosive material)—(Some are extensively deteriorated).

17 Bldgs., Fort Polk

Ft. Polk Co; Vernon Parish LA 71459-7100

Landholding Agency: Army

Property Number: 21199920070, 21199920078, 21199940074, 21199940075, 21200030044, 21200040025-21200040029, 21200110050-21200110051

Status: Unutilized

Reason: Extensive deterioration—(Some are in Floodway).

Maryland

143 Bldgs.

Aberdeen Proving Ground

Aberdeen City Co: Harford MD 21005-5001

Landholding Agency: Army

Property Number: 219011417, 219012610, 219012626, 219012628, 219012634, 219012637-219012642, 219012649, 219012650, 219012658-219012662, 219013773, 219014711, 219610480, 219610489-219610490, 219730077-219730084, 219810070-219810127, 219820081-219820096, 219830114, 2199920081, 21200010046-21200010060, 21200020049-21200020050, 21200040030

Status: Unutilized

Reason: Most are in a secured area.—(Some are within 2000 ft. of flammable or explosive material)—(Some are in a floodway) (Some are extensively deteriorated)

32 Bldgs. Ft. George G. Meade

Ft. Meade Co: Anne Arundel MD 20755-

Landholding Agency: Army

Property Number: 219130059, 219310031, 219710186-219710192, 219740068-219740078, 219810065-219810069, 21199910018, 21199910019, 21199930055-21199930058, 21199940084, 21199940086

Status Unutilized

Reason: Extensive deterioration.

Massachusetts

Bldg. 3462, Camp Edwards

Massachusetts Military Reservation

Bourne Co: Barnstable MA 024620-5003

Landholding Agency: Army

Property Number: 219230095

Status: Unutilized

Reason: Secured Area—Extensive deterioration.

Bldgs. 3596, 1209-1211 Camp Edwards

Massachusetts Military Reservation

Bourne Co: Barnstable MA 02462-5003

Landholding Agency: Army

Property Number: 219230096, 219310018-219310020

Status: Unutilized

Reason: Secured Area

Facility No. 0G001

LTA Granby

Granby Co: Hampshire MA

Landholding Agency: Army

Property Number: 219810062

Status: Unutilized

Reason: Extensive deterioration.

Michigan

Detroit Arsenal Tank Plant

28251 Van Dyke Avenue

Warren Co: Macomb MI 48090-

Landholding Agency: Army

Property Number: 21901405

Status: Underutilized

Reason: Secured Area.

Bldgs. 5755-5756

Newport Weekend Training Site

Carleton Co: Monroe MI 48166

Landholding Agency: Army

Property Number: 219310060-219310061

Status: Unutilized

Reason: Secured Area—Extensive deterioration.

25 Bldgs.

Fort Custer Training Center

2501 26th Street

Augusta Co: Kalamazoo MI 49102-9205

Landholding Agency: Army

Property Number: 219014947-219014963, 219140447-219140454

Status: Unutilized

Reason: Secured Area.

10 Bldgs.

Selfridge ANG Base

Selfridge Co: MI 48045

Landholding Agency: Army

Property Number: 21199930059, 21199940089-21199940093, 21200110052-21200110055

Status: Unutilized

Reason: Secured Area.

Minnesota

169 Bldgs.

Twin Cities Army Ammunition Plant

New Brighton Co: Ramsey MN 55112-

Landholding Agency: Army

Property Number: 219120165-219120166, 219210014-219210015, 219220227-219220235, 219240328, 219310055-219310056, 219320145-219320156, 219330096-219330108, 219340015, 219410159-219410189, 219420195-219420283, 219430059-219430064, 21199840060

Status: Unutilized

Reason: Secured Area—(Most are within 2000 ft. of flammable or explosive material.)—(Some are extensively deteriorated).

Missouri

83 Bldgs.

Lake City Army Ammo. Plant

Independence Co: Jackson MO 64050-

Landholding Agency: Army

Property Number: 219013666-219013669, 219530134-219530138, 21199910023-21199910035, 21199920082, 21200030049

Status: Unutilized

Reason: Secured Area (Some are within 2000 ft. of flammable or explosive material).

9 Bldgs.

St. Louis Army Ammunition Plant

4800 Goodfellow Blvd.

St. Louis Co: St. Louis MO 63120-1798

Landholding Agency: Army

Property Number: 219120067-219120068, 219610469-219610475

Status: Unutilized

Reason: Secured Area (Some are extensively deteriorated).

14 Bldgs.

Fort Leonard Wood

Ft. Leonard Wood Co: Pulaski MO 65473-5000

Landholding Agency: Army

Property Number: 219430070-219430078, 219830115-219830116, 21199910020-21199910022, 21199930060

Status: Unutilized

Reason: Within 2000 ft. of flammable or explosive material (Some are extensively deteriorated).

Montana

19 Bldgs.

Fort Harrison

Ft. Harrison Co: Lewis/Clark MT 59636

Landholding Agency: Army

Property Number: 219620473-219620475, 219740093-219740101

Status: Unutilized

Reason: Within 2000 ft. of flammable or explosive material Extensive deterioration.

Nevada

Bldg 292

Hawthorne Army Ammunition Plant

Hawthorne Co: Mineral NV 89415-

Landholding Agency: Army

Property Number: 219013614

Status: Unutilized

Reason: Secured Area.

Bldg 396

Hawthorne Army Ammunition Plant

Bachelor Enlisted Qtrs W/Dining Facilities

Hawthorne Co: Mineral NV 89415-

Location: East side of Decatur Street—North of Maine Avenue

Landholding Agency: Army

Property Number: 219011997

Status: Unutilized

Reason: Within airport runway clear zone Secured Area.

39 Bldgs.

Hawthorne Army Ammunition Plant

Hawthorne Co: Mineral NV 89415-

Landholding Agency: Army

Property Number: 219012013, 219013615-219013643

Status: Underutilized

Reason: Secured Area (Some within airport runway clear zone; many within 2000 ft. of flammable or explosive material).

Group 101, 34 Bldgs.

Hawthorne Army Ammunition Plant Co: Mineral NV 89415-0015

Landholding Agency: Army

Property Number: 219830132

Status: Unutilized

Reason: Within 2000 ft. of flammable or explosive material, Secured Area.

New Jersey

218 Bldgs.

Armament Res. Dev. & Eng. Ctr.

Picatinny Arsenal Co: Morris NJ 07806-5000

Landholding Agency: Army

Property Number: 219010440-219010474, 219010476, 219010478, 219010639-219010665, 219010671-219010721, 219012424, 219012427-219012428, 219012430, 219012433-219012466, 219012469-219012472, 219012475, 219012760, 219012763-219012767, 219014306-219014307, 219014311, 219014313-219014321, 219140617, 219230121-219230125, 219420001-219420002, 219420006-219420008, 219530144-219530150, 219540002-219540007, 219740110-219740127

Status: Excess

Reason: Secured Area (Most are within 2000 ft. of flammable or explosive material). (Some are extensively deteriorated) (Some are in a floodway)

Structure 403B

Armament Research, Dev. & Eng. Center

Picatinny Arsenal Co: Morris NJ 07806-5000

Landholding Agency: Army

Property Number: 219510001

Status: Unutilized

Reason: Drop Tower.

9 Bldgs.

Armament Research

Picatinny Arsenal Co: Morris NJ 07806-5000

Landholding Agency: Army

Property Number: 21199940094-21199940099

Status: Unutilized

Reason: unexploded ordnance Extensive deterioration.

Bldg. T05134

Fort Dix

Ft. Dix Co: Burlington NJ 08640-5505

Landholding Agency: Army

Property Number: 21200040031

Status: Unutilized

Reason: Extensive deterioration.

Bldgs. 432, 899

Ft. Monmouth

Ft. Monmouth Co: NJ 07703

Landholding Agency: Army

Property Number: 2120010056-21200110057

Status: Unutilized

Reason: Extensive deterioration.

New Mexico

Bldg. 23644

White Sands Missile Range

White Sands Co: Dona Ana NM 88002

Landholding Agency: Army

Property Number: 21200030057

Status: Unutilized

Reason: Extensive deterioration.

New York

Bldgs. 110, 143, 2084, 2105, 2110

Seneca Army Depot

Romulus Co: Seneca NY 14541-5001

Landholding Agency: Army

Property Number: 219240439, 219240440-21940443

Status: Unutilized

Reason: Secured Area, extensive deterioration.

Parcel 19

Stewart Army Subpost, U.S. Military Academy

New Windsor Co: Orange NY 12553

Landholding Agency: Army

Property Number: 219730098

Status: Unutilized

Reason: Within airport runway clear zone.

Bldg. 12

Watervliet Arsenal

Watervliet NY

Landholding Agency: Army

Property Number: 219730099

Status: Unutilized

Reason: Extensive deterioration.

Bldg. 134

Watervliet Arsenal Co: Albany NY 12189-4050

Landholding Agency: Army

Property Number: 21199840068

Status: Unutilized

Reason: Secured Area.

Bldgs. 4056, 4275

Stewart Army Subpost

New Windsor Co: Orange NY 12553

Landholding Agency: Army

Property Number: 21199930061

Status: Unutilized

Reason: Sewage pump station.

North Carolina

85 Bldgs. Fort Bragg

Ft. Bragg Co: Cumberland NC 28307

Landholding Agency: Army

Property Number: 219620478, 219620480, 219640064, 219640074, 219710102-219710111, 219710224, 219810167, 219830117, 219830120, 21199930062-21199930067, 21200040032-21200040037

Status: Unutilized

Reason: Extensive deterioration.

Bldgs. 16, 139, 216, 273

Military Ocean Terminal

Southport Co: Brunswick NC 28461-5000

Landholding Agency: Army

Property Number: 219530155, 219810158-219810160

Status: Unutilized

Reason: Secured Area.

North Dakota

Bldgs. 440, 455, 456, 3101, 3110

Stanley R. Mickelsen

Nekoma Co: Cavalier ND 58355

Landholding Agency: Army

Property Number: 21199940103-21199940107

Status: Unutilized

Reason: Extensive deterioration.

Ohio

190 Bldgs.

Ravenna Army Ammunition Plant

Ravenna Co: Portage OH 44266-9297

Landholding Agency: Army

Property Number: 219012476-219012507, 219012509-219012513, 219012515, 219012517-219012518, 219012520, 219012522-219012523, 219012525-219012528, 219012530-219012532, 219012534-219012535, 219012537, 219013670-219013677, 219013781, 219210148, 21199840069-21199840104, 21199930070-21199930072

Status: Unutilized

Reason: Secured Area.

7 Bldgs.

Lima Army Tank Plant

Lima OH 45804-1898

Landholding Agency: Army

Property Number: 219730104-219730110

Status: Unutilized

Reason: Secured Area.

4 Bldgs.

Defense Supply Center

Columbus Co: Franklin OH 43216-5000

Landholding Agency: Army

Property Number: 219830134, 2119910037, 21199930068, 21200020052

Status: Unutilized

Reason: Extensive deterioration.

Oklahoma

548 Bldgs.

McAlester Army Ammunition Plant

McAlester Co: Pittsburg OK 74501-5000

Landholding Agency: Army

Property Number: 219011674, 219011680, 219011684, 219011687, 219012113, 219013981-219013991, 219013994, 219014081-219014102, 219014104, 219014107-219014137, 219014141-219014159, 219014162, 219014165-219014216, 219014218-219014274, 219014336-219014559, 219030007-219030127, 219040004, 21199910039-21199910040

Status: Underutilized

Reason: Secured Area. (Some are within 2000 ft. of flammable or explosive material)

5 Bldgs.

Fort Sill

Lawton Co: Comanche OK 73503-

Landholding Agency: Army

Property Number: 219140548, 219140550, 219440309, 219510023, 219730342

Status: Unutilized

Reason: Extensive deterioration.

33 Bldgs.

McAlester Army Ammunition Plant

McAlester Co: Pittsburg OK 74501

Landholding Agency: Army

Property Number: 219310050-219310052, 219320170-219320171, 219330149-219330160, 219430122-219430125, 219620485-219620490, 219630110-219630111, 219810174-219810176

Status: Unutilized

Reason: Secured Area. (Some are extensively deteriorated)

Oregon

11 Bldgs.

Tooele Army Depot

Umatilla Depot Activity

Hermiston Co: Morrow/Umatilla OR 97838-

Landholding Agency: Army

Property Number: 219012174-219012176, 219012178-219012179, 219012190-219012191, 219012197-219012198, 219012217, 219012229

Status: Underutilized

Reason: Secured Area.

34 Bldgs.

Tooele Army Depot

Umatilla Depot Activity

Hermiston Co: Morrow/Umatilla OR 97838-

Landholding Agency: Army

Property Number: 219012177, 219012185-219012186, 219012189, 219012195-219012196, 219012199-219012205, 219012207-219012298, 219012225, 219012279, 219014304-219014305, 219014782, 219030362-219030363, 219120032, 21199840107-21199840110, 2119920084-21199920090

Status: Unutilized

Reason: Secured Area.

Pennsylvania

Bldg. T-685, Carlisle Barracks

Carlisle Co: Cumberland PA 17013

Landholding Agency: Army

Property Number: 219610530

Status: Unutilized

Reason: Extensive deterioration.

74 Bldgs.

Fort Indiantown Gap

Annville Co: Lebanon PA 17003-5011

Landholding Agency: Army

Property Number: 219640337, 219720093, 219730116-219730128, 219740129-219740132, 219740134, 219740137, 219810177-219810194

Status: Unutilized

Reason: Extensive deterioration.

15 Bldgs.

Defense Distribution Depot

New Cumberland Co: York PA 17000-5001

Landholding Agency: Army

Property Number: 219830135, 21199940108-21199940112, 21200030060, 21200110058-212000110063

Status: Unutilized

Reason: Secured Area.

South Carolina

43 Bldgs., Fort Jackson

Ft. Jackson Co: Richland SC 29207

Landholding Agency: Army

Property Number: 219440237, 219440239, 219510017, 219620306, 219620312, 219620317, 219620348-219620351 219640138-219640139, 21199640148-21199640149, 219640167, 219720095, 219720097, 219730130, 219730132, 219730145-219730157, 219740138, 219820102-219820111, 219830139-219830157

Status: Unutilized

Reason: Extensive deterioration.

Tennessee

33 Bldgs.

Holston Army Ammunition Plant

Kingsport Co: Hawkins TN 61299-6000

Landholding Agency: Army

Property Number: 219012304-219012309, 219012311-219012312, 219012314, 219012316-219012317, 219012319, 219012325, 219012328, 219012330 219012332, 219012334-219012335, 219012337, 219013789-219013790, 219030266, 219140613, 219330178, 219440212-219440216, 219510025-219510028, 21200040038

Status: Unutilized

Reason: Secured Area (Some are within 2000 ft. of flammable or explosive material).

10 Bldgs.

Milan Army Ammunition Plant

Milan Co: Gibson TN 38358

Landholding Agency: Army

Property Number: 219240447-219240449, 219320182-219320184, 219330176-219330177, 219219520034, 219219740139

Status: Unutilized

Reason: Secured Area.

Bldg. Z-183A

Milan Army Ammunition Plant

Milan Co: Gibson TN 38358

Landholding Agency: Army

Property Number: 219240783

Status: Unutilized

Reason: Within 2000 ft. of flammable or explosive material.

Texas

20 Bldgs.

Lone Star Army Ammunition Plant

Highway 82 West

Texarkana Co: Bowie TX 75505-9100

Landholding Agency: Army

Property Number: 219012524, 219012529, 219012533, 219012536, 219012539-219012540, 219012542, 219012544-219012545, 219030337-219030345

Status: Unutilized

Reason: Within 2000 ft. of flammable or explosive material, Secured Area.

225 Bldgs.

Longhorn Army Ammunition Plant

Karnack Co: Harrison TX 75661-

Location: State highway 43 north

Landholding Agency: Army

Property Number: 219012546, 219012548, 219012555-219610584, 219610635, 219620244-219620287, 219620827-219620837 21200020054-21200020070

Status: Unutilized

Reason: Secured Area (Most are within 2000 ft. of flammable or explosive material).

16 Bldgs., Red River Army Depot

Texarkana Co: Bowie TX 75507-5000

Landholding Agency: Army

Property Number: 219420314-219420327, 219430094-219430097

Status: Unutilized

Reason: Secured Area (Some are extensively deteriorated).

7 Bldgs., Fort Sam Houston

San Antonio Co: Bexar TX 78234-5000

Landholding Agency: Army

Property Number: 219610549, 219640172, 219640177, 219640182 219810200- 219810201, 219830205

Status: Unutilized

Reason: Extensive deterioration.

Bldgs. T-2916, T-3180, T-3192, T-3398, T-2915

Fort Sam Houston

San Antonio Co: Bexar TX 78234-5000

Landholding Agency: Army

Property Number: 219330476-219330479, 219640181

Status: Unutilized

Reason: Detached latrines.

83 Bldgs. Fort Bliss

El Paso Co: El Paso TX 79916

Landholding Agency: Army

Property Number: 219640490-2196440491, 219730160-219730186, 219740146, 219830161-219830197

Status: Unutilized

Reason: Extensive deterioration.

Starr Ranch, Bldg. 703B

Longhorn Army Ammunition Plant

Karnack Co: Harrison TX 75661

Landholding Agency: Army

Property Number: 219640186, 219640494

Status: Unutilized

Reason: Floodway.

Utah

3 Bldgs.

Tooele Army Depot

Tooele Co: Tooele UT 84074-5008

Landholding Agency: Army

Property Number: 219012153, 219012166, 21930366

Status: Unutilized

Reason: Secured Area (Most are extensively deteriorated).

7 Bldgs.

Tooele Army Depot

Tooele Co: Tooele UT 84074-5008

Landholding Agency: Army

Property Number: 219012148-219012149, 219012152, 219012155, 219012158, 219012751, 219240267

Status: Underutilized

Reason: Secured Area.

3 Bldgs.

Dugway Proving Ground

Dugway Co: Toole UT 84002-

Landholding Agency: Army

Property Number: 219013997, 219120012, 219120015

Status: Underutilized

Reason: Secured Area.

59 Bldgs.

Dugway Proving Ground

Dugway Co: Toole UT 84022-

Landholding Agency: Army

Property Number: 219330181-219330182, 219330185, 219420328-219420329, 21199920091-21199920101

Status: Unutilized

Reason: Secured Area.

Bldgs. 3102, 5145, 8030

Deseret Chemical Depot

Tooele UT 84074

Landholding Agency: Army

Property Number: 219820119-219820121

Status: Unutilized

Reason: Secured Area, Extensive deterioration.

Virginia

323 Bldgs.

Radford Army Ammunition Plant

Radford Co: Montgomery VA 24141-

Landholding Agency: Army

Property Number: 219010833, 219010836, 219010839, 219010842, 219010844, 219010847-219010890, 2190101892-219010912, 219011521-219011577, 219011581-219011583, 219011585, 219011588, 219011591, 219013559-219013570, 21911042-219110143, 219120071, 219140618-219140633, 219440219-219440225, 219510031-219510033, 219610607-219610608, 219830223-219830267, 21200020079-21200020081

Status: Unutilized

Reason: Within 2000 ft. of flammable or explosive material, Secured Area.

13 Bldgs.

Radford Army Ammunition Plant

Radford Co: Montgomery VA 24141-

Landholding Agency: Army

Property Number: 219010834-21901035, 219010837-219010838, 219010840-219010841, 219010843, 2190101845-2190101846, 2190101891, 219011578-219011580

Status: Unutilized

Reason: Within 2000 ft. of flammable or explosive material

Secured Area: Latrine, detached structure.

38 Bldgs.

U.S. Armys Combined Arms Support Command

Fort Lee Co: Prince George VA 23801-

Landholding Agency: Army

Property Number: 21924017, 219330210-219330211, 2129330219-219330220, 219330225-219330228, 219520062, 219610597, 219620497, 219620866-219620876, 219630115, 219740156, 219830208-219830210, 21199920117, 21199940128-21199940131, 21200030062, 21200040040, 21200110064-21200110066

Status: Unutilized

Reason: Extensive deterioration (Some are in a secured area).

16 Bldgs.

Radford Army Ammunition Plant

Radford, VA 24141

Landholding Agency: Army

Property Number: 219220210-219220218, 219230100-219230103, 219520037

Status: Unutilized

Reason: Secured Area.

Bldg. B7103-01, Motor House

Radford Army Ammunition Plant

Radford, VA 24141

Landholding Agency: Army

Property Number: 219240324

Status: Unutilized

Reason: Secured Area within 2,000 ft. of flammable or explosive material, extensive deterioration.

56 Bldgs.

Red Water Field Office

Radford Army Ammunition Plant

Radford, VA 24141

Landholding Agency: Army

Property Number: 219430341-219430396

Status: Unutilized

Reason: Within 2,000 ft. of flammable or explosive material, secured area.

15 Bldgs.

Fort A.P. Hill

Bowling Green Co: Caroline VA 22427

Landholding Agency: Army

Property Number: 219510030, 219610588, 21199930079, 21200020073, 21200040041-21200040042, 21200110067-21200110069

Status: Unutilized

Reason: Secured area, extensive deterioration.

Bldgs. 2013-00, B2013-00, A1601-00

Radford Army Ammunition Plant

Radford, VA 24141

Landholding Agency: Army

Property Number: 219520052, 219530194

Status: Unutilized

Reason: Extensive deterioration.

22 Bldgs.

Fort Belvoir

Ft. Belvoir Co: Fairfax VA 22060-5116

Landholding Agency: Army

Property Number: 21199910050-21199910052, 21199920107-21199920109, 21199940117-21199940127, 21200020078, 21200030063-21200030064, 21200110070-21200110073

Status: Unutilized

Reason: Extensive deterioration.

8 Bldgs.

Fort Story

Ft. Story Co: Princess Ann VA 23459

Landholding Agency: Army

Property Number: 219640506, 219710193, 21200040039

Status: Unutilized

Reason: Extensive deterioration.

14 Bldgs., Fort Eustis

Ft. Eustis Co: VA 23604

Landholding Agency: Army

Property Number: 21199930074-21199930075

Status: Unutilized

Reason: Extensive deterioration.

Bldg. 448, Fort Myer

Ft. Myer Co: Arlington, VA 22211-1199

Landholding Agency: Army

Property Number: 21200010069

Status: Unutilized

Reason: Extensive deterioration.

Washington

657 Bldgs., Fort Lewis

Ft. Lewis Co: Pierce WA 98433-5000

Landholding Agency: Army

Property Number: 219610001, 219610006-219610007, 219610009-219610010, 219610012, 219610042-219610046, 219620512-219620517, 219640193, 219720142-219720151, 219810205-219810243, 219820130-219820132, 21199840118, 21199910063-21199910080, 21199920125-21199920181, 21199930080-21199930105, 21199940134, 21200030065

Status: Unutilized

Reason: Secured Area

Extensive deterioration.

10 Bldgs., Fort Lewis

Huckleberry Creek Mountain Training Site

Co: Pierce WA

Landholding Agency: Army

Property Number: 219740162-219740171

Status: Unutilized

Reason: Extensive deterioration.

Bldg. 415, Fort Worden

Port Angeles Co: Clallam WA 98362

Landholding Agency: Army

Property Number: 21199910062

Status: Excess

Reason: Extensive deterioration.

Bldg. U515A, Fort Lewis

Ft. Lewis Co: Pierce WA 98433

Landholding Agency: Army

Property Number: 21199920124

Status: Excess

Reason: Gas chamber.

Bldg. 303

Yakima Training Center

Yakima Co: WA 98901

Landholding Agency: Army

Property Number: 21200010074

Status: Unutilized

Reason: Extensive deterioration.

Wisconsin

6 Bldgs.

Badger Army Ammunition Plant

Baraboo Co.: Sauk WI 53913-

Landholding Agency: Army

Property Number: 219011094, 219011209-219011212, 219011217

Status: Underutilized

Reason: Within 2000 ft. of flammable or explosive material Friable asbestos Secured Area.

153 Bldgs.

Badger Army Ammunition Plant

Baraboo Co: Sauk WI 53913-

Landholding Agency: Army

Property Number: 219001104, 219001106, 2190011108-219011113, 219001115-2190011117, 2190011119-219011120, 2190011122-219011139, 219001141-219011142, 219011144, 2190011148-219011208, 219011213-219011216, 219011218-219001234, 219001236, 219011238, 219011240, 219011242, 219011244, 219011247, 219011249, 219011251, 219011256, 219011259, 219011263, 219011265, 219011268, 219011270, 219011275, 219011277, 219011280, 219011282, 219011284, 219011286, 219011290, 219011293, 219011295, 219011297, 219011300, 219011302, 219011304-219011311, 219011317, 219011319-219011321, 219011323

Status: Unutilized

Reason: Within 2000 ft. of flammable or explosive material. Friable asbestos. Secured Area.

4 Bldgs.

Badger Army Ammunition Plant

Baraboo Co: Sauk WI

Landholding Agency: Army

Property Number: 219013871-219013873, 219013875

Status: Underutilized

Reason: Secured Area.

22 Bldgs.

Badger Army Ammunition Plant

Baraboo Co: Sauk WI

Landholding Agency: Army

Property Number: 219013876-219013878, 219220295-219220311, 219510065-219510067

Status: Unutilized

Reason: Secured Area.

743 Bldgs.

Badger Army Ammunition Plant

Baraboo Co: Sauk WI 53913-

Landholding Agency: Army

Property Number: 219210097-219210099, 219740184-219740271, 21200020083-21200020155

Status: Unutilized

Reason: Within 2000 ft. of flammable or explosive material, Secured Area.

124 Bldgs.

Badger Army Ammunition Plant

Baraboo Co: Sauk WI 53913

Landholding Agency: Army

Property Number: 219510069-219510077

Status: Unutilized

Reason: Secured Area Extensive deterioration.

Bldg. 457

Fort McCoy

Ft. McCoy Co: Monroe WI 54656-5136

Landholding Agency: Army

Property Number: 21200110074

Status: Unutilized

Reason: Extensive deterioration.

Land (by State)

Alabama

23 acres and 2284 acres

Alabama Army Ammunition Plant

110 Hwy. 235

Childersburg Co: Talladega AL 35044-

Landholding Agency: Army

Property Number: 219210095-219210096

Status: Excess

Reason: Secured Area.

Indiana

Newport Army Ammunition Plant

East of 14th St. & North of S. Blvd.

Newport Co: Vermillion IN 47966-

Landholding Agency: Army

Property Number: 219012360

Status: Unutilized

Reason: Within 2000 ft. of flammable or explosive material, Secured Area.

Maryland

Carroll Island, Graces Quarters

Aberdeen Proving Ground

Edgewood Area

Aberdeen City Co: Harford MD 21010-5425

Landholding Agency: Army

Property Number: 219012630, 219012632

Status: Underutilized

Reason: Floodway, Secured Area.

Minnesota

Portion of R.R. Spur

Twin Cities Army Ammunition Plant

New Brighton Co: Ramsey MN 55112

Landholding Agency: Army

Property Number: 219620472

Status: Unutilized

Reason: Landlocked.

New Jersey

Land

Armament Research Development & Eng. Center

Route 15 North

Picatinny Arsenal Co: Morris NJ 07806-

Landholding Agency: Army

Property Number: 219013788

Status: Unutilized

Reason: Secured Area.

Spur Line/Right of Way

Armament Rsch Dev., & Eng. Center

Picatinny Arsenal Co: Morris NJ 07806-5000

Landholding Agency: Army

Property Number: 219530143

Status: Unutilized

Reason: Floodway

2.0 Acres, Berkshire Trail

Armament Rsch Dev., & Eng. Center

Picatinny Arsenal Co: Morris NJ 07806-5000

Landholding Agency: Army

Property Number: 21199910036

Status: Underutilized

Reason: Within 2000 ft. of flammable or explosive material, Secured area.

Ohio

0.4051 acres, Lot 40 & 41

Ravenna Army Ammunition Plant

Ravenna Co: Portage OH 44266-9297

Landholding Agency: Army

Property Number: 219630109

Status: Excess

Reason: Within 2000 ft. of flammable or explosive material.

Oklahoma

McAlester Army Ammunition Plant

McAlester Co: Pittsburgh OK 74501-

Landholding Agency: Army

Property Number: 219014603

Status: Underutilized

Reason: 2000 ft. of flammable or explosive material.

Texas

Land—Approx. 50 acres

Lone Star Army Ammunition Plant

Texarkana Co: Bowie TX 75505-9100

Landholding Agency: Army

Property Number: 219420308

Status: Unutilized

Reason: Secured Area.

Wisconsin

Land

Badger Army Ammunition Plant

Baraboo Co: Sauk WI 53913—

Location: Vacant land within plant boundaries.

Landholding Agency: Army

Property Number: 219013783

Status: Unutilized

Reason: Secured Area.

[FR Doc. 01-4332 Filed 2-22-01; 8:45 am]

BILLING CODE 4210-29-M